DEPARTMENT OF TRANSPORTATION

Coast Guard

33 CFR Part 151

46 CFR Parts 30, 150, 151, and 153

[USCG 2000-7079]

RIN 2115-AF96

Noxious Liquid Substances, Obsolete Hazardous Materials in Bulk, and Current Hazardous Materials in Bulk

AGENCY: Coast Guard, DOT.

ACTION: Direct final rule.

SUMMARY: The Coast Guard revises its rules on carriage of hazardous materials in bulk, treating the rules in three parts. This three-part revision will update the tables of hazardous materials transportable in bulk and better inform persons shipping any such materials of those materials' compatibility and of requirements for special handling. It should make the carriage of such materials safer.

DATES: This rule is effective March 8, 2001, unless a written adverse comment or a written notice of intent to file one reaches the Docket Management Facility on or before February 6, 2001. If either does reach the Facility, the Coast Guard may withdraw this rule and publish a timely notice of withdrawal in the Federal Register. If neither does, the Coast Guard will publish a document affirming the effectiveness of this rule. If an adverse comment applies to an amendment, a section, or a paragraph of this rule and we can withdraw that provision without defeating the purpose of this rule, we may withdraw that provision and adopt as final only the other provisions.

ADDRESSES: Please identify your comments and related material for this rulemaking by the number of the docket [USCG 2000-7079]. To make sure they do not enter the docket more than once, please submit them by only one of the following means:

(1) By mail to the Facility, U.S. Department of Transportation, room PL-401, 400 Seventh Street SW., Washington, DC 20590-0001.

(2) In person to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web site for the Docket Management System at http://dms.dot.gov.

FOR FURTHER INFORMATION CONTACT: For questions on this rule, call Mr. Curtis G. Payne, Project Manager, Hazardous Materials Standards Division, Coast Guard, telephone 202-267-1217. For questions on viewing or submitting material to the docket, call Dorothy Beard, Chief, Dockets, Department of Transportation, telephone 202-366-9329.

The Facility maintains the public docket for this rulemaking. Comments and material received from the public, as well as documents mentioned in this preamble as being available in the docket, will become part of this docket. You may inspect or copy them at room PL-401 on the Plaza level of the Nassif Building, 400 Seventh Street SW., Washington, DC, between 9 a.m. and 5 p.m., Monday through Friday, except Federal holidays. You may also find them on the Internet at http://dms.dot.gov.

SUPPLEMENTARY INFORMATION: We are revising our rules on Noxious Liquid Substances (NLSs) to include substances recently authorized for carriage by the Coast Guard or added to the Chemical Codes of the International Maritime Organization (IMO) and by making minor technical and editorial changes. We are revising our rules, tables, and lists on carriage of hazardous materials in bulk by deleting from our rules, tables, and lists commodities that are no longer liquid cargoes transportable in bulk, and by canceling the classifications of obsolete commodities not included in those rules, tables, and lists. We are revising our rules on carriage of hazardous materials in bulk by adding cargoes recently authorized for carriage by the Coast Guard or added to the Chemical Codes of the IMO and by making minor technical and editorial changes.

Request for Comments

The Coast Guard encourages you to participate in this rulemaking by submitting comments and related material. If you do so, please include your name and address, identify the number of the docket for this rulemaking [USCG 2000-7079], indicate the specific section of this document to which each comment applies, and give the reason for each comment. You may submit your comments and material by mail, in person, by fax, or electronically to the Facility at the address under ADDRESSES; but please submit your comments and material by only one means. If you submit them by mail or in person, submit them in an unbound format, no larger than 81/2 by 11 inches, suitable for copying and electronic filing. If you submit them by mail and would like to know they reached the Facility, please enclose a stamped, self-addressed postcard or envelope. We will consider all comments and material received during the comment period. We may change this rule in view of them.

Regulatory Information

The Coast Guard is publishing a direct final rule, the procedures for which are outlined in 33 CFR 1.05-55, because it anticipates no adverse comment. If no written adverse comment or written notice of intent to submit one reaches the Facility within the specified comment period, this rule will become effective as stated in the DATES section. In that case, about 30 days before the effective date, we will publish a document in the Federal Register stating that we received no written adverse comments or written notice and confirming that this rule will become effective as scheduled. However, if we receive either, we will publish a document in the Federal Register announcing withdrawal of all or part of this rule. If an adverse comment applies to an amendment, a section, or a paragraph of this rule and we can withdraw the affected provision without defeating the purpose of this rule, we may withdraw that provision and adopt as final only the other provisions. If we decide to proceed with a rulemaking even after receipt of an adverse comment, we will withdraw the direct final rule and publish a separate notice of proposed rulemaking (NPRM) and provide a new opportunity for comment.

A comment is “adverse” if it explains why this rule would be inappropriate, by reason of either its premise or its approach, or would be ineffective or unacceptable without a change.

Background and Purpose

Because the United States is a party to the International Convention for the Prevention of Pollution from Ships, 1973, as modified by the Protocol of 1978 relating thereto (MARPOL 73/78), the Coast Guard must amend its rules to ensure that they stay consistent with the Chemical Codes of the IMO.

In this rule, we address Noxious Liquid Substances, Obsolete Hazardous Materials, and Current Hazardous Materials in Bulk.

Noxious Liquid Substances

The Coast Guard is revising its list of Category D other-than-oil-like NLSs, 33 CFR 151.47, and of Category D oil-like NLSs, 33 CFR 151.49(b).

The Coast Guard is revising its list of Category D NLSs by including in this list new entries added by Part C of this rule to Table 30.25-1 of 46 CFR and Tables 1 and 2 of 46 CFR part 153. These are chemicals recently authorized or added to two Chemical Codes of the IMO: “International Code for the Construction and Equipment of Ships Carrying Dangerous Chemicals in Bulk” (IBC Code), and “Code for the Construction and Equipment of Ships Carrying Dangerous Chemicals in Bulk” (BCH Code). This rule mainly updates our lists of chemicals in 33 CFR part 151. Further, because the names of several entries have changed, we will change them in the lists.

IMO has reevaluated several of the Category D chemicals so that they now belong to Pollution Category “III” or count both as “safety” hazards and as “pollution” hazards. Therefore, this rule will remove those currently in the lists.

Obsolete Hazardous Materials

IMO publishes the Circular of the Marine Environmental Protection Committee (MEPC), “Provisional Categorization of Liquid Substances,” a list of commodities whose carriage as bulk liquid cargoes it permits but that it has not yet entered into its Chemical Codes. It reissues the Circular in December of each year. The current edition is MEPC.2/Circ.5, dated December 17, 1999. The purpose of the Circular is to publish “* * * the lists of products, the pollution category and minimum carriage requirements of which have been established through Tripartite Agreements and registered with the Secretariat * * * ” of the Sub-Committee on Bulk Liquids and Gases (BLG) of the IMO.

Of the commodities listed in the Circular, those that have been submitted by the various Administrations to the Working Group on Evaluation of Safety and Pollution Hazards (ESPH) of Chemicals, or that are mixtures of pollutant-only materials, appear in the lists without date of expiry. All other commodities appear with dates of expiry of three years from when first published in the Circular. This grace period of three years is to allow the proposed new commodity to be submitted to the Working Group for final evaluation and inclusion in the Codes, or, as is most often the case, to allow time for any testing that may be needed to complete the data form from IMO where the data were missing in the original submission. At the end of the grace period, any commodity not submitted to the Working Group drops from the Circular and is no longer eligible for carriage in bulk. This rule identifies those commodities.

Last, the Coast Guard periodically reviews its rules, tables, and lists to determine whether any commodities in 33 and 46 CFR are no longer being either manufactured at all or moved in bulk by vessel, and are therefore appropriate for deletion. For interested parties, a preliminary list of commodities that may have become obsolete appears in supplemental material available in the docket [USCG 2000-7079] from the Docket Management Facility.

Current Hazardous Materials in Bulk

This rule updates various hazardous materials tables in 46 CFR parts 30, 150, 151, and 153 to include new chemicals and requirements authorized by international law or by other of our rules. This rule would also make other non-substantive editorial changes.

Supplemental material is available in the docket [USCG 2000-7079], again from the Docket Management Facility.

Discussion of Changes

Noxious Liquid Substances

(a) IMO has assigned the following chemicals to Pollution Category D. We will enter them in 33 CFR 151.47, Category D NLSs other than oil-like Category D NLSs that may be carried under this part.

Aluminum sulfate solution

Coconut oil fatty acid methyl ester

Copper salt of long chain (C17+) alkanoic acid

Dialkyl (C8-C9) diphenylamines

Ethoxylated long chain (C16+) alkyloxyalkanamine

Glyphosate solution (not containing surfactant)

Methyl amyl ketone

Polyolefin amide alkeneamine (C17+)

Sulfonated polyacrylate solution

Sulfurized fat (C14-C20)

Sulfurized polyolefinamide alkene (C28-C250) amine

(b) IMO has reevaluated five chemicals in Pollution Category D and assigned them as cargoes in Pollution Category “III”. We will remove them from § 151.47. They are:

Decane

Decylbenzene

Dialkyl (C10-C14) benzenes

Lecithin (soyabean)

Zinc alkenyl carboxamide

(c) IMO has reevaluated several chemicals and has, on the basis of this, designated them as both “safety” hazards and “pollution” hazards. We will remove them from § 151.47. They are:

Diethanolamine

2-Ethoxyethanol

Ethylene glycol ethyl ether

Ethylene glycol isopropyl ether

Ethylene glycol methyl ether

Ethylene glycol monoalkyl ethers

(d) One entry, “palm kernel oil, fatty acid methyl ester” is obsolete. We will remove it from § 151.47.

(e) We will move names incorrectly cross-referred to under “Polypropylene glycol methyl ether” so they correctly cross-refer to “Propylene glycol monoalkyl ether.”

(f) We will remove “Diisopropyl naphthalene” from the list of Category D oil-like NLSs in 33 CFR 151.49(b). We revised the Pollution Category for this chemical according to the Group of Experts on the Scientific Aspects of Marine Environmental Protection (GESAMP) Hazard Profile. The new Category is “A.” This leaves paragraph (b) an empty set, but we will reserve it.

Obsolete Hazardous Materials

We identify below commodities canceled and deleted from the IMO Circular MEPC.2/Circ.5, PROVISIONAL CATEGORIZATION OF LIQUID SUBSTANCES, and also canceled and deleted from our rules, tables, and lists. We identify the commodities by the IMO Tripartite List in which they appeared with the number of the list in the right-hand column.

IMO Tripartite Lists, MEPC.2/Circ.5, Provisional Categorization of Liquid Substances

List 1: Pure or technically pure substances.

List 2: Pollutant only mixtures classified by calculation or assessed as a mixture.

List 3: Trade-named substances with safety hazards.

List 4: Pollutant only mixtures with greater than 3% unassessed components.

A diamond “A” preceding the name of the cargo indicates the sponsorship of the cargo by the Coast Guard for the U.S. in the Tripartite Agreement process. The absence of a diamond indicates sponsorship of the cargo by an Administration of another country, counterpart to the Coast Guard.

In light of the foregoing, we cancel all chemicals below, referred to in one or another of the four Tripartite Lists, and delete them as bulk liquid cargoes. They are no longer transportable in bulk by the water mode.

Commodities Deleted From IMO Tripartite Lists, MEPC.2

Circ.1, PROVISIONAL CATEGORIZATION OF LIQUID SUBSTANCES (18 Dec. 1995)
| Commodity name (descriptor) | List
◆ | A-964 (ammonium long chain alkaryl sulfonate) | 4
◆ | AL 150 (alkyl(C18-C65) benzene) | 4
◆ | Alcohol(C9-C11)(primary)ethoxylated | 1
| NOTE: This chemical has been renamed “Alcohol(C9-C11) poly(2.5-9) ethoxylate”, which is currently a valid cargo name |
◆ | AMOCO 2400 (zinc alkyl dithiophosphate (C3-C14) and polyolefin amide alkeneamine polyol) | 4
◆ | AMOCO 8072F (zinc alkyl dithiophosphate(C3-C14)) | 4
◆ | AMOCO 9267 (polybutyl phenol) | 4
| Antifreeze 511 (ethylene glycol) | 4
◆ | AO 5301 (polyolefin amine) | 4
| ARCOL Polyol 1905 (1,2,3-propane triol polymer with oxirane and methyloxirane) | 4
| Atar cresylic acid (cresols) | 3
| BEROLAMINE 20 (alkanolamines) | 3
| Brake fluid component 5/9 (polyether polyols) | 4
| Brake Fluid ET 462 (triethylene glycol methyl ether, polyether triols) | 4
◆ | CALTEX CODE 599067 (alkyl phenate sulfide) | 4
◆ | CALTEX CODE 599178 (alkyl phenate sulfide) | 4
| 1-(4-Chlorophenyl)-4,4-dimethyl-3-pentanone | 1
| Co-solvent alcohol (propyl alcohol) | 4
| Depitched tar acid (phenols, cresols) | 3
| 2-Ethylhexyl-2-(2,4-dichlorophenoxy) propionate | 1
◆ | HiTEC 244 (sulpho hydrocarbon, long chain alkyl amine mixture) | 4
◆ | HiTEC 370 (sulpho hydrocarbon, alkenyl dialkyl dithiophosphate mixture) | 4
◆ | HiTEC 4782 (methylene bridged isobutylated phenols) | 4
| Light end/Heavy end Chlorinated hydrocarbon mixture | 3
| LINCOL 86M (1-decanol) | 4
| LM 114 (ethoxylated nonylphenol) | 3
◆ | M-50-A (calcium and magnesium long chain alkaryl sulfonates) | 3
| MANRO SXS 40 (alkylbenzene sulfonic acid, sodium salt solution) | 3
◆ | MCP 121 (ditridecyl adipate) | 4
◆ | MCP 239B (polyisobutenyl anhydride adduct) | 4
◆ | MCP 955A (polyisobutenyl anhydride adduct) | 4
| MD-E-18 (aliphatic C18 ethers and C19 ether alcohol) | 4
| MD-E-20 (aliphatic C20 ethers and C21 ether alcohol) | 4
◆ | MOBIL Stock 2631 (zinc alkyl dithiophosphate(C3-C14)) | 4
◆ | OGA 478 (polyolefin amine) | 4
◆ | OLOA 2564A (polyolefin anhydride) | 4
◆ | OLOA 2564B (polyolefin anhydride) | 4
◆ | OLOA 2820 (diphenylamine reaction product with 2,2,4-trimethylpentene and zinc alkyl dithiophosphate (C3-C14)) | 4
◆ | OLOA 2990 (calcium long chain alkyl phenate sulfide(C8-C40) | 4
◆ | OLOA 6039M (alkyl phenate sulfide) | 4
◆ | OLOA 6063U (alkyl phenol) | 4
◆ | OLOA 6109 (alkyl phenate sulfide) | 4
◆ | OLOA 6121 (alkyl phenol) | 4
◆ | OLOA 6832 (zinc alkyl dithiophosphate (C3-C14)) | 4
◆ | OLOA 6847 (zinc alkyl dithiophosphate (C3-C14)) | 4
◆ | OLOA 6847D (polyolefin amide alkeneamine polyol and zinc alkyl dithio phosphate (C3-C14)) | 4
◆ | OLOA 6848 (diphenylamines, alkylated) | 4
◆ | OLOA 6853 (zinc alkyl dithiophosphate (C3-C14) and polyolefin amide alkeneamine polyol) | 4
◆ | OLOA 6854 (diphenylamines, alkylated) | 4
◆ | OLOA 6856 (diphenylamines, alkylated) | 4
◆ | OLOA 6858 (diphenylamines, alkylated) | 4
◆ | OLOA 6859 (diphenylamines, alkylated) | 4
◆ | OLOA 6859D (polyolefin amide alkeneamine polyol and polyolefin ester) | 4
◆ | OLOA 6881 (alkyl phenate sulfide) | 4
◆ | OLOA 6981 (alkyl phenate sulfide) | 4
◆ | OLOA 8167FA (zinc alkyl dithiophosphate(C3-C14)) | 4
◆ | OLOA 8167G (zinc alkyl dithiophosphate (C3-C14)) | 4
◆ | OLOA 8172 (zinc alkyl dithiophosphate (C3-C14)) | 4
◆ | OLOA 8172A (zinc alkyl dithiophosphate (C3-C14)) | 4
◆ | OLOA 8172M (zinc alkyl dithiophosphate (C3-C14)) | 4
◆ | OLOA 8177 (zinc alkyl dithiophosphate (C3-C14)) | 4
◆ | OLOA 8177C (zinc alkyl dithiophosphate (C3-C14)) | 4
◆ | OLOA 8179 (zinc alkyl dithiophosphate (C3-C14)) | 4
◆ | OLOA 8179A (zinc alkyl dithiophosphate (C3-C14)) | 4
◆ | OLOA 8380G (zinc alkyl dithiophosphate (C3-C14)) | 4
◆ | OLOA 8380V (zinc alkyl dithiophosphate (C3-C14)) | 4
◆ | OLOA 857P (alkyl phenol) | 4
◆ | OLOA 8804E (zinc alkyl dithiophosphate (C3-C14)) | 4
◆ | OLOA 8818 (zinc alkyl dithiophosphate (C3-C14) and polyolefin amide alkeneamine polyol) | 4
◆ | OLOA 8850 (zinc alkyl dithiophosphate (C3-C14)) | 4
◆ | OLOA 8858 (diphenylamines, alkylated) | 4
| OLOA 8858B (diphenylamine (C6-C15) alkylation product) | 4
◆ | OLOA 9091 (alkyl phenate sulfide) | 4
| OMA 431 CS(D) (alkyl(C7-C9) nitrates) | 3
◆ | ORA 502 (polyolefin amine) | 4
◆ | ORA 702 (polyolefin amine) | 4
| OXYSOLVE 80 (aliphatic ketones) | 4
◆ | PARANOX 5277 (zinc alkyl dithiophosphate(C3-C14)) | 4
◆ | PARAPOID 48 (alkylamine (C17+) | 4
◆ | Pibsa (polyolefin anhydride) | 4
| Polyalkyl methacrylate (C1-C20) | 1
| REOFOS 65 (isopropylated phenyl phosphate) | 4
| REOFOS 95 (isopropylated phenyl phosphate) | 4
| SAP 9413 (alcohol(C12-C15) propoxylate) | 4
| Sodium chromate liquor | 1
◆ | STOCK 1462 (alkylamine (C17+) | 4
| Tallow nitrile (Tallow (alkyl nitrile) | 1
◆ | TLA 2400 (zinc alkyl dithiophosphate (C3-C14)) | 4
◆ | TLA 2418 (zinc alkyl dithiophosphate (C3-C14)) | 4
◆ | TLA 2421 (zinc alkyl dithiophosphate (C3-C14)) | 4
◆ | TLA 2422 (zinc alkyl dithiophosphate (C3-C14)) | 4
◆ | TLA 2427 (diphenylamines, alkylated and polyolefin amide alkeneamine (C28+)) | 4
◆ | TLA 2906A (zinc alkyl dithiophosphate (C3-C14)) | 4
◆ | TLA 2907 (zinc alkyl dithiophosphate (C3-C14)) | 4
◆ | TLA 2907A (zinc alkyl dithiophosphate (C3-C14) and calcium long chain alkaryl sulfonate) | 4
◆ | TRILIN (TRIFLURALIN (A,A,A-trifluoro-2,6-dinitro-N,N- dipropyl-p-toluidine)) | 4
| VAMMAR D9 (aliphatic C18 ethers and C19 ether alcohol) | 4
| VAMMAR D10 (aliphatic C20 ethers and C21 ether alcohol) | 4
| VORANOL CP 4100 S Polyol (polyether polyols) | 4

Circ.2, PROVISIONAL CATEGORIZATION OF LIQUID SUBSTANCES (17 Dec. 1996)
| Commodity name (descriptor) | List
| Aliphatic(C18-C20) ethers and alkyl(C20-C21) ether alcohols mixtures | 1
◆ | 2-Ethyl-6-methyl-N-(2-methoxy-1-methyl ethyl) aniline | 1
| Monomer 981 (polyalkyl(C12-C15) methacrylates) | 3
◆ | OLOA 390 (calcium salts of fatty acids) | 4
◆ | PARATEMPS 15 (decyl alcohol) | 4
◆ | PC-709 (polyoxyalkylamine) | 4
◆ | Potassium polysulfide, Potassium thiosulfate solution (41% or less) | 1

Circ.3, PROVISIONAL CATEGORIZATION OF LIQUID SUBSTANCES (17 Dec. 1997)
| Commodity name (descriptor) | List
◆ | Alkaryl polyethers (C65-C95) | 1
| Arcol 1131 (1,2,3-propanetriol polymer) | 4
| Crude Dipe (diisopropyl ether and 2-methylpent-2-ene) | 3
| Diphenyl cresyl phosphate | 1
◆ | MCP 1064D (naphthalene) | 4
◆ | MOBILAD C241B (naphthalene) | 4
◆ | OGA 558R (alkaryl polyethers (C65-C95) | 4
◆ | OLOA 6741 (methylene bridged isobutenylated phenols) | 4
◆ | OLOA 758A (calcium stearate) | 4
◆ | OLOA 6743 (methylene bridged isobutenylated phenols) | 4
| OMA 4391 (alkyl(C7-C9) nitrates) | 3
◆ | PARADYNE 740 (mineral oil) | 4
◆ | PARANOX 152 (mineral oil) | 4
◆ | PARANOX 1155 (methylene bridged isobutenylated phenols) | 4
| Pentacosa(oxypropane-2,3-diyl)s | 1
◆ | POBA (alkaryl polyethers (C65-C95)) | 4
| RGA 900 (alkyl(C7-C9) nitrates) | 3
◆ | Stock 2921.0 (naphthalene) | 4
◆ | TFA-4711 (naphthalene) | 4
◆ | TLA-2422A (zinc alkyl dithiophosphate (C3-C14)) | 4

Circ.4, PROVISIONAL CATEGORIZATION OF LIQUID SUBSTANCES (17 Dec. 1998)
| Commodity name (descriptor) | List
◆ | HiTEC 162 (polyolefin (mw 300+)) | 2
◆ | HiTEC 164 (polyolefin (mw 300+)) | 2
◆ | HiTEC 168 (polyolefin (mw 300+)) | 2
◆ | HiTEC 318 (sulphohydrocarbon, long chain (C18+) alkyl amine mixture) | 2
◆ | HiTEC 612 (calcium long chain alkaryl sulfonate (C11-C50)) | 2
◆ | HiTEC 613 (calcium long chain alkaryl sulfonate (C11-C50)) | 2
◆ | HiTEC 615 (calcium long chain alkaryl sulfonate (C11-C50)) | 2
◆ | HiTEC 619 (alkylphenol sulfide) | 2
◆ | HiTEC 644 (polyolefin amide alkeneamine (C28+)) | 2
◆ | HiTEC 646 (polyolefin amide alkeneamine (C28+)) | 2
◆ | HiTEC 648 (polyolefin amide alkeneamine borate (C28-C250)) | 2
◆ | HiTEC 685 (zinc alkyl dithiophosphate (C3-C8)) | 2
◆ | HiTEC 921 (zinc alkyl dithiophosphate (C3-C14)) | 2
◆ | HiTEC 1102 (zinc alkyl dithiophosphate (C3-C14)) | 2
◆ | HiTEC 2403 (mineral oil) | 2
◆ | HiTEC 2769 (zinc alkyl dithiophosphate (C3-C14)) | 2
◆ | HiTEC 2831 (zinc alkyl dithiophosphate (C3-C14)) | 2
◆ | HiTEC 2837 (zinc alkyl dithiophosphate (C3-C14)) | 2
◆ | HiTEC 2908 (zinc alkyl dithiophosphate (C3-C14)) | 2
◆ | HiTEC 2933 (zinc alkyl dithiophosphate (C3-C14)) | 2
◆ | HiTEC 2934 (zinc alkyl dithiophosphate (C3-C14)) | 2
◆ | HiTEC 4103 | 2
◆ | HiTEC 4105 | 2
◆ | HiTEC 4738 (methylene bridged isobutylated phenols) | 2
◆ | HiTEC 4940 (naphthalene) | 2
◆ | HiTEC 4941 (polyolefin phenolic amine (C28-C250)) | 2
◆ | HiTEC 4949 (naphthalene) | 2
◆ | HiTEC 4950 (naphthalene) | 2
◆ | HiTEC 4961 | 2
◆ | HiTEC 4963A (naphthalene) | 2
◆ | HiTEC 4980 (trimethylbenzene (all isomers)) | 2
◆ | HiTEC 4992 (naphthalene) | 2
◆ | HiTEC 4997 (naphthalene) | 2
◆ | HiTEC 6653 (sulphohydrocarbon (C3-C88)) | 2
◆ | HiTEC 7011 (zinc alkyl dithiophosphate (C3-C14)) | 2
◆ | HiTEC 7023 (zinc alkyl dithiophosphate (C3-C14)) | 2
◆ | HiTEC 7034 (zinc alkyl dithiophosphate (C3-C14)) | 2
◆ | HiTEC 7049 (polyolefin phenolic amine (C28-C250)) | 2
◆ | HiTEC 7065 (polyolefin phenolic amine (C28-C250)) | 2
◆ | HiTEC 7084 (sulphohydrocarbon (C3-C88)) | 2
◆ | HiTEC 7100 (polyolefin amide alkeneamine borate (C28-C250)) | 2
◆ | HiTEC 7160 (calcium long chain alkyl phenate (C8-C40)) | 2
◆ | HiTEC 7169 (zinc alkyl dithiophosphate (C3-C14)) | 2
◆ | HiTEC 7198 (zinc alkyl dithiophosphate (C3-C14)) | 2
◆ | HiTEC 7222 | 2
◆ | HiTEC 7239 (zinc alkyl dithiophosphate (C3-C14)) | 2
◆ | HiTEC 7243 (calcium long chain alkaryl sulfonate (C11-C50)) | 2
◆ | HiTEC 7303 (calcium long chain alkaryl sulfonate (C11-C50)) | 2
◆ | HiTEC 7304 (calcium long chain alkaryl sulfonate (C11-C50)) | 2
◆ | HiTEC 7305 (zinc alkyl dithiophosphate (C3-C14) and polyolefin phenolic amine (C28-C250)) | 2
◆ | HiTEC 7333 (zinc alkyl dithiophosphate (C3-C14) and polyolefin phenolic amine (C28-C250)) | 2
◆ | HiTEC 7334 (calcium long chain alkyl phenate (C8-C40)) | 2
◆ | HiTEC 7365 (calcium long chain alkaryl sulfonate (C11-C50)) | 2
◆ | HiTEC 7383 (zinc alkyl dithiophosphate (C3-C14)) | 2
◆ | HiTEC 7405 (zinc alkyl dithiophosphate (C3-C14) and calcium long chain alkaryl sulfonate (C11-C50)) | 2
◆ | HiTEC 7410 (diphenylamines, alkylated) | 2
◆ | HiTEC 7465 (calcium long chain alkyl phenate (C8-C40)) | 2
◆ | HiTEC 7562 (calcium long chain alkaryl sulfonate (C11-C50)) | 2
◆ | HiTEC 7569 (calcium long chain alkaryl sulfonate (C11-C50)) | 2
◆ | HiTEC 7576 (zinc alkyl dithiophosphate (C3-C14)) | 2
◆ | HiTEC 7635 (magnesium long chain alkaryl sulfonate (C11-C50)) | 2
◆ | HiTEC 7636 (magnesium long chain alkaryl sulfonate (C11-C50)) | 2
◆ | HiTEC 7650 (polyolefin (mw 300+) in mineral oil) | 2
◆ | HiTEC 7714 (polyolefin amide alkeneamine borate (C28-C250)) | 2
◆ | HiTEC 7720 (polyolefin amide alkeneamine borate (C28-C250)) | 2
◆ | HiTEC 7741 (polyolefin phenolic amine (C28-C250)) | 2
◆ | HiTEC 7744 (polyolefin phenolic amine (C28-C250)) | 2
◆ | HiTEC 7829 (zinc alkyl dithiophosphate (C3-C14)) | 2
◆ | HiTEC 7957 (diphenylamines, alkylated) | 2
◆ | HiTEC 9268 (polybutyl phenol) | 4
◆ | HiTEC 9290 (aryl polyolefin (C11-C50)) | 2
◆ | HiTEC 9298 (aryl polyolefin (C11-C50)) | 2
◆ | LUBRIZOL 3580P (zinc alkyl dithiophosphate (C3-C14)) | 2
◆ | LUBRIZOL 4720A (zinc alkyl dithiophosphate (C3-C14)) | 2
◆ | LUBRIZOL 4723B (zinc alkyl dithiophosphate (C3-C14)) | 2
◆ | LUBRIZOL 4837W (zinc alkyl dithiophosphate (C3-C14)) | 2
◆ | LUBRIZOL 4856J (zinc alkyl dithiophosphate (C3-C14)) | 2
◆ | LUBRIZOL 4887 (zinc alkyl dithiophosphate (C3-C14)) | 2
◆ | LUBRIZOL 4898S (zinc alkyl dithiophosphate (C3-C14)) | 2
◆ | LUBRIZOL 4911F (zinc alkyl dithiophosphate (C3-C14)) | 2
◆ | LUBRIZOL 4912 (zinc alkyl dithiophosphate (C3-C14)) | 2
◆ | LUBRIZOL 4923 | 2
◆ | LUBRIZOL 4975G (diphenylamines, alkylated) | 2
◆ | LUBRIZOL 73725 (mineral oil) | 2
◆ | LUBRIZOL 74888 (zinc alkyl dithiophosphate (C3-C14)) | 2
◆ | LUBRIZOL 74890 (diphenylamines, alkylated) | 2
◆ | LUBRIZOL 78008 (oleylamine) | 2
◆ | LUBRIZOL 8888Z (zinc alkyl dithiophosphate (C3-C14)) | 2
◆ | MOBILAD 232 (decyl alcohol (all isomers)) | 2
| Natural (animal/vegetable) fatty acids, (C16-C20) sat/unsat., methyl esters and triglycerides, sulfurized | 1
◆ | t-Octylamine | 1
◆ | OLOA 246B (calcium long chain alkaryl sulfonate (C11-C50)) | 2
| SAP 3333 (calcium long-chain alkyl salicylate (C13+)) | 1
◆ | TFA-4655 (xylene-toluene mixture and polyolefin amine)) | 2

The commodities entered below are ones that we have evaluated for carriage but have not included in this rule, and ones that information we hold indicates no longer to be valid bulk liquid cargoes. We are removing them from our rules, tables, and lists. They are:

Caustic and petroleum residue (dated 30 Mar 90)

Contaminated waste water (dated 20 Mar 85)

Pond waste water (dated 23 Mar 87)

Rainwater contaminated with pink/red water (dated 19 Oct 83)

Waste water (aniline production) (dated 28 Sep 90)

Waste water, Bottom sediment sludge (wood preserving process) (dated 25 Feb 83)

Waste water (coal tar distillation) (dated 20 Apr 94)

Waste water (pond waste water) (dated 11 Sep 97)

Waste water (Santos, Brazil) (dated 15 Jan 93)

The commodities entered below are ones that we had evaluated for carriage and had included in our rules but ones that information we hold indicates no longer to be valid bulk liquid cargoes. We are removing them from our rules, tables, and lists. Again, they are:

Potassium polysulfide, Potassium thiosulfate solution (41% or less)

Propanil, Mesityl oxide, Isophorone mixture

Trifluralin in Xylene

The following commodities, being ones whose classifications the IMO cancelled or ones the Coast Guard believes are no longer viable bulk liquid cargoes, are no longer transportable by the water mode as cargoes in bulk.

A-964

AL 150

Alkaryl polyethers (C65-C95)

Alcohol(C9-C11)(primary)ethoxylated

AMOCO 2400

AMOCO 8072F

AMOCO 9267

Antifreeze 511

AO 5301

Arcol 1131 (1,2,3-propanetriol polymer)

ARCOL Polyol 1905

Atar cresylic acid

BEROLAMINE 20

Brake fluid component 5/9

Brake Fluid ET 462

CALTEX CODE 599067

CALTEX CODE 599178

Caustic and petroleum residue (dated 30 Mar 90)

1-(4-Chlorophenyl)-4,4-dimethyl-3-pentanone

Contaminated waste water (dated 20 Mar 85)

Co-solvent alcohol

Crude Dipe

Depitched tar acid

Diphenyl cresyl phosphate

2-Ethylhexyl-2-(2,4-dichlorophenoxy) propionate

HiTEC 162

HiTEC 164

HiTEC 168

HiTEC 244

HiTEC 318

HiTEC 370

HiTEC 612

HiTEC 613

HiTEC 615

HiTEC 619

HiTEC 644

HiTEC 646

HiTEC 648

HiTEC 685

HiTEC 921

HiTEC 1102

HiTEC 2403

HiTEC 2769

HiTEC 2831

HiTEC 2837

HiTEC 2908

HiTEC 2933

HiTEC 2934

HiTEC 4103

HiTEC 4105

HiTEC 4738

HiTEC 4782

HiTEC 4940

HiTEC 4941

HiTEC 4949

HiTEC 4950

HiTEC 4961

HiTEC 4963A

HiTEC 4980

HiTEC 4992

HiTEC 4997

HiTEC 6653

HiTEC 7011

HiTEC 7023

HiTEC 7034

HiTEC 7049

HiTEC 7065

HiTEC 7084

HiTEC 7100

HiTEC 7160

HiTEC 7169

HiTEC 7198

HiTEC 7222

HiTEC 7239

HiTEC 7243

HiTEC 7303

HiTEC 7304

HiTEC 7305

HiTEC 7333

HiTEC 7334

HiTEC 7365

HiTEC 7383

HiTEC 7405

HiTEC 7410

HiTEC 7465

HiTEC 7562

HiTEC 7569

HiTEC 7576

HiTEC 7635

HiTEC 7636

HiTEC 7650

HiTEC 7714

HiTEC 7720

HiTEC 7741

HiTEC 7744

HiTEC 7829

HiTEC 7957

HiTEC 9268

HiTEC 9290

HiTEC 9298

Light end/Heavy end Chlorinated hydrocarbon mixture

LINCOL 86M

LM 114

LUBRIZOL 3580P

LUBRIZOL 4720A

LUBRIZOL 4723B

LUBRIZOL 4837W

LUBRIZOL 4856J

LUBRIZOL 4887

LUBRIZOL 4898S

LUBRIZOL 4911F

LUBRIZOL 4912

LUBRIZOL 4923

LUBRIZOL 4975G

LUBRIZOL 73725

LUBRIZOL 74888

LUBRIZOL 74890

LUBRIZOL 78008

LUBRIZOL 8888Z

M-50-A

MANRO SXS 40

MCP 121

MCP 239B

MCP 955A

MCP 1064D

MD-E-18

MD-E-20

MOBILAD 232

MOBILAD C241B

MOBIL Stock 2631

Natural (animal/vegetable) fatty acids,

(C16-C20) sat/unsat., methyl esters and

triglycerides, sulfurized

t-Octylamine

OGA 558R

OGA 4784

OLOA 246B

OLOA 758A

OLOA 2564A

OLOA 2564B

OLOA 2820

OLOA 2990

OLOA 6039M

OLOA 6063U

OLOA 6109

OLOA 6121

OLOA 6741

OLOA 6743

OLOA 6832

OLOA 6847

OLOA 6847D

OLOA 6848

OLOA 6853

OLOA 6854

OLOA 6856

OLOA 6858

OLOA 6859

OLOA 6859D

OLOA 6881

OLOA 6981

OLOA 8167FA

OLOA 8167G

OLOA 8172

OLOA 8172A

OLOA 8172M

OLOA 8177

OLOA 8177C

OLOA 8179

OLOA 8179A

OLOA 8380G

OLOA 8380V

OLOA 857P

OLOA 8804E

OLOA 8818

OLOA 8850

OLOA 8858

OLOA 8858B

OLOA 9091

OMA 431 CS(D)

OMA 4391

ORA 502

ORA 702

OXYSOLVE 80

PARADYNE 740

PARANOX 1155

PARANOX 5277

PARAPOID 48

Pentacosa(oxypropane-2,3-diyl)s

Pibsa

POBA

Pond waste water (dated 23 Mar 87)

Potassium polysulfide, Potassium thiosulfate solution (41% or less)

Propanil, Mesityl oxide, Isophorone mixture

Rainwater contaminated with pink/red water (dated 19 Oct 83)

REOFOS 95

REOFOS 664

RGA 900

SAP 3333

SAP 9413

Sodium chromate liquor

STOCK 1462

Stock 2921.0

TFA-4655

TFA-4711

TLA 2400

TLA 2418

TLA 2421

TLA 2422

TLA-2422A

TLA 2427

TLA 2906A

TLA 2907

TLA 2907A

TRILIN (TRIFLURALIN)

Trifluralin in Xylene

VAMMAR D9

VAMMAR D10

VORANOL CP 4100 S Polyol

Waste water (aniline production) (dated 28 Sep 90)

Waste water, Bottom sediment sludge (wood preserving process) (dated 25 Feb 83)

Waste water (coal tar distillation) (dated 20 Apr 94)

Waste water (Pond waste water) (dated 11 Sep 97)

Waste water (Santos, Brazil) (dated 15 Jan 93)

Current Hazardous Materials in Bulk

(a) We add a number of new cargoes to 46 CFR Tables 30.25-1, 151.05, and 1 and 2 of part 153. These comprise cargoes recently authorized by the Coast Guard and cargoes headed for the two Chemical Codes of the IMO—“International Code for the Construction and Equipment of Ships Carrying Dangerous Chemicals in Bulk” (IBC Code) and “Code for the Construction and Equipment of Ships Carrying Dangerous Chemicals in Bulk” (BCH Code)—but not yet included in our rules. Among these cargoes are new ones approved at the IMO Sub-Committee on Bulk Liquids and Gases (BLG), first session, BLG 1, held March 4-8, 1996; the second intersessional meeting (ESPH 2), held September 23-7, 1996; the BLG 2 meeting held April 7-11, 1997; the ESPH 3 meeting held October 13-7, 1997; the BLG 3 meeting held July 6-10, 1998; the ESPH 4 meeting held September 28 through October 2, 1998; the BLG 4 meeting held April 12-6, 1999; and the ESPH 5 meeting held October 18-22, 1999.

(b) From 46 CFR Table 30.25-1, Tables I and II of part 150, Table 151.05, and Tables 1 and 2 of part 153, we remove all bold-faced type wherever it appears and add, in its place, Roman type. Likewise, in the “Cargoes” columns, we remove every “•” and “+” that precedes the name of a cargo.

(c) We revise the “Compatibility of Cargoes” tables in part 150 to include the chemicals added by this rule to the tables of hazardous materials in 46 CFR parts 30, 151, and 153.

Of specific note, we revised the Compatibility Groups of several lube-oil additives (LOAs). After discussions with the manufacturer of the LOAs' reactivity potential, we determined that the Group to which we had originally assigned each does not represent its true reactivity.

| Current | New
Calcium long chain alkyl phenolicamine (C8-C40) | Group 7 | Group 9.
Polyolefin amide alkeneamine borate (C28-C250) | Group 34 | Group 33.
Polyolefin amide alkeneamine polyol | Group 7 | Group 20.
Polyolefin amine (C28-C250) | Group 7 | Group 33.
Polyolefin amine in alkyl- benzenes (C2-C4) | Group 7 | Group 32.
Polyolefin aminoester salt | Group 7 | Group 34.
Sulfurized polyolefinamide alkene-amines (C28-C250) | Group 7 | Group 33.

This rule also corrects several current names of cargoes and cross-refers to other entries in part 150.

(d) In its continued effort to maintain consistency between the rules on tankships (part 153) and those on tank barges (part 151), where applicable, the Coast Guard is adding to Table 1 of part 153 the special requirement in § 153.933, “Chemical protective clothing,” for the commodities below:

(1) Acetic acid

(2) Acetic anhydride

(3) Formic acid

(4) Phosphoric acid

(5) Propionic acid

By this means the Coast Guard brings Table 1 of part 153, like § 153.933, into substantial conformity with the rule on tank barges at § 151.50-73, “Chemical protective clothing.”

(e) In keeping with paragraph (d), the Coast Guard is also applying the special requirement of § 153.933 to the entry “Diethyl sulfate.” (The manufacturer recommended this.)

(f) We will “downgrade” many cargo names in the various tables and lists. These are names whose use as proper cargo names we currently allow but that we cross-refer to other names. That is, they will become non-names (by appearing in Italics and cross-referring to proper cargo names). See the Table of Changes.

(g) Cargo-specific actions of particular interest:

(1) Alkyl (C7-C9) nitrates. Correct the Pollution Category from A to B in Table 1 of 46 CFR part 153.

(2) Ammonium bisulfite. When ammonium bisulfite entered Table 1 of part 153 [60 FR 34051 (June 29, 1995)], we inadvertently omitted special requirement § 153.526, Toxic vapor detectors. With this rule we correct that oversight.

(3) Ammonium sulfide solution (45% or less). We correct the Pollution Category from C to B in Table 1 of part 153.

(4) Benzene hydrocarbon mixtures (containing Acetylenes) (having 10% Benzene or more), Benzene hydrocarbon mixtures (having 10% Benzene or more), and Benzene, Toluene, Xylene mixtures (having 10% Benzene or more). In Table 151.05, we added § 151.50-60 to the section Special Requirements. Final rule CGD 88-040 [56 FR 52112 (October 17, 1991)], which added this requirement, inadvertently did not also add it to the three entries in our rules on tank barges. We are correcting that oversight.

(5) Carbon tetrachloride. In Table I of part 150, carbon tetrachloride, Group 36 (Halogenated hydrocarbons), is not compatible with tetraethylenepentamine or triethylenetetramine, both Group 7 (Aliphatic amines).

(6) Caustic potash solution. We correct the Pollution Category from D to C in Table 1 of part 153.

(7) Dodecyl hydroxypropyl sulfide. The IMO has finalized the set of requirements for carriage of this commodity, bringing about two significant changes. First, IMO originally assigned this commodity to a cargo-containment system of type II (ship type 2) with the special requirement in § 153.409, High level alarms, and with a Provisional Pollution Category of A, or “[A].” Second, it has finally assigned it to a cargo-containment system of type I (ship type 1) with the special requirement in § 153.408, Tank overflow control, and with a final Pollution Category of A. The Coast Guard is revising its lists and tables to reflect these final assignments.

(8) Fatty acids (saturated, C13+). IMO has revised the cargo name “fatty acids (saturated, C13+)” to read “fatty acids (saturated, C14+),” a change in the carbon-range designator. It had to do this because an entry exists for “tridecanoic acid” a C13 fatty acid with a Pollution Category of B. But the current name “fatty acids (saturated, C13+),” Pollution Category III, includes “tridecanoic acid.” The Coast Guard is revising its lists and tables to pick up this change.

(9) 2-Hydroxyethyl acrylate. The Coast Guard has reevaluated the Compatibility Group, Part 150, for the cargo “2-hydroxyethyl acrylate” and assigned the cargo to Group 14, Acrylates. Currently, 2-Hydroxyethyl acrylate resides in Group 0 with restriction against stowage adjacent to Groups 2, 3, 5 to 8, and 12 in the Compatibility Chart. Its reassignment to Group 14 will retain both the current prohibition against stowage adjacent to Groups 5, 6, and 12 and the standard prohibition for Group 14 against stowage adjacent to Groups 2, 3, 7, and 8. Thus, there is no change in the actual requirements.

(10) Polyolefin amide alkeneamine (C28+). The Coast Guard has reevaluated the Compatibility Group, Part 150, for the cargo “Polyolefin amide alkeneamine (C28+).” Discussions with a manufacturer of this commodity have shown that the current assignment, to Group 7 (Amines), is inappropriate for these materials, which contain only a small fraction of unreacted amine and whose mineral-oil content acts as a buffer to any possible remaining hazardous reactivity. Upon review, we have determined that Group 33 (Miscellaneous hydrocarbon mixtures) is the more appropriate Compatibility Group for this cargo.

(11) Sodium sulfide solution (15% or less). We correct the Pollution Category from C to B in Table 1 of Part 153.

(12) 1,2,3-Trichloropropane. In table I of Part 150, 1,2,3-trichloropropane, Group 36 (Halogenated hydrocarbons), is not compatible with ethylenediamine, diethylenetriamine, or triethylenetetramine, all of Group 7 (Aliphatic amines).

(h) We otherwise correct or modify, as appropriate, current entries in the various lists and tables.

(i) New entries to Table 30.25-1:

Alcohol (C9-C11) poly(2.5-9)ethoxylate

Alkanes (C6-C9)

Alkyl ester copolymer (C4-C20)

Alkyl (C7-C11) phenol poly(4-12)ethoxylates

Alkyl (C8-C40) phenol sulfide

Alkyl (C9-C15) phenyl propoxylate

Alkyl sulfonic acid ester of phenol tert-Amyl methyl ether

Butyl alcohol (all isomers)

Calcium long chain alkyl (C5-C10) phenate

Calcium long chain alkyl (C11-C40) phenate

Copper salt of long chain (C17+) alkanoic acid

Dialkyl (C8-C9) diphenylamines

Ditridecyl adipate

Dodecyl hydroxypropyl sulfide

Ethoxylated long chain (C16+) alkyloxyalkanamine

Ethyl tert-butyl ether

Glyphosate solution (not containing surfactant)

1-Hexadecylnaphthalene, 1,4-bis(Hexadecyl)naphthalene mixture

2-Methyl-1,3-propanediol

Phosphate esters, alkyl (C12-C14) amine

Polyisobutenyl anhydride adduct

Polyolefin amide alkeneamine (C17+)

Potassium salt of polyolefin acid

Sulfurized fat (C14-C20)

Sulfurized polyolefinamide alkene (C28-C250) amine

(j) New entries to Table 151.05:

Alkylbenzenesulfonic acid (greater than 4%)

Cashew nut shell oil (untreated)

Cyclohexanone, Cychexanol mixture

Cyclopentadiene, Styrene, Benzene mixture

Dodecyl phenol

Glyoxylic acid solution (50% or less)

Toluenediamine

o-Toluidine

(k) New entries to Table 1 of Part 153:

Alcohol (C9-C11) poly (2.5-9) ethoxylate

Alkenyl (C16-C20) succinic anhydride

Alkylaryl phosphate mixtures (more than 40% Diphenyl tolyl phosphate, less than 0.02% ortho-isomer)

Alkyl (C8-C9) phenylamine in aromatic solvent

Alkyl (C10-C20, saturated and unsaturated) phosphite

Alkyl (C8-C10) polyglucoside solution (65% or less)

Alkyl (C12-C14) polyglucoside solution (55% or less)

Alkyl (C8-C10)/(C12-C14): (40% or less/60% or more) polyglucoside solution (55% or less)

Alkyl (C8-C10)/(C12-C14): (50/50%) polyglucoside solution (55% or less)

Alkyl (C8-C10)/(C12-C14): (60% or more/40% or less) polyglucoside solution (55% or less)

tert-Amyl methyl ether

Barium long chain (C11-C50) alkaryl sulfonate

Calcium long chain alkyl (C5-C10) phenate

1-(4-Chlorophenyl)-4,4-dimethyl pentan-3-one

N,N-Dimethyldodecylamine

Diphenylamine (molten)

Dithiocarbamate ester (C7-C35)

Dodecyl hydroxypropyl sulfide

Dodecyl-Octadecyl methacrylate mixture

Ethyl tert-butyl ether

S-Ethyl dipropylthiocarbamate

Glyoxylic acid solution (50% or less)

Hexamethylenediamine (molten)

Hexamethylene diisocyanate

N,N-bis(2-Hydroxyethyl) oleamide

3-(Methylthio)propionaldehyde

Nitroethane, 1-Nitropropane (each 15% or more) mixture

Paraldehyde-Ammonia reaction product

n-Pentanoic acid (64%), 2-Methyl butyric acid (36%) mixture

Phosphate esters, alkyl (C12-C14) amine

Polyisobutenamine in aliphatic (C10-C14) solvent

Polyolefinamine (C28-C250)

Poly(tetramethylene ether) glycols (mw 950-1050)

Potassium thiosulfate (50% or less)

1,2,4-Trichlorobenzene (molten)

Xylenes, Ethylbenzene (10% or more) mixture

(l) New entries to Table 2 of Part 153:

Ammonium thiosulfate solution (60% or less)

Sulfonated polyacrylate solution

Titanium dioxide slurry

(m) We have determined three entries in our tables and lists not to be bulk liquid cargoes, and will delete them. They are:

(1) Potassium polysulfide, Potassium thiosulfate solution (41% or less)

(2) Propanil, Mesityl oxide, Isophorone mixture

(3) Trifluralin in Xylene

One issue addressed in the supplemental material in the docket involves the supposed potential for incompatible stowage of isocyanate cargoes, Group 12, and water solutions of chemical cargoes. (See Appendix I [60 FR 34053 (June 29, 1995)]). Shippers and carriers of such cargoes should review the supplemental material available in the docket [USCG 2000-7079] for further information.

This Table of Changes lists all changes to existing entries with a brief explanation where helpful:

Table of Changes
Cargo Name: Current | Cargo Name: Proposed | Pollution Category: Current | Pollution Category: Proposed | Comments
Acetic acid | No change | No change | No change | 46 CFR 153, Table 1: Protective clothing requirement added.
Acetic anhydride | No change | No change | No change | 46 CFR 153, Table 1: Protective clothing requirement added.
Alachlor technical and Alachlor technical (90% or more) | Alachlor | No change | No change |
Alcohols (C13 and above) |  |  |  | Delete the entry in its entirety.
Alcohols (C13+) | Alcohols (C13+) Including: Oleyl alcohol (octadecenol) Pentadecanol Tallow alcohol Tetradecanol Tridecanol | Not applicable | Not applicable | 46 CFR 150, Table I.
Alcohol(C12-C15) poly(1-3)ethoxylates |  |  |  | Delete the entry in its entirety.
Alcohol(C12-C15) poly(3-11) ethoxylates |  |  |  | Delete the entry in its entirety.
Alcohol(C12-C15) poly(1-6)ethoxylates | Alcohol(C12-C16) poly(1-6)ethoxylates | No change | No change | Increase upper carbon, “C” range from “C15” to “C16”
Alcohol(C12-C15) poly(7-19)ethoxylates | Alcohol(C12-C16) poly(7-19)ethoxylates | No change | No change | Increase upper carbon, “C” range from “C15” to “C16”.
Alcohol(C12-C15) poly(20+) ethoxylates | Alcohol(C12-C16) poly(20+) ethoxylates | No change | No change | Increase upper carbon, “C” range from “C15” to “C16”.
Alkanes (C6-C9) | Alkanes (C6-C9) Including: Heptanes Hexanes Nonanes Octanes | Not applicable | Not applicable | 46 CFR 150, Table I.
n-Alkanes (C10+) | n-Alkanes (C10+) Including: Decanes Dodecanes Heptadecanes Tridecanes Undecanes | Not applicable | Not applicable | 46 CFR 150, Table I.
Alkenylsuccinic anhydride | Alkenyl(C16-C20) succinic anhydride | # | D |
Alkyl(C3-C4) benzenes | Alkyl(C3-C4) benzenes Including: Butylbenzenes Propylbenzenes | Not applicable | Not applicable | 46 CFR 150, Table I.
Alkyl(C5-C8) benzenes | Alkyl(C5-C8) benzenes Including: Amylbenzenes Heptylbenzenes Hexylbenzenes Octylbenzenes | Not applicable | Not applicable | 46 CFR 150, Table I.
Alkyl(C9-C17) benzenes |  |  |  | Delete the entry in its entirety.
Alkyl(C9+) benzenes | Alkyl(C9+)benzenes Including: Decylbenzenes Dodecylbenzenes Nonylbenzenes Tetradecylbenzenes Tetrapropylbenzenes Tridecylbenzenes Undecylbenzenes | Not applicable | Not applicable | 46 CFR 150, Table I.
Alkyl ester copolymer (C6-C18) | Alkyl ester copolymer (C4-C20) | [D] | D |
Alkyl(C7-C9) nitrates | No change | A | B | 46 CFR 153, Table I: Correct Pollution Category.
Alkyl(C7-C12) phenol poly(4-12)ethoxylate | Alkyl(C7-C11) phenol poly(4-12)ethoxylate | No change | No change | Correct the upper carbon, “C” range from “C12” to “C11”.
Alkylphenol sulfide (C8-C40) | Alkyl (C8-C40) phenol sulfide | [D] | D |
Ammonia, aqueous, see Ammonium hydroxide | Ammonia, aqueous [IMO cargo name], see Ammonium hydroxide | Not applicable | Not applicable | 46 CFR 150, Table I: Identify IMO Cargo name.
Ammonium bisulfite solution (70% or less) | No change | No change | No change | 46 CFR 153, Table 1: Special requirement .526 added.
Ammonium sulfide solution (45% or less) | No change | C | B | 46 CFR 153, Table I: Correct Pollution Category.
(commercial, iso-, n-, sec-) Amyl acetate |  |  |  | Delete the entry in its entirety.
Amyl acetate (iso-, n-) |  |  |  | Delete the entry in its entirety.
Amylene | Pentene | No change | No change |
Animal and Fish acid oils and distillates, n.o.s | Animal and Fish acid oils and distillates, n.o.s Including: Cod liver oil Lanolin Neatsfoot oil Pilchard oil Sperm oil | Not applicable | Not applicable | 46 CFR 150, Table I.
Animal and Fish oils, n.o.s | Animal and Fish oils, n.o.s Including: Animal acid oil Fish acid oil Lard acid oil Mixed acid oil Mixed general acid oil Mixed hard acid oil Mixed soft acid oil | Not applicable | Not applicable | 46 CFR 150, Table I.
Benzene hydrocarbon mixtures (containing Acetylenes) (having 10% Benzene or more) | No change | No change | Not applicable | 46 CFR 151, Table 151.05: Special requirement .50-60 added.
Benzene hydrocarbon mixtures (having 10% Benzene or more) | No change | No change | Not applicable | 46 CFR 151, Table 151.05: Special requirement .50-60 added.
Benzene, Toluene, Xylene mixtures (having 10% Benzene or more) | No change | No change | Not applicable | 46 CFR 151, Table 151.05: Special requirement .50-60 added.
Benzene hydrocarbon mixtures2 (having 10% Benzene or more) | No change | No change | No change | 46 CFR 153, Table 1: Special requirement “16” corrected to read “.316”.
(iso-, n-) Butyl acetate |  |  |  | Delete the entry in its entirety.
(sec-) Butyl acetate |  |  |  | Delete the entry in its entirety.
iso-Butyl acrylate |  |  |  | 46 CFR 151, Table 151.05: Delete from table.
n-Butyl acrylate |  |  |  | 46 CFR 151, Table 151.05: Delete from table.
(iso-, n-) Butyl acrylate |  |  |  | Delete the entry in its entirety.
Butyl alcohol (iso-, n-, sec-, tert-) | Butyl alcohol (all isomers) | No change | No change |
Butylbenzene and Butylbenzene (all isomers) | Alkyl(C3-C4) benzenes | No change | No change |
Butylene polyglycol |  |  |  | A non-cargo name (i.e., Italicized) cross-referenced to a proper cargo name.
iso-Butyl isobutyrate |  |  |  | A non-cargo name (i.e., Italicized) cross-referenced to a proper cargo name.
n-Butyl butyrate |  |  |  | A non-cargo name (i.e., Italicized) cross-referenced to a proper cargo name.
iso-Butyraldehyde |  |  |  | 46 CFR 153, Table 1: Delete from table.
n-Butyraldehyde |  |  |  | 46 CFR 153, Table 1: Delete from table.
Calcium alkyl salicylate |  |  |  | A non-cargo name (i.e., Italicized) cross-referenced to a proper cargo name.
Calcium long chain alkyl phenolic amine (C8-C40) | No change | Not applicable | Not applicable | 46 CFR 150, Table I: To Group 9, from Group 7.
Carbon tetrachloride |  |  |  | Exception to 46 CFR 150, Table I.
Caustic potash solution | No change | D | C | 46 CFR 153, Table I: Correct Pollution Category, and Hazard category from “S” to “S/P”.
Cresylic acid, sodium salt solution, see Cresylate spent caustic | Cresylic acid, sodium salt solution [IMO cargo name], see Cresylate spent caustic | Not applicable | Not applicable | 46 CFR 150, Table I: Identify IMO Cargo name.
Cumene |  |  |  | A non-cargo name (i.e., Italicized) cross-referenced to a proper cargo name.
Cyclopentadiene, Styrene, Benzene mixture |  |  |  | 46 CFR 151, Table 151.01: Add Special Requirement 151.50-60.
Cyclopentadiene polymers |  |  |  | 46 CFR 30, Table 30.25-1: Delete the entry in its entirety.
Decane |  |  |  | A non-cargo name (i.e., Italicized) cross-referenced to a proper cargo name.
Decylbenzene | Alkyl(C9+)benzenes | D | III |
Dextrose solution | Glucose solution | No change | No change |
Dialkyl(C10-C14) benzenes | Alkyl(C9+)benzenes | D | III |
Dialkyl(C7-C13) phthalates | Dialkyl(C7-C13) phthalates Including: Diisodecyl phthalate Diisononyl phthalate Dinonyl phthalate Ditridecyl phthalate Diundecyl phthalate | No change | No change | 46 CFR 150, Table I.
Dibutyl carbinol |  |  |  | A non-cargo name (i.e., Italicized) cross-referenced to a proper cargo name.
1,1-, 1,2-, or 1,3-Dichloropropane |  |  |  | Delete the entry in its entirety.
Diethylaminoethanol, see Diethylethanolamine | Diethylaminoethanol [IMO cargo name], see Diethylethanolamine | Not applicable | Not applicable | 46 CFR 150, Table I: Identify IMO Cargo name.
Diethylene glycol butyl ether |  |  |  | A non-cargo name (i.e., Italicized) cross-referenced to a proper cargo name.
Diethylene glycol butyl ether acetate |  |  |  | A non-cargo name (i.e., Italicized) cross-referenced to a proper cargo name.
Diethylene glycol ethyl ether |  |  |  | A non-cargo name (i.e., Italicized) cross-referenced to a proper cargo name.
Diethylene glycol ethyl ether acetate |  |  |  | A non-cargo name (i.e., Italicized) cross-referenced to a proper cargo name.
Diethylene glycol n-hexyl ether |  |  |  | A non-cargo name (i.e., Italicized) cross-referenced to a proper cargo name.
Diethylene glycol methyl ether |  |  |  | A non-cargo name (i.e., Italicized) cross-referenced to a proper cargo name.
Diethylene glycol methyl ether acetate |  |  |  | A non-cargo name (i.e., Italicized) cross-referenced to a proper cargo name.
Diethylene glycol propyl ether |  |  |  | A non-cargo name (i.e., Italicized) cross-referenced to a proper cargo name.
Diethylenetriamine |  |  |  | Exception to 46 CFR 150, Table I.
Diethyl ether, see Ethyl ether | Diethyl ether [IMO cargo name], see Ethyl ether | Not applicable | Not applicable | 46 CFR 150, Table I: Identify IMO Cargo name.
Di-(2-ethylhexyl) phthalate | Dioctyl phthalate | D | III | Cross-reference to the correct proper cargo name.
Diethyl sulfate | No change | No change | No change | 46 CFR 153, Table 1: Protective clothing requirement added.
Diisobutyl carbinol | Diisobutyl carbinol [industrial name], see also Nonyl alcohol |  |  | 46 CFR 150, Table I: Identify industrial cargo name.
Diisodecyl phthalate |  |  |  | A non-cargo name (i.e., Italicized) cross-referenced to a proper cargo name.
Diisononyl phthalate |  |  |  | A non-cargo name (i.e., Italicized) cross-referenced to a proper cargo name.
Dimethylpolysiloxane | Polydimethylsiloxane |  |  | A non-cargo name (i.e., Italicized) cross-referenced to a proper cargo name.
2,2-Dimethyl propane-1,3-diol | 2,2-Dimethylpropane-1,3-diol (molten or solution) | No change | No change |
Dinonyl phthalate |  |  |  | A non-cargo name (i.e., Italicized) cross-referenced to a proper cargo name.
Dipropylene glycol butyl ether |  |  |  | A non-cargo name (i.e., Italicized) cross-referenced to a proper cargo name.
Dipropylene glycol methyl ether |  |  |  | A non-cargo name (i.e., Italicized) cross-referenced to a proper cargo name.
Ditridecyl phthalate |  |  |  | A non-cargo name (i.e., Italicized) cross-referenced to a proper cargo name.
Diundecyl phthalate |  |  |  | A non-cargo name (i.e., Italicized) cross-referenced to a proper cargo name.
Dodecane | n-Alkanes (C10+) | No change | No change |
Dodecyl alcohol | Dodecyl alcohol [IMO cargo name], see Dodecanol |  |  | 46 CFR 150, Table I: Identify IMO Cargo name.
Dodecylbenzene | Alkyl(C9+)benzenes | No change | No change |
Dodecyl hydroxypropyl sulfide |  | [A] | A | 46 CFR 153, Table I: Ship type I from II; Sp. Requirement .408 replacing .409.
Ethoxylated alcohols, C11-C15 |  |  |  | 46 CFR 30, Table 30.25-1: Delete the entry in its entirety.
Ethylenediamine |  |  |  | Exception to 46 CFR 150, Table I.
Ethylene glycol ethyl ether acetate |  |  |  | A non-cargo name (i.e., Italicized) cross-referenced to a proper cargo name.
Ethylene glycol hexyl ether | Ethylene glycol monoalkyl ethers |  |  | 46 CFR 153, Table 1: Add the cross-reference under the first entry in the table.
Ethylene glycol monoalkyl ethers | Ethylene glycol monoalkyl ethers Including: 2-Ethoxyethanol Ethylene glycol butyl ether Ethylene glycol tert-butyl ether Ethylene glycol ethyl ether +Ethylene glycol hexyl ether Ethylene glycol methyl ether Ethylene glycol n-propyl ether Ethylene glycol isopropyl ether |  |  | 46 CFR 150, Table I.
Ethylene glycol monoalkyl ethers |  |  |  | 46 CFR 153, Table 1: Delete the second entry in its entirety.
Ethylene glycol propyl ether |  |  |  | Delete the entry in its entirety.
2-Ethylhexanoic acid |  |  |  | A non-cargo name (i.e., Italicized) cross-referenced to a proper cargo name.
2-Ethylhexanol |  |  |  | A non-cargo name (i.e., Italicized) cross-referenced to a proper cargo name.
2-Ethylhexyl acrylate |  |  |  | 46 CFR 151, Table 151.05: Temp. control install. Column, replace I-D with NA.
Fatty acid (saturated, C13 and above) |  |  |  | Delete the entry in its entirety.
Fatty acid (saturated, C13+) | Fatty acid (saturated, C14+) | No change | No change | Increase lower carbon, “C” range from “C13” to “C14”.
Formic acid | No change | No change | No change | 46 CFR 153, Table 1: Protective clothing requirement added.
Glycidyl ester of C10 trialkyl acetic acid, see Glycidyl ester of tridecyl acetic acid | Glycidyl ester of C10 trialkyl acetic acid [IMO cargo name], see Glycidyl ester of tridecyl acetic acid | Not applicable | Not applicable | 46 CFR 150, Table I: Identify IMO Cargo name.
Heptadecane |  |  |  | A non-cargo name (i.e., Italicized) cross-referenced to a proper cargo name.
Heptane (all isomers) | Alkanes (C6-C9) | No change | No change |
Hexaethylene glycol |  |  |  | A non-cargo name (i.e., Italicized) cross-referenced to a proper cargo name.
Hexane (all isomers) | Alkanes (C6-C9) | No change | No change |
Hydrofluorosilicic acid (25% or less) |  |  |  | 46 CFR 151, Table 151.05: Delete from table.
Hydroxy terminated polybutadiene, see Polybutadiene, hydroxyl terminated | Hydroxy terminated polybutadiene [IMO cargo name], see Polybutadiene, hydroxy terminated | Not applicable | Not applicable | Revise US cargo name. 46 CFR 150, Table I: Identify IMO Cargo name.
Isopropylbenzene (Cumene) |  |  |  | 46 CFR 153, Table 1: A non-cargo name (i.e., Italicized) cross-referenced to a proper cargo name.
Lauryl polyglucose (50% or less) | Alkyl(C12-C14) polyglucoside solution (55% or less) | [B] | B | 46 CFR 153, Table 1.
Lecithin (soyabean) | Lecithin | [D] | III |
Lignin sulfonic acid, sodium salt solution | Sodium lignosulfonate solution or Lignin liquor | No change | No change | 46 CFR 153, Table 2.
Magnesium nonyl phenol sulfide |  |  |  | A non-cargo name (i.e., Italicized) cross-referenced to a proper cargo name.
Magnesium sulfonate |  |  |  | A non-cargo name (i.e., Italicized) cross-referenced to a proper cargo name.
N-(2-Methoxy-1-methylethry)2-ethyl-6-methyl chloroacetanilide, see Metolachlor | N-(2-Methoxy-1- methylethry)2-ethyl-6-methyl chloroacetanilide [IMO cargo name], see Metolachlor | Not applicable | Not applicable | 46 CFR 150, Table I: Identify IMO Cargo name.
Methoxy triglycol |  |  |  | A non-cargo name (i.e., Italicized) cross-referenced to a proper cargo name.
Methyl butynol | 2-Methyl-2-hydroxy-3-butyne | No change | No change | 46 CFR 30, Table 30.25-1: Delete from table; safety hazard.
2-Methyl-2-hydroxy-3-butyne | No change | III | D | 46 CFR 153, Table 1.
Methyl isobutyl carbinol |  |  |  | A non-cargo name (i.e., Italicized) cross-referenced to a proper cargo name.
Methyl pentene; 2-Methyl pentene; 4-Methyl pentene; |  |  |  | A non-cargo name (i.e., Italicized) cross-referenced to a proper cargo name.
o-Nitrochlorobenzene |  |  |  | Delete the entry in its entirety.
Nonane (all isomers) | Alkanes (C6-C9) | No change | No change |
Nonyl phenol (ethoxylated) |  |  |  | Delete the entry in its entirety.
Nonyl phenol poly(4-12) ethoxylates | Nonyl phenol poly(4+) ethoxylates | No change | No change |
Nonyl phenol sulfide (90% or less) |  |  |  | A non-cargo name (i.e., Italicized) cross-referenced to a proper cargo name.
Octane (all isomers) | Alkanes (C6-C9) | No change | No change |
Octyl nitrates (all isomers) |  |  |  | A non-cargo name (i.e., Italicized) cross-referenced to a proper cargo name.
Oil misc: Coconut oil, esterified |  |  |  | 46 CFR 30, Table 30.25-1: Delete the entry in its entirety.
Oil misc: Coconut oil, methyl ester |  |  |  | 46 CFR 30, Table 30.25-1: Delete the entry in its entirety.
Oil misc: Cottonseed, fatty acid |  |  |  | A non-cargo name (i.e., Italicized) cross-referenced to a proper cargo name.
Oil misc: Palm oil, ­methyl ester |  |  |  | 46 CFR 30, Table 30.25-1: Delete the entry in its entirety.
Organic amine 70 |  |  |  | 46 CFR 30, Table 30.25- 1: Delete the entry in its entirety.
n-Paraffins (C10-C20) |  |  |  | Delete the entry in its entirety.
Pentasodium salt of Diethylene­triamine pentaacetic acid solution |  |  |  | A non-cargo name (i.e., Italicized) cross-referenced to a proper cargo name.
Pentene, Miscellaneous hydrocarbon mixture |  |  |  | Delete the entry in its entirety.
Phosphoric acid | No change | No change | No change | 46 CFR 153, Table 1: Protective clothing requirement added.
Phthalate plasticizers |  |  |  | 46 CFR 30, Table 30.25- 1: Delete the entry in its entirety.
Pinene |  |  |  | A non-cargo name (i.e., Italicized) cross-referenced to a proper cargo name.
Polyalkylene glycol butyl ether |  |  |  | A non-cargo name (i.e., Italicized) cross-referenced to a proper cargo name.
Poly(2-8)alkylene glycol monoalkyl(C1-C6) ether | Poly(2-8)alkylene glycol monoalkyl(C1-C6) ether Including: Diethylene glycol butyl ether Diethylene glycol ethyl ether Diethylene glycol n-hexyl ether Diethylene glycol methyl ether Diethylene glycol n-propyl ether Dipropylene glycol butyl ether Dipropylene glycol methyl ether Polypropylene glycol methyl ether Triethylene glycol butyl ether Triethylene glycol ethyl ether Triethylene glycol methyl ether Tripropylene glycol methyl ether | Not applicable | Not applicable | 46 CFR 150, Table I.
Poly(2-8)alkylene glycol monoalkyl(C1-C6) ether acetate | Poly(2-8)alkylene glycol monoalkyl(C1-C6) ether acetate Including: Diethylene glycol butyl ether acetate Diethylene glycol ethyl ether acetate Diethylene glycol methyl ether acetate | Not applicable | Not applicable | 46 CFR 150, Table I.
Polybutenyl succinimide | No Change | [D] | III |
Polybutadiene, hydroxyl terminated | Polybutadiene, hydroxy terminated | No change | No change | Revise name.
Polyethylene glycol monoalkyl ether |  |  |  | A non-cargo name (i.e., Italicized) cross-referenced to a proper cargo name.
Polyolefin amide alkeneamine borate (C28-C250) | No change | Not applicable | Not applicable | 46 CFR 150, Table I: To Group 33, from Group 34.
Polyolefin amide alkeneamine polyol | No change | Not applicable | Not applicable | 46 CFR 150, Table I: To Group 20, from Group 7.
Polyolefin amine (C28-C250) | No change | Not applicable | Not applicable | 46 CFR 150, Table I: To Group 33, from Group 7.
Polyolefin amine in alkylbenzenes (C2-C4) | No change | Not applicable | Not applicable | 46 CFR 150, Table I: To Group 32, from Group 7.
Polyolefin aminoester salt | No change | Not applicable | Not applicable | 46 CFR 150, Table I: To Group 34, from Group 7.
Polypropylene |  |  |  | Delete the entry in its entirety.
Polypropylene glycol methyl ether |  |  |  | A non-cargo name (i.e., Italicized) cross-referenced to a proper cargo name.
Potassium hydroxide solution, see Caustic potash solution | Potassium hydroxide solution [IMO cargo name], see Caustic potash solution | Not applicable | Not applicable | 46 CFR 150, Table I: Identify IMO Cargo name.
Potassium polysulfide, Potassium thiosulfate solution (41% or less) |  |  |  | Delete the entry in its entirety.
Propanil, Mesityl oxide, Isophorone mixture |  |  |  | Delete the entry in its entirety.
Propionic acid | No change | No change | No change | 46 CFR 153, Table 1: Protective clothing requirement added.
n-Propoxypropanol (propylene glycol propyl ether) |  |  |  | A non-cargo name (i.e., Italicized) cross-referenced to a proper cargo name.
iso-Propylamine solution (70% or less) |  |  |  | 46 CFR 153, Table 1: Special Requirements column, replace .1010 with .1020.
iso-Propylbenzene |  |  |  | A non-cargo name (i.e., Italicized) cross-referenced to a proper cargo name.
n-Propylbenzene |  |  |  | A non-cargo name (i.e., Italicized) cross-referenced to a proper cargo name.
Propylene carbonate | No change | [III] | III |
Propylene glycol n-butyl ether |  |  |  | A non-cargo name (i.e., Italicized) cross-referenced to a proper cargo name.
Propylene glycol ethyl ether |  |  |  | A non-cargo name (i.e., Italicized) cross-referenced to a proper cargo name.
Propylene glycol methyl ether |  |  |  | A non-cargo name (i.e., Italicized) cross-referenced to a proper cargo name.
Propylene glycol monoalkyl ether | Propylene glycol monoalkyl ether Including: n-Propoxypropanol Propylene glycol n-butyl ether Propylene glycol ethyl ether Propylene glycol methyl ether | Not applicable | Not applicable | 46 CFR 150, Table I.
Propylene glycol phenyl ether |  | [D] | D |
Propylene glycol propyl ether |  |  |  | A non-cargo name (i.e., Italicized) cross-referenced to a proper cargo name.
Rum |  |  |  | A non-cargo name (i.e., Italicized) cross-referenced to a proper cargo name.
Sodium hydroxide solution, see Caustic soda solution | Sodium hydroxide solution [IMO cargo name], see Caustic soda solution | Not applicable | Not applicable | 46 CFR 150, Table I: Identify IMO Cargo name.
Sodium naphthenate solution |  |  |  | A non-cargo name (i.e., Italicized) cross-referenced to a proper cargo name.
Sodium sulfide solution (15% or less) | No change | C | B | 46 CFR 153, Table I: Correct Pollution Category.
Stearic acid |  |  |  | A non-cargo name (i.e., Italicized) cross-referenced to a proper cargo name.
Sulfurized polyolefinamide alkeneamines (C28-C250) | No change | Not applicable | Not applicable | 46 CFR 150, Table I: To Group 33, from Group 7.
Tallow alcohol |  |  |  | A non-cargo name (i.e., Italicized) cross-referenced to a proper cargo name.
Tetradecanol |  |  |  | A non-cargo name (i.e., Italicized) cross-referenced to a proper cargo name.
Tetradecylbenzene | Alkyl(C9+)benzenes | [D] | III |
Tetraethylenepentamine |  |  |  | Exception to 46 CFR 150, Table I.
1,2,3,5-Tetramethyl­benzene |  |  |  | A non-cargo name (i.e., Italicized) cross-referenced to a proper cargo name.
Tetrasodium salt of Ethylene-diaminetetraacetic acid solution |  |  |  | A non-cargo name (i.e., Italicized) cross-referenced to a proper cargo name.
Triarylphosphate |  |  |  | A non-cargo name (i.e., Italicized) cross-referenced to a proper cargo name.
1,2,3-Trichloropropane |  |  |  | Exception to 46 CFR 150, Table I.
Tridecane | n-Alkanes (C10+) |  |  | A non-cargo name (i.e., Italicized) cross-referenced to a proper cargo name.
Tridecene |  |  |  | A non-cargo name (i.e., Italicized) cross-referenced to a proper cargo name.
Tridecylbenzene | Alkyl(C9+)benzenes | [D] | III |
Triethylene glycol butyl ether |  |  |  | A non-cargo name (i.e., Italicized) cross-referenced to a proper cargo name.
Triethylene glycol ethyl ether |  |  |  | A non-cargo name (i.e., Italicized) cross-referenced to a proper cargo name.
Triethylene glycol methyl ether |  |  |  | A non-cargo name (i.e., Italicized) cross-referenced to a proper cargo name.
Triethylenetetramine |  |  |  | Exception to 46 CFR 150, Table I.
Triflurlin in Xylene |  |  |  | Delete the entry in its entirety.
2,2,4-Trimethyl penanediol-1,3-diisobutyrate |  |  |  | Delete the entry in its entirety.
Tripropylene |  |  |  | A non-cargo name (i.e., Italicized) cross-referenced to a proper cargo name.
Tripropylene glycol methyl ether |  |  |  | A non-cargo name (i.e., Italicized) cross-referenced to a proper cargo name.
Trisodium salt of N-(Hydroxy­ethyl) ethylene­diamine­tetra­acetic acid solution |  |  |  | A non-cargo name (i.e., Italicized) cross-referenced to a proper cargo name.
Trixylyl phosphate, see Trixylenyl phosphate | Trixylyl phosphate [IMO cargo name], see Trixylenyl phosphate | Not applicable | Not applicable | 46 CFR 150, Table I: Identify IMO Cargo name.
Turpentine substitute |  |  |  | A non-cargo name (i.e., Italicized) cross-referenced to a proper cargo name.
Undecylbenzene | Alkyl(C9+)benzenes | [D] | III |
Valeraldehyde (iso-, n-) |  |  |  | 46 CFR 151, Table 151.05: Delete from table.
Vegetable oils, n.o.s | Vegetable oils, n.o.s. Including: Beechnut oil Castor oil Cocoa butter Coconut oil Corn oil Cottonseed oil Groundnut oil Hazelnut oil Linseed oil Nutmeg butter Oiticica oil Olive oil Palm kernel oil Palm oil Peel oil (oranges and lemons) Perilla oil Poppy oil Raisin seed oil Rapeseed oil Rice bran oil Safflower oil Salad oil Sesame oil Soya bean oil Sunflower seed oil Tucum oil Tung oil Walnut oil | Not applicable | Not applicable | 46 CFR 150, Table I.
Vegetable acid oils and distillates, n.o.s | Vegetable acid oils and distillates, n.o.s Including: Corn acid oil Cottonseed acid oil Dark mixed acid oil Groundnut acid oil Mixed acid oil Mixed general acid oil Mixed hard acid oil Mixed soft acid oil Rapeseed acid oil Safflower acid oil Soya acid oil Sunflower seed acid oil | Not applicable | Not applicable | 46 CFR 150, Table I.

Regulatory Evaluation

This direct final rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040 (February 26, 1979)). This rulemaking will merely update lists of chemicals by adding cargoes to the lists that the Coast Guard already maintains and by making a few non-substantive editorial changes. We expect the economic impact of this rule to be so minimal that a full Regulatory Evaluation under paragraph 10e of the regulatory policies and procedures of DOT is unnecessary.

Small Entities

Under the Regulatory Flexibility Act (5 U.S.C. 601-612), we considered whether this direct final rule will have a significant economic impact on a substantial number of small entities. The term “small entities” comprises small businesses, not-for-profit organizations that are independently owned and operated and are not dominant in their fields, and governmental jurisdictions with populations of less than 50,000.

Although this rule is exempt, we have reviewed it for potential impact on small entities. This rule will merely update lists of chemicals by adding cargoes recently authorized by the Coast Guard or added to the IMO Chemical Codes and by making a few non-substantive editorial changes.

Therefore, the Coast Guard certifies under 5 U.S.C. 605(b) that this rule will not have a significant economic impact on a substantial number of small entities. We will evaluate comments submitted in response to this finding under the criteria in the section of this preamble called Regulatory Information.

Assistance for Small Entities

In accordance with section 213(a) of the Small Business Regulatory Enforcement Fairness Act of 1996 (Pub. L. 104-121), the Coast Guard wants to assist small entities in understanding this direct final rule so that they can better evaluate its effects on them and participate in the rulemaking. If this rule affects your small business or organization and you have questions concerning its provisions or options for compliance, please call Mr. Curtis G. Payne at 202-267-1217.

Collection of Information

This direct final rule will call for no collection of information under the Paperwork Reduction Act of 1995 (44 U.S.C. 3501 et seq.).

Federalism

We have analyzed this direct final rule under Executive Order 13132 and have determined that this rule does not have sufficient implications for federalism to warrant the preparation of a Federalism Assessment. Because this rule would merely render current lists already maintained by the Coast Guard in its rules, there are no implications for Federalism.

Unfunded Mandates Reform Act

The Unfunded Mandates Reform Act of 1995 (2 U.S.C. 1531-1538) and E.O. 12875, Enhancing the Intergovernmental Partnership (58 FR 58093 (October 28, 1993)), govern the issuance of Federal rules that impose unfunded mandates. An unfunded mandate is a requirement that a State, local, or tribal government or the private sector incur direct costs without the Federal Government's having first provided the funds to pay those costs. This direct final rule will not impose an unfunded mandate.

Taking of Private Property

This direct final rule will not effect a taking of private property or otherwise have taking implications under E.O. 12630, Governmental Actions and Interference with Constitutionally Protected Property Rights.

Reform of Civil Justice

This direct final rule meets applicable standards in sections 3(a) and 3(b)(2) of E.O. 12988, Civil Justice Reform, to minimize litigation, eliminate ambiguity, and reduce burden.

Protection of Children

We have analyzed this direct final rule under E.O. 13045, Protection of Children from Environmental Health Risks and Safety Risks. This rule is not an economically significant rule and does not create an environmental risk to health or risk to safety that may disproportionately affect children.

Environment

We considered the environmental impact of this direct final rule and concluded that, under figure 2-1, paragraph (34)(a) of Commandant Instruction M16475.1C, this rule is categorically excluded from further environmental documentation. This rule brings up to date lists already maintained by the Coast Guard in its rules to add chemicals already approved under those rules or under international law and clearly would have no impact on the environment. A Determination of Categorical Exclusion is available in the docket for inspection or copying where indicated under ADDRESSES.

List of Subjects

33 CFR Part 151

Administrative practice and procedure, Oil pollution, Penalties, Reporting and recordkeeping requirements, Water pollution control.

46 CFR Part 30

Cargo vessels, Foreign relations, Hazardous materials transportation, Penalties, Reporting and recordkeeping requirements, Seamen.

46 CFR Part 150

Hazardous materials transportation, Marine safety, Occupational safety and health, Reporting and recordkeeping requirements.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

For the reasons set out in the preamble, the Coast Guard amends 33 CFR Part 151 and 46 CFR parts 30, 150, 151, and 153 as follows:

Title 33—[Amended]

PART 151—VESSELS CARRYING OIL, NOXIOUS LIQUID SUBSTANCES, GARBAGE, MUNICIPAL OR COMMERCIAL WASTE, AND BALLAST WATER

1. The citation of authority for part 151 continues to read as follows:

Authority: 33 U.S.C. 1321 and 1903; Pub. L. 104-227 (110 Stat. 3034), E.O. 12777, 3 CFR, 1991 Comp., p. 351; 49 CFR 1.46.

§ 151.05 [Amended]

2. In § 151.05, add the definition “NLS means Noxious Liquid Substance.” preceding the definition of “NLS Certificate”.

3. Revise the listing in § 151.47 to read as follows:

§ 151.47 Category D NLSs other than oil-like Category D NLSs that may be carried under this part.

* * * * *

Acetophenone

Acrylonitrile-Styrene copolymer dispersion in Polyether polyol

iso- & cyclo-Alkane (C10-C11)

Alkenyl(C11+)amine

Alkyl(C8+)amine, Alkenyl (C12+) acid ester mixture

Alkyl dithiothiadiazole (C6-C24)

Alkyl ester copolymer (C4-C20)

Alkyl(C8-C40) phenol sulfide

Aluminum sulfate solution

Ammonium hydrogen phosphate solution

Ammonium nitrate solution (45% or less)

Ammonium nitrate, Urea solution (2% or less NH 3)

Ammonium phosphate, Urea solution

Ammonium polyphosphate solution

Ammonium sulfate solution (20% or less)

Amyl alcohol (iso-, n-, sec-, primary)

Animal and Fish oils, n.o.s. (see also Oil, edible)

Animal and Fish acid oils and distillates, n.o.s.

Aryl polyolefin (C11-C50)

Brake fluid base mixtures

Butylene glycol

iso-Butyl formate

n-Butyl formate

gamma-Butyrolactone

Calcium hydroxide slurry

Calcium long chain alkyl sulfonate (C11-C50)

Calcium long chain alkyl(C11-C40) phenate

Calcium long chain alkyl phenate sulfide (C8-C40)

Caprolactam solutions

Chlorine chloride solution

Citric acid (70% or less)

Coconut oil fatty acid methyl ester

Copper salt of long chain (C17+) alkanoic acid

Cyclohexanol

Decahydronaphthalene

Diacetone alcohol

Dialkyl(C8-C9) diphenylamines

Dialkyl(C7-C13) phthalates

Diethylene glycol

Diethylene glycol butyl ether acetate, see Poly(2-8) alkylene glycol monoalkyl(C1-C6) ether acetate

Diethylene glycol dibutyl ether

Diethylene glycol ethyl ether, see Poly(2-8)alkylene glycol monoalkyl(C1-C6) ether

Diethylene glycol ethyl ether acetate, see Poly(2-8)alkylene glycol monoalkyl(C1-C6) ether acetate

Diethylene glycol methyl ether acetate, see Poly(2-8)alkylene glycol monoalkyl(C1-C6) ether acetate

Diethylene glycol phenyl ether

Diethylene glycol phthalate

Di-(2-ethylhexyl)adipate

1,4-Dihydro-9,10-dihydroxy anthracene, disodium salt solution

Diisobutyl ketone

Diisodecyl phthalate, see Dialkyl(C7-C13) phthalates

Diisononyl adipate

Diisononyl phthalate, see Dialkyl(C7-C13) phthalates

2,2-Dimethylpropane-1,3-diol

Dinonyl phthalate, see Dialkyl(C7-C13) phthalates

Dipropylene glycol dibenzoate

Dipropylene glycol methyl ether, see Poly(2-8)alkylene glycol monoalkyl(C1-C6) ether

Ditridecyl phthalate, see Dialkyl(C7-C13) phthalates

Diundecyl phthalate, see Dialkyl(C7-C13) phthalates

Dodecenylsuccinic acid, dipotassium salt solution

Ethoxylated long chain (C16+) alkyloxyalkanamine

Ethoxy triglycol (crude)

2-Ethyl-2-(hydroxymethyl)propane-1,3-diol, C8-C10 ester

Ethyl acetate

Ethyl acetoacetate

Ethyl butanol

Ethylenediaminetetraacetic acid, tetrasodium salt solution

Ethylene glycol

Ethylene glycol acetate

Ethylene glycol dibutyl ether

Ethylene glycol methyl butyl ether

Ethylene glycol phenyl ether

Ethylene glycol phenyl ether, Diethylene glycol phenyl ether mixture

2-Ethylhexanoic acid, see Octanoic acid

Ethyl propionate

Ferric hydroxyethylethylene diamine triacetic acid, trisodium salt solution

Formamide

Glycerine (83%), Dioxanedimethanol (17%) mixture

Glycerol monooleate

Glyoxal solution (40% or less)

Glyphosate solution (not containing surfactant)

Heptanoic acid

Hexamethylenediamine adipate

Hexamethylenetetramine solutions

Hexanoic acid

Hexanol

N-(Hydroxyethyl)ethylenediamine triacetic acid, trisodium salt solution

Isophorone

Lactic acid

Latex (ammonia (1% or less) inhibited)

Long chain alkaryl sulfonic acid (C16-C60)

Magnesium long chain alkaryl sulfonate (C11-C50)

Magnesium long chain alkyl phenate sulfide (C8-C20)

3-Methoxybutyl acetate

Methyl acetoacetate

Methyl alcohol

Methyl amyl ketone

Methyl butenol

Methyl butyl ketone

Methyl isobutyl ketone

Methyl tert-butyl ether

Methyl butynol

Methyl propyl ketone

N-Methyl-2-pyrrolidone

Myrcene

Naphthalene sulfonic acid-formaldehyde copolymer, sodium salt solution

Nonanoic acid (all isomers)

Nonanoic, Tridecanoic acid mixture

Nonyl methacrylate

Noxious Liquid Substance, (17) n.o.s.

Octadecenoamide solution

Octanoic acid

Oil, edible:

Babassu

Beechnut

Castor

Cocoa butter

Coconut

Cod liver

Corn

Cottonseed

Fish

Groundnut

Hazelnut

Nutmeg butter

Olive

Palm

Palm kernel

Peanut

Poppy

Raisin seed

Rapeseed

Rice bran

Safflower

Salad

Sesame

Soya bean

Sunflower seed

Tucum

Vegetable

Walnut

Oil, misc:

Animal, n.o.s.

Coconut oil, esterified

Coconut oil, fatty acid methyl ester

Lanolin

Linseed

Neatsfoot

Oiticica

Palm oil, fatty acid methyl ester

Palm oil, methyl ester

Perilla

Pilchard

Soya bean (epoxidized)

Sperm

Tung

Whale

Olefin/Alkyl ester copolymer (molecular weight 2000+)

Oleic acid

Palm kernel acid oil, methyl ester

Palm stearin

Pentaethylenehexamine

Pentanoic acid

Poly(2-8)alkylene glycol monoalkyl(C1-C6) ether, Including:

Diethylene glycol butyl ether

Diethylene glycol ethyl ether

Diethylene glycol n-hexyl ether

Diethylene glycol methyl ether

Diethylene glycol n-propyl ether

Dipropylene glycol butyl ether

Dipropylene glycol methyl ether

Polypropylene glycol methyl ether

Triethylene glycol butyl ether

Triethylene glycol ethyl ether

Triethylene glycol methyl ether

Tripropylene glycol methyl ether

Poly(2-8)alkylene glycol monoalkyl(C1-C6) ether acetate, Including:

Diethylene glycol butyl ether acetate

Diethylene glycol ethyl ether acetate

Diethylene glycol methyl ether acetate

Polyalkylene glycols, Polyalkylene glycol monoalkyl ethers mixtures

Polypropylene glycol methyl ether, see Poly(2-8)alkylene glycol monoalkyl(C1-C6) ether

Polyalkyl(C10-C20) methacrylate

Polybutenyl succinimide

Polyether (molecular weight 2000+)

Polyethylene glycol monoalkyl ether

Polyolefin amide alkeneamine (C17+)

Polyolefin amide alkeneamine (C28+)

Polyolefin amide alkeneamine borate (C28-C250)

Polyolefin amide alkeneamine polyol

Polyolefin anhydride

Polyolefin ester (C28-C250)

Polyolefin phenolic amine (C28-C250)

Polyolefin phosphorosulfide, barium derivative

Polypropylene glycol

n-Propyl acetate

Propylene glycol monoalkyl ether, Including:

n-Propoxypropanol

Propylene glycol n-butyl ether

Propylene glycol ethyl ether

Propylene glycol methyl ether

Propylene glycol ethyl ether, see Propylene glycol monoalkyl ether

Propylene glycol methyl ether, see Propylene glycol monoalkyl ether

Propylene glycol methyl ether acetate

Propylene glycol phenyl ether

Sodium acetate solution

Sodium benzoate solution

Sodium carbonate solution

Soybean oil (epoxidized)

Sulfohydrocarbon (C3-C88)

Sulfonated polyacrylate solution

Sulfolane

Sulfurized fat (C14-C20)

Sulfurized polyolefinamide alkene(C28-C250)amine

Tallow

Tallow fatty acid

Tetrasodium salt of Ethylenediaminetetraacetic acid solution

Triethylene glycol butyl ether, see Poly(2-8)alkylene glycol monoalkyl(C1-C6) ether

Triethylene glycol ethyl ether, see Poly(2-8)alkylene glycol monoalkyl(C1-C6) ether

Triethylene glycol methyl ether, see Poly(2-8)alkylene glycol monoalkyl(C1-C6) ether

Triethyl phosphate

Trimethylol propane polyethoxylate

Tripropylene glycol methyl ether, see Poly(2-8)alkylene glycol monoalkyl(C1-C6) ether

Trisodium salt of N-(Hydroxyethyl)-ethylenediamine triacetic acid solution

Urea, Ammonium mono- and di-hydrogen phosphate, Potassium chloride solution

Urea, Ammonium nitrate solution (2% or less NH 3)

Urea, Ammonium phosphate solution

Vegetable oils, n.o.s. (see also Oil, edible)

Vegetable acid oils and distillates, n.o.s.

Waxes:

Candelilla

Carnauba

4. Amend § 151.49 by removing and reserving paragraph (b).

Title 46—[Amended]

PART 30—GENERAL PROVISIONS

5. The citation of authority for part 30 continues to read as follows:

Authority: 46 U.S.C. 2103, 3306, 3703; 49 U.S.C. 5103, 5106; 49 CFR 1.45, 1.46; Section 30.01-2 also issued under the authority of 44 U.S.C. 3507; Section 30.01-5 also issued under the authority of Sec. 4109, Pub. L. 101-380, 104 Stat. 515.

6. In § 30.25-1, revise Table 30.25-1 to read as follows:

30.25-1 Cargoes carried in vessels certificated under the rules of this subchapter.

* * * * *

Table 30.25-1.—List of Flammable and Combustible Bulk Liquid Cargoes
Cargo name | IMO Annex II Pollution Category
Acetone | III
Acetophenone | @D
Acrylonitrile-Styrene copolymer dispersion in Polyether polyol | D
Alcohols (C13+) | III
Alcoholic beverages, n.o.s. | III
Alcohol(C6-C17)(secondary) poly(3-6)ethoxylates | A
Alcohol(C6-C17)(secondary) poly(7-12)ethoxylates | B
Alcohol(C9-C11) poly(2.5-9)ethoxylate | B
Alcohol(C12-C15) poly( ... )ethoxylates, see Alcohol(C12-C16) poly( ... )ethoxylates |
Alcohol(C12-C16) poly(1-6)ethoxylates | A
Alcohol(C12-C16) poly(7-19)ethoxylates | B
Alcohol(C12-C16) poly(20+)ethoxylates | C
Alkanes (C6-C9) | C
n-Alkanes (C10+) | III
iso- & cyclo-Alkanes (C10-C11) | D
iso- & cyclo-Alkanes (C12+) | III
Alkaryl polyether (C9-C20) | B
Alkenyl(C11+) amine | D
Alkenyl(C16-C20) succinic anhydride) | D
Alkyl(C8+)amine, Alkenyl (C12+) acid ester mixture | D
Alkyl(C9+)benzenes | III
Alkylbenzenesulfonic acid (4% or less) | #
Alkyl dithiothiadiazole (C6-C24) | D
Alkyl ester copolymer (C4-C20) | D
Alkyl(C7-C11) phenol poly(4-12)ethoxylates | B
Alkyl phenol sulfide (C8-C40), see Alkyl(C8-C40) phenol sulfide |
Alkyl(C8-C40) phenol sulfide | D
Alkyl(C9-C15) phenyl propoxylate | III
n-Alkyl phthalates, see individual phthalates |
Alkyl sulfonic acid ester of phenol | III
Aminoethyldiethanolamine, Aminoethylethanolamine solution | III
Amyl acetate (all isomers) | C
Amyl alcohol (iso-, n-, sec-, primary) | D
Amyl alcohol (tert-) | III
Amylene, see Pentene (all isomers) | C
tert-Amyl methyl ether (Methyl tert-pentyl ether) | C
Amyl methyl ketone, see Methyl amyl ketone | D
Animal and Fish oils, n.o.s. | D
(see also Oil, edible, or Oil, misc.)
Including:
Cod liver oil
Lanolin
Neatsfoot oil
Pilchard oil
Sperm oil
Animal and Fish acid oils and distillates, n.o.s. | D
Including:
Animal acid oil
Fish acid oil
Lard acid oil
Mixed acid oil
Mixed general acid oil
Mixed hard acid oil
Mixed soft acid oil
Aryl polyolefin (C11-C50) | D
Asphalt | I
Asphalt blending stocks:
Roofers flux | I
Straight run residue | I
Barium long chain (C11-C50) alkaryl sulfonate | B
Barium long chain alkyl(C8-C14)phenate sulfide | [A]
Behenyl alcohol | III
Benzene tricarboxylic acid trioctyl ester | III
Benzyl alcohol | C
Brake fluid base mixtures | D
(containing Poly(2-8)alkylene(C2-C3) glycols, Polyalkylene(C2-C10) glycol monoalkyl(C1-C4) ethers, and their borate esters)
Butane | LFG
Butene, see Butylene
Butene oligomer | B
Butyl acetate (all isomers) | C
Butyl alcohol (iso-, n-, sec-, tert-), see Butyl alcohol (all isomers) |
Butyl alcohol (all isomers) | III
Butyl benzyl phthalate | A
Butylene | LFG
Butylene glycol | D
1,3-Butylene glycol, see Butylene glycol |
Butylene polyglycol, see Butylene glycol |
iso-Butyl formate | D
n-Butyl formate | @D
Butyl heptyl ketone | [C]
Butyl methyl ketone, see Methyl butyl ketone |
n-Butyl propionate | C
Butyl stearate | III
Butyl toluene | @A
gamma-Butyrolactone | D
Calcium alkyl(C9)phenol sulfide, polyolefin phosphorosulfide mixture | A
Calcium alkyl salicylate, see Calcium long chain alkyl salicylate (C13+) |
Calcium long chain alkaryl sulfonate (C11-C50) | D
Calcium long chain alkyl phenate (C8-C40), see Calcium long chain alkyl(C5-C10) phenate or Calcium long chain alkyl(C11-C40) phenate |
Calcium long chain alkyl(C5-C10) phenate | C
Calcium long chain alkyl(C11-C40) phenate | D
Calcium long chain alkyl phenate sulfide (C8-C40) | D
Calcium long chain alkyl phenolic amine (C8-C40) | III
Calcium long chain alkyl salicylate (C13+) | C
Caprolactam solutions | D
Cetyl alcohol (hexadecanol), see Alcohols (C13+) |
Cetyl-Stearyl alcohol), see Alcohols (C13+) | III
† Coal tar | A
Copper salt of long chain (C17+) alkanoic acid | [D]
Cumene (isopropylbenzene), see Propylbenzene (all isomers) |
Cyclohexane | C
Cyclohexanol | D
1,3-Cyclopentadiene dimer (molten) | B
p-Cymene | C
Decahydronaphthalene | D
iso-Decaldehyde | @C
n-Decaldehyde | @B
Decane, see n-Alkanes (C10+) |
Decene | B
Decyl acetate | B
Decyl alcohol (all isomers) | B
n-Decylbenzene, see Alkyl(C9+)benzenes | III
Detergent alkylate | D
Diacetone alcohol | D
Dialkyl(C10-C14) benzenes, see Alkyl(C9+)benzenes | III
Dialkyl(C8-C9) diphenylamines | D
Dialkyl(C7-C13) phthalates | D
Including:
Diisodecyl phthalate
Diisononyl phthalate
Dinonyl phthalate
Ditridecyl phthalate
Diundecyl phthalate
Dibutyl carbinol, see Nonyl alcohol (all isomers) |
ortho-Dibutyl phthalate | A
Dicyclopentadiene, see 1,3-Cyclopentadiene dimer (molten) | B
Diethylbenzene | A
Diethylene glycol | D
Diethylene glycol butyl ether, see Poly(2-8)alkylene glycol monoalkyl(C1-C6) ether |
Diethylene glycol butyl ether acetate, see Poly(2-8)alkylene glycol monoalkyl(C1-C6) ether acetate |
Diethylene glycol dibutyl ether | D
Diethylene glycol diethyl ether | III
Diethylene glycol ethyl ether, see Poly(2-8)alkylene glycol monoalkyl(C1-C6) ether |
Diethylene glycol ethyl ether acetate, see Poly(2-8)alkylene glycol monoalkyl(C1-C6) ether acetate |
Diethylene glycol n-hexyl ether, see Poly(2-8)alkylene glycol monoalkyl(C1-C6) ether |
Diethylene glycol methyl ether, see Poly(2-8)alkylene glycol monoalkyl(C1-C6) ether |
Diethylene glycol methyl ether acetate, see Poly(2-8)alkylene glycol monoalkyl(C1-C6) ether acetate |
Diethylene glycol phenyl ether | #
Diethylene glycol phthalate | D
Diethylene glycol propyl ether, see Poly(2-8)alkylene glycol monoalkyl(C1-C6) ether |
Di-(2-ethylhexyl)adipate | D
Di-(2-ethylhexyl)phthalate, see Dioctyl phthalates |
Diethyl phthalate | C
Diglycidyl ether of Bisphenol A | B
Diheptyl phthalate | III
Dihexyl phthalate | III
Diisobutylcarbinol, see Nonyl alcohol (all isomers) | C
Diisobutylene | B
Diisobutyl ketone | D
Diisobutyl phthalate | B
Diisodecyl phthalate, see Dialkyl(C7-C13) phthalates |
Diisononyl adipate | D
Diisononyl phthalate, see Dialkyl(C7-C13) phthalates |
Diisooctyl phthalate | III
Diisopropylbenzene (all isomers) | A
Diisopropyl naphthalene | D
Dimethyl adipate | B
Dimethylbenzene, see Xylenes |
Dimethyl glutarate | C
Dimethyl phthalate | C
Dimethylpolysiloxane, see Polydimethylsiloxane | III
2,2-Dimethylpropane-1,3-diol (molten or solution) | D
Dimethyl succinate | C
Dinonyl phthalate, see Dialkyl(C7-C13) phthalates |
Dioctyl phthalate | III
Dipentene | C
Diphenyl | A
Diphenyl, Diphenyl ether mixture | A
Diphenyl ether | A
Diphenyl ether, Biphenyl phenyl ether mixture | A
Dipropylene glycol | III
Dipropylene glycol butyl ether, see Poly(2-8)alkylene glycol monoalkyl(C1-C6) ether |
Dipropylene glycol dibenzoate | [D]
Dipropylene glycol methyl ether, see Poly(2-8)alkylene glycol monoalkyl(C1-C6) ether |
Distillates:
Flashed feed stocks | I
Straight run | I
Ditridecyl adipate | III
Ditridecyl phthalate, see Dialkyl(C7-C13) phthalates |
Diundecyl phthalate, see Dialkyl(C7-C13) phthalates |
Dodecane (all isomers), see also n-Alkanes (C10+) | III
Dodecanol | B
Dodecene (all isomers) | B
Dodecyl alcohol, see Dodecanol |
Dodecylbenzene, see Alkyl(C9+)benzenes | III
Dodecyl hydroxypropyl sulfide | A
Dodecyl phenol | A
Dodecyl xylene | III
Drilling mud (low toxicity) (if flammable or combustible) | [III]
Ethane | LFG
2-Ethoxyethyl acetate | C
Ethoxylated alkyloxy alkyl amine, see Ethoxylated long chain (C16+) alkyl­oxyalkan­amine |
Ethoxylated long chain (C16+) alkyl­oxy­alkan­amine | D
Ethoxy triglycol (crude) | D
Ethyl acetate | D
Ethyl acetoacetate | D
Ethyl alcohol | III
Ethyl amyl ketone | C
Ethylbenzene | B
Ethyl butanol | @D
Ethyl tert-butyl ether | C
Ethyl butyrate | C
Ethyl cyclohexane | C
Ethylene | LFG
Ethylene carbonate | III
Ethylene glycol | D
Ethylene glycol acetate | D
Ethylene glycol butyl ether acetate | C
Ethylene glycol diacetate | C
Ethylene glycol dibutyl ether | [D]
Ethylene glycol ethyl ether acetate, see 2-Ethoxyethyl acetate |
Ethylene glycol methyl butyl ether | D
Ethylene glycol methyl ether acetate | C
Ethylene glycol phenyl ether | D
Ethylene glycol phenyl ether, Diethylene glycol phenyl ether mixture | D
Ethylene-Propylene copolymer (in liquid mixtures) | [III]
Ethyl-3-ethoxypropionate | C
2-Ethylhexaldehyde, see Octyl aldehydes |
2-Ethylhexanoic acid, see Octanoic acid (all isomers) |
2-Ethylhexanol, see Octanol (all isomers) |
Ethylhexoic acid, see 2-Ethyl­hexanoic acid |
Ethyl hexyl phthalate | C
2-Ethyl-2-(hydroxymethyl) propane-1,3-diol, C8-C10 ester | D
Ethyl propionate | D
Ethyl toluene | B
Fatty acid (saturated, C13+), see Fatty acid (saturated, C14+) |
Fatty acid (saturated, C14+) | III
Formamide | D
Furfuryl alcohol | C
† Gas oil, cracked | I
Gasoline blending stocks:
Alkylates | I
† Reformates | I
Gasolines:
† Automotive (containing not over 4.23 grams lead per gallon) | I
† Aviation (containing not over 4.86 grams lead per gallon) | I
Casinghead (natural) | I
Polymer | I
† Straight run | I
Glycerine | III
Glycerine (83%), Dioxane­dimethanol (17%) mixture | D
Glycerol, see Glycerine |
Glycerol monooleate | D
Glycerol polyalkoxylate | III
Glyceryl triacetate | III
Glycidyl ester of tertiary carboxylic acid, see Glycidyl ester of tridecyl acetic acid |
Glycidyl ester of C10 trialkylacetic acid, see Glycidyl ester of tridecyl acetic acid | B
Glycidyl ester of tridecyl acetic acid | B
Glycidyl ester of versatic acid, see Glycidyl ester of tridecyl acetic acid |
Glycol diacetate, see Ethylene glycol diacetate |
Glycol triacetate, see Glyceryl triacetate |
Glyoxal solution (40% or less) | D
Glyphosate solution (not containing surfactant) | D
Heptadecane, see n-Alkanes (C10+) |
Heptane (all isomers), see Alkanes (C6-C9) | C
Heptanoic acid | D
Heptanol (all isomers) | C
Heptene (all isomers) | C
Heptyl acetate | B
Herbicide (C15 -H22 -NO2 -Cl), see Metolachlor |
1-Hexadecylnaphthalene, 1,4-bis(Hexadecyl)naphthalene mixture | III
Hexaethylene glycol, see Polyethylene glycol |
Hexamethylene glycol | III
Hexamethylenetetramine solutions | D
Hexane (all isomers), see Alkanes (C6-C9) | C
Hexanoic acid | D
Hexanol | D
Hexene (all isomers) | C
Hexyl acetate | B
Hexylene glycol | III
Hog grease, see Lard |
2-Hydroxy-4-(methylthio)butanoic acid | C
Hydroxy terminated polybutadiene, see Polybutadiene, hydroxy terminated |
Isophorone | D
Jet fuels:
† JP-4 | I
JP-5 (kerosene, heavy) | I
JP-8 | @I
Kerosene | I
Lactic acid | D
Lard | III
Latex (ammonia (1% or less) inhibited) | D
Latex, liquid synthetic | III
including:
Styrene-butadiene rubber | III
Carboxylated styrene-butadiene copolymer | III
Lecithin | III
Long chain alkaryl polyether (C11-C20) | C
Long chain alkaryl sulfonic acid (C16-C60) | D
Long chain alkylphenate/Phenol sulfide mixture | III
Magnesium long chain alkaryl sulfonate (C11-C50) | D
Magnesium long chain alkyl phenate sulfide (C8-C20) | [D]
Magnesium long chain alkyl salicylate (C11+) | C
Magnesium nonyl phenol sulfide, see Magnesium long chain alkyl phenate sulfide (C8-C20) |
Magnesium sulfonate, see Magnesium long chain alkaryl sulfonate (C11-C50) |
2-Mercaptobenzothiazol (in liquid mixtures) | #
Methane | LFG
3-Methoxy-1-butanol | III
3-Methoxybutyl acetate | D
1-Methoxy-2-propyl acetate | #
Methoxy triglycol (triethylene glycol methyl ether), see Poly(2-8)alkylene glycol monoalkyl(C1-C6) ether |
Methyl acetate | III
Methyl acetoacetate | D
Methyl alcohol | D
Methyl amyl acetate | C
Methyl amyl alcohol | C
Methyl amyl ketone | D
Methyl butanol, see the amyl alcohols |
Methyl butenol | D
Methyl tert-butyl ether | D
Methyl butyl ketone | D
Methyl butyrate | C
Methyl ethyl ketone | III
N-Methylglucamine solution (70% or less) | III
Methyl heptyl ketone | B
Methyl isobutyl carbinol, see Methyl amyl alcohol |
Methyl isobutyl ketone | D
3-Methyl-3-methoxybutanol | III
3-Methyl-3-methoxybutyl acetate | III
Methyl naphthalene | A
Methyl pentene, see Hexene (all isomers) |
Methyl tert-pentyl ether (IMO cargo name) tert-Amyl methyl ether |
2-Methyl-1,3-propanediol | III
Methyl propyl ketone | D
N-Methyl-2-pyrrolidone | D
Metolachlor | B
Mineral spirits | I
Myrcene | D
Naphtha:
† Aromatic (having less than 10% Benzene) | @I
Heavy | @I
Paraffinic | @I
† Petroleum | I
† Solvent | I
Stoddard Solvent | @I
† Varnish makers' and painters' (75%) | @I
Naphthalene sulfonic acid-formaldehyde copolymer, sodium salt solution | D
Naphthenic acid | A
Nonane (all isomers), see Alkanes (C6-C9) | C
Nonanoic acid (all isomers) | D
Nonanoic, Tridecanoic acid mixture | @D
Nonene (all isomers) | B
Nonyl acetate | C
Nonyl alcohol (all isomers) | C
Nonyl methacrylate monomer | D
Nonyl phenol | A
Nonyl phenol poly(4+)ethoxylates | B
Nonyl phenol sulfide (90% or less), see Alkyl phenol sulfide (C8-C40) |
Noxious liquid, N.F., (1) n.o.s. (“trade name” contains “principle components”) ST 1, Cat A (if combustible) | A
Noxious liquid, F., (2) n.o.s. (“trade name” contains “principle components”) ST 1, Cat A | A
Noxious liquid, N.F., (3) n.o.s. (“trade name” contains “principle components”) ST 2, Cat A (if combustible) | A
Noxious liquid, F., (4) n.o.s. (“trade name” contains “principle components”) ST 2, Cat A | A
Noxious liquid, N.F., (5) n.o.s. (“trade name” contains “principle components”) ST 2, Cat B (if combustible) | B
Noxious liquid, N.F., (6) n.o.s. (“trade name” contains “principle components”) ST 2, Cat B, mp. equal to or greater than 15 deg. C (if combustible) | B
Noxious liquid, F., (7) n.o.s. (“trade name” contains “principle components”) ST 2, Cat B | B
Noxious liquid, F., (8) n.o.s. (“trade name” contains “principle components”) ST 2, Cat B, mp. equal to or greater than 15 deg. C | B
Noxious liquid, N.F., (9) n.o.s. (“trade name” contains “principle components”) ST 3, Cat A (if combustible) | A
Noxious liquid, F., (10) n.o.s. (“trade name” contains “principle components”) ST 3, Cat A | A
Noxious liquid, N.F., (11) n.o.s. (“trade name” contains “principle components”) ST 3, Cat B (if combustible) | B
Noxious liquid, N.F., (12) n.o.s. (“trade name” contains “principle components”) ST 3, Cat B, mp. equal to or greater than 15 deg. C (if combustible) | B
Noxious liquid, F., (13) n.o.s. (“trade name” contains “principle components”) ST 3, Cat B | B
Noxious liquid, F., (14) n.o.s. (“trade name” contains “principle components”) ST 3, Cat B, mp. equal to or greater than 15 deg. C | B
Noxious liquid, N.F., (15) n.o.s. (“trade name” contains “principle components”) ST 3, Cat C (if combustible) | C
Noxious liquid, F., (16) n.o.s. (“trade name” contains “principle components”) ST 3, Cat C | C
Noxious liquid, n.o.s. (17) (“trade name,” contains “principal components”), Category D (if flammable or combustible) | D
Non-noxious liquid, n.o.s. (18) (“trade name,” contains “principal components”), Appendix III (if flammable or combustible) | III
Octadecene, see the olefin or alpha-olefin entries |
Octadecenoamide solution (oleamide) | [D]
Octane (all isomers), see Alkanes (C6-C9) | C
Octanoic acid (all isomers) | D
Octanol (all isomers) | C
Octene (all isomers) | B
Octyl acetate | C
Octyl alcohol (iso-, n-), see Octanol (all isomers) |
Octyl aldehydes | B
Octyl decyl adipate | III
Octyl phthalate (Di-(2-ethylhexyl)phthalate), see Dioctyl phthalates |
Oil, edible:
Beechnut | D
Castor | D
Cocoa butter | D
Coconut | D
Cod liver | D
Corn | D
Cottonseed | D
Fish, n.o.s. | D
Groundnut | D
Hazelnut | D
Lard | @III
Maize, see Corn oil | D
Nutmeg butter | D
Olive | D
Palm | D
Palm kernel | D
Peanut | D
Poppy | D
Raisin seed | D
Rapeseed | D
Rice bran | D
Safflower | D
Salad | D
Sesame | D
Soya bean | D
Sunflower, see Sunflower seed | D
Sunflower seed | D
Tucum | D
Vegetable, n.o.s. | D
Walnut | D
Oil, fuel:
No. 1 (kerosene) | I
No. 1-D | I
No. 2 | I
No. 2-D | I
No. 4 | I
No. 5 | I
No. 6 | I
Oil, misc:
Aliphatic | @I
Animal, n.o.s. | D
Aromatic | I
Clarified | I
Coal | #
Coconut oil, fatty acid | C
Coconut oil, fatty acid methyl ester | D
Cottonseed, fatty acid, see Cottonseed oil, fatty acid |
† Crude | I
Diesel | I
Gas, high pour | @I
Gas, low pour | @I
Gas, low sulfur | @I
Heartcut distillate | I
Lanolin | D
Linseed | D
Lubricating | I
Mineral | I
Mineral seal | @I
Motor | I
Neatsfoot | D
Oiticica | D
Palm oil, fatty acid methyl ester | D
Penetrating | I
Perilla | D
Pilchard | D
Pine | C
Residual | I
Road | I
Rosin | B
Seal | I
Soapstock | #
Soya bean (epoxidized) | [D]
Sperm | D
Spindle | I
Tall | B
Tall, fatty acid | C
Transformer | I
Tung | D
Turbine | I
Whale | D
alpha-Olefins (C6-C18) | B
alpha-Olefins (C13-C18) | III
Olefin mixtures (C5-C7) | C
Olefin mixtures (C5-C15) | B
Olefins (C13+, all isomers) | III
Olefin/Alkyl ester copolymer (molecular weight 2000+) | D
Oleic acid | D
Oleyl alcohol (octadecenol), see Alcohols (C13+) |
Palm kernel acid oil, methyl ester | [D]
Palm stearin | D
n-Paraffins (C10-C20), see n-Alkanes (C10+) |
Pentadecanol, see Alcohols (C13+) |
Pentaethylene glycol, see Polyethylene glycols |
Pentaethylenehexamine | D
Pentane (all isomers) | C
Pentanoic acid | D
Pentene (all isomers) | C
n-Pentyl propionate | C
Petrolatum | III
1-Phenyl-1-xylyl ethane | C
Phosphate esters, alkyl(C12-C14) amine | B
Phosphosulfurized bicyclic terpene | #
Pinene, see the alpha- or beta- isomers |
alpha-Pinene | A
beta-Pinene | B
Polyalkylene glycols, Polyalkylene glycol monoalkyl ethers mixtures | @D
Polyalkylene glycol butyl ether, see Poly(2-8)alkylene glycol monoalkyl(C1-C6) ether |
Poly(2-8)alkylene glycol monoalkyl(C1-C6) ether | D
Including:
Diethylene glycol butyl ether
Diethylene glycol ethyl ether
Diethylene glycol n-hexyl ether
Diethylene glycol methyl ether
Diethylene glycol n-propyl ether
Dipropylene glycol butyl ether
Dipropylene glycol methyl ether
Polypropylene glycol methyl ether
Triethylene glycol butyl ether
Triethylene glycol ethyl ether
Triethylene glycol methyl ether
Tripropylene glycol methyl ether
Poly(2-8)alkylene glycol monoalkyl(C1-C6) ether acetate | D
Including:
Diethylene glycol butyl ether acetate
Diethylene glycol ethyl ether acetate
Diethylene glycol methyl ether acetate
Polyalkylene oxide polyol | C
Polycarboxylic ester (C9+), see Ditridecyl adipate
Polyalkyl(C10-C20) methacrylate | D
Polybutadiene, hydroxy terminated | [III]
Polybutene | III
Polybutenyl succinimide | D
Polydimethylsiloxane | #
Polyether (molecular weight 2000+) | D
Polyethylene glycol | III
Polyethylene glycol dimethyl ether | III
Polyethylene glycol monoalkyl ether, see Poly(2-8)alkylene glycol monoalkyl(C1-C6) ether |
Polyglycerine, Sodium salts solution (containing less than 3% Sodium hydroxide) | III
Polyglycerol | III
Polyisobutenyl anhydride adduct | III
Poly(4+)isobutylene | III
Polymerized esters | #
Polyolefin (molecular weight 300+) | III
Polyolefin amide alkeneamine (C17+) | D
Polyolefin amide alkeneamine (C28+) | D
Polyolefin amide alkeneamine borate (C28-C250) | D
Polyolefin amide alkeneamine/Molybdenum oxysulfide mixture | C
Polyolefin amide alkeneamine polyol | D
Polyolefin anhydride | D
Polyolefin ester (C28-C250) | D
Polyolefin phenolic amine (C28-C250) | D
Polyolefin phosphorosulfide, barium derivative (C28-C250) | C
Poly(20)oxyethylene sorbitan monooleate | III
Poly(5+)propylene | III
Polypropylene glycol | D
Polypropylene glycol methyl ether, see Poly(2-8)alkylene glycol monoalkyl(C1-C6) ether |
Polysiloxane | III
Potassium oleate | C
Potassium salt of polyolefin acid | III
Propane | LFG
n-Propoxypropanol (propylene glycol propyl ether), see Propylene glycol monoalkyl ether |
iso-Propyl acetate | III
n-Propyl acetate | D
iso-Propyl alcohol | III
n-Propyl alcohol | III
iso-Propylbenzene (cumene), see Propylbenzene (all isomers) |
n-Propylbenzene, see Propylbenzene (all isomers) |
Propylbenzene (all isomers) | A
iso-Propylcyclohexane | C
Propylene | LFG
Propylene-butylene copolymer | III
Propylene carbonate | III
Propylene dimer | C
Propylene glycol | III
Propylene glycol n-butyl ether, see Propylene glycol monoalkyl ether |
Propylene glycol ethyl ether, see Propylene glycol monoalkyl ether |
Propylene glycol methyl ether, see Propylene glycol monoalkyl ether |
Propylene glycol methyl ether acetate | D
Propylene glycol monoalkyl ether | D
Including:
n-Propoxypropanol
Propylene glycol n-butyl ether
Propylene glycol ethyl ether
Propylene glycol methyl ether
Propylene glycol propyl ether
Propylene glycol phenyl ether | D
Propylene glycol propyl ether, see Propylene glycol monoalkyl ether |
Propylene polymer (in liquid mixtures) | #
Propylene tetramer | B
Propylene trimer | B
Pseudocumene, see Trimethylbenzenes |
Rum, see Alcoholic beverages, n.o.s. |
Sodium acetate, Glycol, Water mixture (containing 1% or less, Sodium hydroxide) (if flammable or combustible) | #
Sodium acetate solution | D
Sodium benzoate solution | D
Sodium long chain alkyl salicylate (C13+) | [C]
Soyabean oil (epoxidized) | [D]
Stearic acid, see Fatty acid (saturated, C14+) |
Stearyl alcohol (octadecanol) | III
Sulfohydrocarbon (C3-C88) | D
Sulfohydrocarbon, long chain (C18+) alkylamine | B
Sulfolane | D
Sulfurized fat (C14-C20) | D
Sulfurized polyolefinamide alkene(C28-C250)amine | D
Tallow | D
Tallow alcohol, see Alcohols (C13+) |
Tallow fatty acid | D
Tallow alkyl nitrile | #
Tetradecanol, see Alcohols (C13+) |
Tetradecene, see the olefin or alpha-olefin entries |
Tetradecylbenzene, see Alkyl(C9+)benzenes | III
Tetraethylene glycol | III
Tetrahydronaphthalene | C
Tetrapropylbenzene, see Alkyl(C9+)benzenes |
Toluene | C
Triarylphosphate, see Triisopropylated phenyl phosphates |
Tributyl phosphate | B
Tricresyl phosphate (less than 1% of the ortho isomer) | A
Tridecane, see n-Alkanes (C10+) |
Tridecanoic acid | B
Tridecanol, see Alcohols (C13+) |
Tridecene, see Olefins (C13+) |
Tridecyl acetate | III
Tridecylbenzene, see Alkyl(C9+)benzenes | III
Triethylbenzene | A
Triethylene glycol | III
Triethylene glycol butyl ether, see Poly(2-8)alkylene glycol monoalkyl(C1-C6) ether |
Triethylene glycol butyl ether mixture | #
Triethylene glycol di-(2-ethylbutyrate) | [C]
Triethylene glycol ether mixture | #
Triethylene glycol ethyl ether, see Poly(2-8)alkylene glycol monoalkyl(C1-C6) ether |
Triethylene glycol methyl ether, see Poly(2-8)alkylene glycol monoalkyl(C1-C6) ether |
Triethyl phosphate | D
Triisooctyl trimellitate | #
Triisopropanolamine | III
Triisopropylated phenyl phosphates | A
Trimethylbenzene (all isomers) | A
Trimethylol propane polyethoxylate | D
2,2,4-Trimethyl-1,3-pentanediol diisobutyrate | III
2,2,4-Trimethyl-3-pentanol-1-isobutyrate | #
Tripropylene, see Propylene trimer |
Tripropylene glycol | III
Tripropylene glycol methyl ether, see Poly(2-8)alkylene glycol monoalkyl(C1-C6) ether |
Trixylenyl phosphate | A
Trixylyl phosphate, see Trixylenyl phosphate | A
Turpentine | B
†Turpentine substitute, see White spirit (low (15-20%) aromatic) |
Undecanol, see 1- Undecyl alcohol |
Undecene | B
1- Undecyl alcohol | B
Undecylbenzene, see Alkyl(C9+)benzenes | III
Vegetable oils, n.o.s. (see also Oil, edible) | D
Including:
Beechnut oil
Castor oil
Cocoa butter
Coconut oil
Corn oil
Cottonseed oil
Groundnut oil
Hazelnut oil
Linseed oil
Nutmeg butter
Oiticica oil
Olive oil
Palm kernel oil
Palm oil
Peel oil (oranges and lemons)
Perilla oil
Poppy oil
Raisin seed oil
Rapeseed oil
Rice bran oil
Safflower oil
Salad oil
Sesame oil
Soya bean oil
Sunflower seed oil
Tucum oil
Tung oil
Walnut oil
Vegetable acid oils and distillates, n.o.s. | D
Including:
Corn acid oil
Cottonseed acid oil
Dark mixed acid oil
Groundnut acid oil
Mixed acid oil
Mixed general acid oil
Mixed hard acid oil
Mixed soft acid oil
Rapeseed acid oil
Safflower acid oil
Soya acid oil
Sunflower seed acid oil
Waxes: | D
Candelilla | @D
Carnauba | @D
Paraffin | III
†White spirit, see White spirit (low (15-20%) aromatic) |
†White spirit (low (15-20%) aromatic) | B
Wine, see Alcoholic beverages, n.o.s. |
Xylenes (ortho-, meta-, para-) | C
Zinc alkaryl dithiophosphate (C7-C16) | C
Zinc alkenyl carboxamide | D
Zinc alkyl dithiophosphate (C3-C14) | B
Note: See table 2 of part 153 for additional cargoes permitted to be carried by tank barge.
Explanation of Symbols: As used in this table the following stands for:
A, B, C, D—NLS Category of Annex II of MARPOL 73/78.
I—Considered an “oil” under Annex I of MARPOL 73/78.
III—Appendix III of Annex II (non-NLS cargoes) of MARPOL 73/78.
LFG—Liquefied flammable gas.
#—No determination of NLS status. For shipping on an oceangoing vessel, see 46 CFR 153.900(c).
[ ]—A NLS category in brackets indicates that the product is provisionally categorized and that further data are necessary to complete the evaluation of its pollution hazards. Until the hazard evaluation is completed, the pollution category assigned is used.
@—The NLS category has been assigned by the U.S. Coast Guard, in absence of one assigned by the IMO. The category is based upon a GESAMP Hazard Profile or by analogy to a closely related product having an NLS assigned.
†—The provisions contained in 46 CFR part 197, subpart C, may apply to this cargo.
Abbreviations for Noxious liquid Cargoes:
N.F.—non-flammable (flash point greater than 60 degrees C (140 degrees F) cc).
F.—flammable (flash point less than or equal to 60 degrees C (140 degrees F) cc).
n.o.s.—not otherwise specified.
ST—Ship type.
Cat—Pollution category.
Words in italic are not part of the cargo name but may be used in addition to the cargo name.
When one entry references another entry by use of the word “see”, and both names are in roman type, either name may be used as the cargo name (e.g., Diethyl ether, see Ethyl ether). However, the referenced entry is preferred.

PART 150—COMPATIBILITY OF CARGOES

7. The citation of authority for part 150 continues to read as follows:

Authority: 46 U.S.C. 3306, 3703; 49 CFR 1.45, 1.46. Section 150.105 issued under 44 U.S.C. 3507; 49 CFR 1.45.

8. Revise Table I to read as follows:

Table I.—Alphabetical List of Cargoes
Chemical name | Group No. | Foot- note | CHRIS Code | Related CHRIS Codes
Acetaldehyde | 19 |  | AAD |
Acetic acid | 4 | 2 | AAC |
Acetic anhydride | 11 |  | ACA |
Acetochlor | 10 |  | ACG |
Acetone | 18 | 2 | ACT |
Acetone cyanohydrin | 0 | 1, 2 | ACY |
Acetonitrile | 37 |  | ATN |
Acetophenone | 18 |  | ACP |
Acrolein | 19 | 2 | ARL |
Acrylamide solution | 10 |  | AAM |
Acrylic acid | 4 | 2 | ACR |
Acrylonitrile | 15 | 2 | ACN |
Acrylonitrile-Styrene copolymer dispersion in Polyether polyol | 20 |  | ALE |
Adiponitrile | 37 |  | ADN |
Alachlor | 33 |  | ALH
Alcohols (C13+) | 20 |  | ALY |
Including: |  |  |  |
Oleyl alcohol (octadecenol) |  |  |  |
Pentadecanol |  |  |  |
Tallow alcohol |  |  |  |
Tetradecanol |  |  |  |
Tridecanol |  |  |  |
Alcoholic beverages | 20 |  |  |
Alcohol polyethoxylates | 20 |  |  | APU/APV/APW/AET
Alcohol polyethoxylates, secondary | 20 |  |  | AEA/AEB
Alkanes (C6-C9) | 31 | 1 | ALK |
Including: |  |  |  |
Heptanes |  |  |  |
Hexanes |  |  |  |
Nonanes |  |  |  |
Octanes |  |  |  |
n-Alkanes (C10+) | 31 | 1 | ALJ |
Including: |  |  |  |
Decanes |  |  |  |
Dodecanes |  |  |  |
Heptadecanes |  |  |  |
Tridecanes |  |  |  |
Undecanes |  |  |  |
iso- & cyclo-Alkanes (C10-C11) | 31 | 1 | AKI |
iso- & cyclo-Alkanes (C12+) | 31 | 1 | AKJ |
Alkane (C14-C17) sulfonic acid, sodium salt solution | 34 |  | AKA |
Alkaryl polyether (C9-C20) | 41 |  | AKP
Alkenyl(C11+)amide | 11 |  | AKM |
Alkenyl(C16-C20)succinic anhydride | 11 |  | AAH
Alkyl acrylate-Vinyl pyridine copolymer in Toluene | 32 | 2 | AAP |
Alkyl(C8+)amine, Alkenyl (C12+) acid ester mixture | 34 |  | AAA
Alkylaryl phosphate mixtures (more than 40% Diphenyl tolyl phosphate, less than 0.02% ortho-isomer) | 34 |  | APD |
Alkyl(C3-C4)benzenes | 32 | 2 | AKC
Including: |  |  |  |
Butylbenzenes |  |  |  |
Cumene |  |  |  |
Propylbenzenes |  |  |  |
Alkyl(C5-C8)benzenes | 32 | 2 | AKD |
Including: |  |  |  |
Amylbenzenes |  |  |  |
Heptylbenzenes |  |  |  |
Hexylbenzenes |  |  |  |
Octylbenzenes |  |  |  |
Alkyl(C9+)benzenes | 32 | 2 | AKB |
Including: |  |  |  |
Decylbenzenes |  |  |  |
Dodecylbenzenes |  |  |  |
Nonylbenzenes |  |  |  |
Tetradecylbenzenes |  |  |  |
Tetrapropylbenzenes |  |  |  |
Tridecylbenzenes |  |  |  |
Undecylbenzenes |  |  |  |
Alkylbenzene, Alkylindane, Alkylindene mixture (each C12-C17) | 32 | 2 | AIH
Alkylbenzenesulfonic acid | 0 | 1, 2 |  | ABS/ABN
Alkylbenzenesulfonic acid, sodium salt solutions | 33 |  | ABT |
Alkyl dithiothiadiazole (C6-C24) | 33 |  | ADT
Alkyl ester copolymer (C4-C20) | 34 |  | AES
Alkyl(C7-C9) nitrates | 34 | 2 | AKN | ONE
Alkyl(C7-C11) phenol poly(4-12)ethoxylate | 40 |  | APN |
Alkyl(C8-C40) phenol sulfide | 34 |  | AKS
Alkyl(C8-C9) phenylamine in aromatic solvents | 9 |  | ALP |
Alkyl(C9-C15) phenyl propoxylate | 40 |  |  |
Alkyl phthalates | 34 |  |  |
Alkyl(C10-C20, saturated and unsaturated) phosphite | 34 |  | AKL |
Alkyl polyglucoside solutions | 43 |  |  | AGL/AGN/AGO/AGP/AGM
Alkyl sulfonic acid ester of phenol | 34 |  |
Allyl alcohol | 15 | 2 | ALA |
Allyl chloride | 15 | 1 | ALC |
Aluminium chloride, Hydrochloric acid solution | 0 | 1 | AHS |
Aluminum sulfate solution | 43 | 2 | ASX | ALM
2-(2-Aminoethoxy)ethanol | 8 |  | AEX |
Aminoethyldiethanolamine, Aminoethylethanolamine solution | 8 |  |  |
Aminoethylethanolamine | 8 |  | AEE |
N-Aminoethylpiperazine | 7 |  | AEP |
2-Amino-2-hydroxymethyl-1,3-propanediol solution | 43 |  | AHL |
2-Amino-2-methyl-1-propanol | 8 |  | APQ | APR
Ammonia, anhydrous | 6 |  | AMA |
Ammonia, aqueous (28% or less Ammonia) (IMO cargo name), see Ammonium hydroxide | 6 |  |  | AMH
Ammonium bisulfite solution | 43 | 2 | ABX | ASU
Ammonium hydrogen phosphate solution | 0 | 1 | AMI |
Ammonium hydroxide (28% or less Ammonia) | 6 |  | AMH |
Ammonium lignosulfonate solution, see also Lignin liquor | 43 |  |  |
Ammonium nitrate solution | 0 | 1 | ANR | AND/AMN
Ammonium nitrate, Urea solution (containing Ammonia) | 6 |  | UAS |
Ammonium nitrate, Urea solution (not containing Ammonia) | 43 |  | ANU | UAT
Ammonium polyphosphate solution | 43 |  | AMO | APP
Ammonium sulfate solution | 43 |  | AME | AMS
Ammonium sulfide solution | 5 |  | ASS | ASF
Ammonium thiocyanate, Ammonium thiosulfate solution | 0 | 1 | ACS |
Ammonium thiosulfate solution | 43 |  | ATV | ATF
Amyl acetate | 34 |  | AEC | IAT/AML/AAS/AYA
Amyl alcohol | 20 |  | AAI | IAA/AAN/ASE/APM
Amylene, see Pentene |  |  | AMZ | PTX
tert-Amyl methyl ether (see also, Methyl tert-pentyl ether) | 41 |  | AYE |
Amyl methyl ketone, see Methyl amyl ketone |  |  | AMK | MAK
Aniline | 9 |  | ANL |
Animal and Fish oils, n.o.s. | 34 |  | AFN
Including: |  |  |  |
Cod liver oil |  |  |  |
Lanolin |  |  |  |
Neatsfoot oil |  |  |  |
Pilchard oil |  |  |  |
Sperm oil |  |  |  |
Animal and Fish acid oils and distillates, n.o.s. | 34 |  | AFA
Including: |  |  |  |
Animal acid oil |  |  |  |
Fish acid oil |  |  |  |
Lard acid oil |  |  |  |
Mixed acid oil |  |  |  |
Mixed general acid oil |  |  |  |
Mixed hard acid oil |  |  |  |
Mixed soft acid oil |  |  |  |
Anthracene oil (Coal tar fraction), see Coal tar | 33 |  | AHO | COR
Apple juice | 43 |  |
Aryl polyolefin (C11-C50) | 30 |  | AYF
Asphalt | 33 |  | ASP | ACU
Asphalt blending stocks, roofers flux | 33 |  | ARF |
Asphalt blending stocks, straight run residue | 33 |  | ASR |
Asphalt emulsion (ORIMULSION) | 33 |  | ASQ |
Aviation alkylates | 33 |  | AVA | GAV
Barium long chain alkaryl(C11-C50) sulfonate | 34 |  | BCA
Barium long chain alkyl(C8-C14)phenate sulfide | 34 |  | BCH
Behenyl alcohol | 20 |  |  |
Benzene | 32 | 2 | BNZ |
Benzene hydrocarbon mixtures (having 10% Benzene or more) | 32 | 2 | BHB | BHA
Benzenesulfonyl chloride | 0 | 1, 2 | BSC |
Benzene, Toluene, Xylene mixtures | 32 | 2 | BTX |
Benzene tricarboxylic acid, trioctyl ester | 34 |  |  |
Benzylacetate | 34 |  | BZE |
Benzyl alcohol | 21 |  | BAL |
Benzyl chloride | 36 |  | BCL |
Brake fluid base mixtures | 20 |  | BFX |
Bromochloromethane | 36 |  | BCM |
Butadiene | 30 |  | BDI |
Butadiene, Butylene mixtures (cont. Acetylenes) | 30 |  | BBM |
Butane | 31 | 1 | BMX | IBT/BUT
1,4-Butanediol, see Butylene glycol |  |  | BDO | BUG
2-Butanone, see Methyl ethyl ketone |  |  |  |
Butene, see Butylene |  |  |  | IBL/BTN
Butene oligomer | 30 |  | BOL |
Butyl acetate | 34 |  | BAX | IBA/BCN/BTA/BYA
Butyl acrylate | 14 | 1 | BAR | BAI/BTC
Butyl alcohol | 20 | 2 | BAY | IAL/BAN/BAS/BAT
Butylamine | 7 |  | BTY | IAM/BAM/BTL/BUA
Butylbenzene, see Alky(C3-C4)benzenes | 32 | 2 | BBE | AKC
Butyl benzyl phthalate | 34 |  | BPH |
Butyl butyrate | 34 |  | BBA | BUB/BIB
Butylene | 30 |  | BTN | IBL
Butylene glycol | 20 | 2 | BUG | BDO
1,3-Butylene glycol, see Butylene glycol |  |  |  | BUG
Butylene oxide | 16 | 1 | BTO |
Butyl ether | 41 |  | BTE |
Butyl formate | 34 |  |  | BFI/BFN
Butyl heptyl ketone | 18 |  | BHK |
Butyl methacrylate | 14 | 1 | BMH | BMI/BMN
Butyl methacrylate, Decyl methacrylate, Cetyl-Eicosyl methacrylate mixture | 14 | 1 | DER |
Butyl methyl ketone, see Methyl butyl ketone |  |  |  | MBK
Butyl phenol, Formaldehyde resin in Xylene | 32 | 2 |  |
n-Butyl propionate | 34 |  | BPN
Butyl stearate | 34 |  |
Butyl toluene | 32 | 2 | BUE |
Butyraldehyde | 19 |  | BAE | BAD/BTR
Butyric acid | 4 |  | BRA | IBR
gamma-Butyrolactone | 0 | 1, 2 | BLA |
C9 Resinfeed (DSM) | 32 | 2 | CNR |
Calcium alkyl(C9)phenol sulfide, polyolefin phosphorosulfide mixture | 34 |  | CPX
Calcium alkyl salicylate, see Calcium long chain alkyl salicylate (C13+) |  |  |  | CAK
Calcium bromide solution, see Drilling brines |  |  |  | DRB
Calcium bromide, Zinc bromide solution, see Drilling brine (containing Zinc salts) |  |  |  | DZB
Calcium carbonate slurry | 34 |  |
Calcium chloride solution | 43 |  | CCS | CLC
Calcium hydroxide slurry | 5 |  | COH
Calcium hypochlorite solutions | 5 |  |  | CHZ/CHU/CHY
Calcium lignosulfonate solution, see also Lignin liquor | 43 |  |  |
Calcium long chain alkaryl sulfonate (C11-C50) | 34 |  | CAY
Calcium long chain alkyl phenates | 34 |  |  | CAN/CAW
Calcium long chain alkyl phenate sulfide (C8-C40) | 34 |  | CPI
Calcium long chain alkyl salicylate (C13+) | 34 |  | CAK
Calcium long chain alkyl phenolic amine (C8-C40) | 9 |  | CPQ
Calcium nitrate solution | 34 |  | CNU |
Calcium nitrate, Magnesium nitrate, Potassium chloride solution | 34 |  |  |
Calcium sulfonate, Calcium carbonate, Hydrocarbon solvent mixture | 33 |  |  |
Camphor oil | 18 |  | CPO |
Canola oil, see rapeseed oil under “oils, edible.” |  |  |  |
Caprolactam solution | 22 |  | CLS |
Caramel solutions | 43 |  |  |
Carbolic oil | 21 |  | CBO |
Carbon disulfide | 38 |  | CBB |
Carbon tetrachloride | 36 | 2 | CBT |
Cashew nut shell oil (untreated) | 4 |  | OCN |
Catoxid feedstock | 36 | 2 | CXF |
Caustic potash solution | 5 | 2 | CPS |
Caustic soda solution | 5 | 2 | CSS |
Cetyl alcohol (hexadecanol), see Alcohols (C13+) |  |  |  | ALY
Cetyl-Eicosyl methacrylate mixture | 14 | 1 | CEM |
Cetyl-Stearyl alcohol, see Alcohols (C13+) |  |  |  | ALY
Chlorinated paraffins (C10-C13) | 36 |  | CLH |
Chlorinated paraffins (C14-C17) (with 52% Chlorine) | 36 |  | CLJ |
Chlorine | 0 | 1 | CLX |
Chloroacetic acid solution | 4 |  | CHM | CHL/MCA
Chlorobenzene | 36 |  | CRB |
Chlorodifluoromethane (monochlorodifluoromethane) | 36 |  | MCF |
Chloroform | 36 |  | CRF |
Chlorohydrins | 17 | 1 | CHD |
4-Chloro-2-methylphenoxyacetic acid, Dimethylamine salt solution | 9 |  | CDM |
Chloronitrobenzene | 42 |  | CNO |
1-(4-Chlorophenyl)-4,4-dimethyl pentan-3-one | 18 | 2 | CDP
Chloropropionic acid | 4 |  | CPM | CLA/CLP
Chlorosulfonic acid | 0 | 1 | CSA |
Chlorotoluene | 36 |  | CHI | CTM/CTO/CRN
Choline chloride solutions | 20 |  | CCO |
Citric acid | 4 |  | CIS | CIT
Clay slurry, see also Kaolin clay slurry | 43 |  |
Coal tar | 33 |  | COR | OCT
Coal tar distillate | 33 |  | CDL |
Coal tar, high temperature | 33 |  | CHH
Coal tar pitch | 33 |  | CTP |
Cobalt naphthenate in solvent naphtha | 34 |  | CNS
Coconut oil, fatty acid | 34 |  | CFA |
Copper salt of long chain (C17+) alkanoic acid | 34 |  | CUS | CFT
Corn syrup | 43 |  | CSY |
Cottonseed oil, fatty acid | 34 |  | CFY |
Creosote | 21 | 2 | CCT | CCW/CWD
Cresols | 21 |  | CRS | CRL/CSL/CSO
Cresylate spent caustic | 5 |  | CSC |
Cresylic acid | 21 |  | CRY |
Cresylic acid, dephenolized | 21 |  | CAD
Cresylic acid, sodium salt solution (IMO cargo name), see Cresylate spent caustic | 5 |  |  | CSC
Cresylic acid tar | 21 |  | CRX |
Crotonaldehyde | 19 | 2 | CTA |
Cumene (isopropyl benzene), see Propylbenzene |  |  | CUM | PBY
1,5,9-Cyclododecatriene | 30 |  | CYT |
Cycloheptane | 31 | 1 | CYE |
Cyclohexane | 31 | 1 | CHX |
Cyclohexanol | 20 |  | CHN |
Cyclohexanone | 18 |  | CCH |
Cyclohexanone, Cyclohexanol mixtures | 18 | 2 | CYX |
Cyclohexyl acetate | 34 |  | CYC |
Cyclohexylamine | 7 |  | CHA |
1,3-Cyclopentadiene dimer | 30 |  | CPD | DPT
Cyclopentadiene, Styrene, Benzene mixture | 30 |  | CSB |
Cyclopentane | 31 | 1 | CYP |
Cyclopentene | 30 |  | CPE |
Cymene | 32 | 2 | CMP |
Decahydronaphthalene | 33 |  | DHN |
Decaldehyde | 19 |  |  | IDA/DAL
Decane, see n-Alkanes (C10+) |  |  | DCC | ALJ
Decanoic acid | 4 |  | DCO |
Decene | 30 |  | DCE |
Decyl acetate | 34 |  | DYA
Decyl acrylate | 14 | 1 | DAT | IAI/DAR
Decyl alcohol | 20 | 2 | DAX | ISA/DAN
Decylbenzene, see Alkyl(C9+) benzenes | 32 | 2 | DBZ | AKB
Decyloxytetrahydro-thiophene dioxide | 0 | 1, 2 | DHT |
Degummed C9 (DOW) | 33 |  | DGC |
Dextrose solution, see Glucose solution | 43 |  | DTS | GLU
Diacetone alcohol | 20 | 2 | DAA |
Dialkyl(C10-C14) benzenes, see Alkyl(C9+) benzenes | 32 | 2 | DAB | AKB
Dialkyl(C8-C9) diphenylamines | 9 |  | DAQ
Dialkyl(C7-C13) phthalates | 34 |  | DAH |
Including: |  |  |  |
Diisodecyl phthalate |  |  |  |
Diisononyl phthalate |  |  |  |
Dinonyl phthalate |  |  |  |
Ditridecyl phthalate |  |  |  |
Diundecyl phthalate |  |  |  |
Dibromomethane | 36 |  | DBH |
Dibutylamine | 7 |  | DBA |
Dibutyl carbinol, see Nonyl alcohol |  |  |  | NNS
Dibutyl hydrogen phosphonate | 34 |  | DHD
Dibutylphenols | 21 |  |  | DBT/DBV, DBW
Dibutyl phthalate | 34 |  | DPA |
Dichlorobenzene | 36 |  | DBX | DBM/DBO/DBP
3,4-Dichloro-1-butene | 36 |  | DCD | DCB
Dichlorodifluoromethane | 36 |  | DCF |
1,1-Dichloroethane | 36 |  | DCH |
2,2'-Dichloroethyl ether | 41 |  | DEE |
1,6-Dichlorohexane | 36 |  | DHX
2,2'-Dichloroisopropyl ether | 36 |  | DCI |
Dichloromethane | 36 | 2 | DCM |
2,4-Dichlorophenol | 21 |  | DCP |
2,4-Dichlorophenoxyacetic acid, Diethanolamine salt solution | 43 |  | DDE |
2,4-Dichlorophenoxyacetic acid, Dimethylamine salt solution | 0 | 1, 2 | DAD | DDA/DSX
2,4-Dichlorophenoxyacetic acid, Triisopropano-lamine salt solution | 43 | 2 | DTI |
Dichloropropane | 36 |  | DPX | DPB/DPP/DPC/DPL
1,3-Dichloropropene | 15 | 1 | DPS | DPU/DPF
Dichloropropene, Dichloropropane mixtures | 15 | 1 | DMX |
2,2-Dichloropropionic acid | 4 |  | DCN |
Dicyclopentadiene, see also 1,3-Cyclopentadiene dimer | 30 |  | DPT | CPD
Diethanolamine | 8 |  | DEA |
Diethanolamine salt of 2,4-Dichlorophenoxyacetic acid solution, see 2,4-Dichlorophenoxyacetic acid, Diethanolamine salt solution |  |  |  | DDE
Diethylamine | 7 |  | DEN |
Diethylaminoethanol (IMO cargo name), see Diethylethanolamine | 8 |  |  | DAE
2,6-Diethylaniline | 9 |  | DMN |
Diethylbenzene | 32 | 2 | DEB |
Diethylene glycol | 40 | 2 | DEG |
Diethylene glycol butyl ether, see Poly(2-8)alkylene glycol monoalkyl(C1-C6) ether |  |  | DME | PAG
Diethylene glycol butyl ether acetate, see Poly(2-8)alkylene glycol monoalkyl(C1-C6) ether acetate |  |  | DEM | PAF
Diethylene glycol dibenzoate | 34 |  | DGZ |
Diethylene glycol dibutyl ether | 40 |  | DIG |
Diethylene glycol diethyl ether | 40 |  |
Diethylene glycol ethyl ether, see Poly(2-8)alkylene glycol monoalkyl (C1-C6) ether |  |  | DGE | PAG
Diethylene glycol ethyl ether acetate, see Poly(2-8)alkylene glycol monoalkyl(C1-C6) ether acetates |  |  | DGA | PAF
Diethylene glycol n-hexyl ether, see Poly(2-8)alkylene glycol monoalkyl(C1-C6) ether |  |  | DHE | PAG
Diethylene glycol methyl ether, see Poly(2-8)alkylene glycol monoalkyl(C1-C6) ether |  |  | DGM | PAG
Diethylene glycol methyl ether acetate, see Poly(2-8)alkylene glycol monoalkyl(C1-C6) ether acetate |  |  | DGR | PAF
Diethylene glycol phenyl ether | 40 |  | DGP |
Diethylene glycol phthalate | 34 |  | DGL |
Diethylene glycol propyl ether, see Poly(2-8)alkylene glycol monoalkyl(C1-C6) ether |  |  | DGO | PAG
Diethylenetriamine | 7 | 2 | DET |
Diethylenetriamine pentaacetic acid, pentasodium salt solution | 43 |
Diethylethanolamine | 8 |  | DAE |
Diethyl ether (IMO cargo name), see Ethyl ether | 41 |  |  | EET
Diethyl hexanol, see Decyl alcohol |  |  |  | DAX
Di-(2-ethylhexyl)adipate | 34 |  | DEH |
Di-(2-ethylhexyl)phosphoric acid | 1 | 1 | DEP |
Di-(2-ethylhexyl)phthalate, see Dioctyl phthalate | 34 |  | DIE | DOP
Diethyl phthalate | 34 |  | DPH |
Diethyl sulfate | 34 |  | DSU |
Diglycidyl ether of Bisphenol A | 41 |  | BDE | BPA
Diglycidyl ether of Bisphenol F | 41 |  | DGF |
Diheptyl phthalate | 34 |  | DHP |
Di-n-hexyl adipate | 34 |  | DHA |
Dihexyl phthalate | 34 |  |
1,4-Dihydro-9,10-dihydroxy anthracene, disodium salt solution | 5 |  | DDH |
Diisobutylamine | 7 |  | DBU |
Diisobutyl carbinol (commercial cargo name), see Nonyl alcohol | 20 |  | DBC | NNS
Diisobutylene | 30 |  | DBL |
Diisobutyl ketone | 18 |  | DIK |
Diisobutyl phthalate | 34 |  | DIT |
Diisodecyl phthalate, see Dialkyl(C7-C13) phthalates |  |  | DID | DAH
Diisononyl adipate | 34 |  | DNY |
Diisononyl phthalate, see Dialkyl(C7-C13) phthalates |  |  | DIN | DAH
Diisooctyl phthalate | 34 |  | DIO |
Diisopropanolamine | 8 |  | DIP |
Diisopropylamine | 7 |  | DIA |
Diisopropylbenzene | 32 | 2 | DIX |
Diisopropyl naphthalene | 32 | 2 | DII |
N,N-Dimethylacetamide | 10 |  | DAC |
N,N-Dimethylacetamide solution | 10 |  | DLS |
Dimethyl adipate | 34 |  | DLA |
Dimethylamine | 7 |  | DMA |
Dimethylamine solution | 7 |  |  | DMG/DMY/DMC
Dimethylamine salt of 4-Chloro-2-methylphenoxyacetic acid solution, see 4-Chloro-2-methylphenoxyacetic acid, Dimethylamine salt solution |  |  |  | CDM
Dimethylamine salt of 2,4-Dichlorophenoxyacetic acid solution, see 2,4-Dichlorophenoxyacetic acid, Dimethylamine salt solution |  |  |  | DAD/(DDA/DSX)
2,6-Dimethylaniline | 9 |  | DMM |
Dimethylbenzene, see Xylenes |  |  |  | XLX
Dimethylcyclicsiloxane hydrolyzate | 34 |  |  |
N,N-Dimethylcyclohexylamine | 7 |  | DXN |
N,N-Dimethyldodecylamine (IMO cargo name), see Dodecyldimethylamine | 7 |  | DDY |
Dimethylethanolamine | 8 |  | DMB |
Dimethylformamide | 10 |  | DMF |
Dimethyl furan | 41 |  |  |
Dimethyl glutarate | 34 |  | DGT |
Dimethyl hydrogen phosphite | 34 | 2 | DPI |
Dimethyl naphthalene sulfonic acid, sodium salt solution | 34 | 2 | DNS |
Dimethyloctanoic acid | 4 |  | DMO |
Dimethyl phthalate | 34 |  | DTL |
Dimethylpolysiloxane, see Polydimethylsiloxane | 34 |  | DMP |
2,2-Dimethylpropane-1,3-diol | 20 |  | DDI |
Dimethyl succinate | 34 |  | DSE |
Dinitrotoluene | 42 |  | DNM | DTT/DNL/DNU
Dinonyl phthalate, see Dialkyl(C7-C13) phthalates |  |  | DIF | DAH
Dioctyl phthalate | 34 |  | DOP | DIE
1,4-Dioxane | 41 |  | DOX |
Dipentene | 30 |  | DPN |
Diphenyl | 32 | 2 | DIL |
Diphenylamine (molten) | 9 |  | DAG | DAM/LRM
Diphenylamines, alkylated | 7 |  | DAJ
Diphenylamine, reaction product with 2,2,4-trimethylpentene | 7 |  | DAK |
Diphenyl, Diphenyl ether mixture | 33 |  | DDO | DTH
Diphenyl ether | 41 |  | DPE |
Diphenyl ether, Diphenyl phenyl ether mixture | 41 |  | DOB |
Diphenylmethane diisocyanate | 12 |  | DPM |
Diphenylol propane-Epichlorohydrin resins | 0 | 1 | DPR |
Diphenyl oxide, see as diphenyl ether |  |  |  |
Di-n-propylamine | 7 |  | DNA |
Dipropylene glycol | 40 |  | DPG |
Dipropylene glycol butyl ether, see Poly(2-8)alkylene glycol monoalkyl(C1-C6) ether |  |  | DBG | PAG
Dipropylene glycol dibenzoate | 34 |  | DGY |
Dipropylene glycol methyl ether, see Poly (2-8)alkylene glycol monoalkyl(C1-C6) ether |  |  | DPY | PAG
Distillates, flashed feed stocks | 33 |  | DFF |
Distillates, straight run | 33 |  | DSR |
Dithiocarbamate ester (C7-C35) | 34 |  | DHO
Ditridecyl adipate | 34 |  |  |
Ditridecyl phthalate, see Dialkyl(C7-C13) phthalates |  |  | DTP | DAH
Diundecyl phthalate, see Dialkyl(C7-C13) phthalates |  |  | DUP | DAH
Dodecane | 31 | 1 | DOC | ALJ
tert-Dodecanethiol | 0 | 2 | DDL |
Dodecanol | 20 | 2 | DDN | LAL
Dodecene | 30 |  | DOZ | DDC/DOD
2-Dodecenylsuccinic acid, dipotassium salt solution | 34 |  |  | DSP
Dodecyl alcohol (IMO cargo name), see Dodecanol |  |  |  | DDN
Dodecylamine, Tetradecylamine mixture | 7 | 2 | DTA |
Dodecylbenzene, see Alkyl(C9+)benzenes | 32 | 2 | DDB | AKB
Dodecylbenzenesulfonic acid | 0 | 1, 2 | DSA |
Dodecyldimethylamine, Tetradecyldimethylamine mixture | 7 |  | DOT
Dodecyl diphenyl ether disulfonate solution | 43 |  | DOS |
Dodecyl hydroxypropyl sulfide | 0 | 1, 2 | DOH |
Dodecyl methacrylate | 14 | 1 | DDM |
Dodecyl-Octadecyl methacrylate mixture | 14 | 1 | DOM |
Dodecyl-Pentadecyl methacrylate mixtures | 14 | 1 | DDP |
Dodecyl phenol | 21 |  | DOL |
Dodecyl xylene | 32 | 2 | DXY
Drilling brine (containing Calcium, Potassium or Sodium salts) | 43 |  |  | DRB
Drilling brine (containing Zinc salts) | 43 |  | DZB |
Drilling mud (low toxicity) (if flammable or combustible) | 33 |  |  | DRM
Drilling mud (low toxicity) (if non-flammable or non-combustible) | 43 |  |  | DRM
Epichlorohydrin | 17 | 1 | EPC |
Epoxy resin | 18 |  |  |
ETBE, see Ethyl tert-butyl ether |  |  |  | EBE
Ethane | 31 | 1 | ETH |
Ethanolamine (monoethanolamine) | 8 |  | MEA |
2-Ethoxyethanol, see Ethylene glycol monoalkyl ethers |  |  | EEO | EGC
2-Ethoxyethyl acetate | 34 |  | EEA |
Ethoxylated alcohols, C11-C15, see the alcohol poylethoxylates |  |  |  |
Ethoxylated long chain (C16+) alkyloxyalkanamine | 8 |  | ELA |
Ethoxy triglycol | 40 |  | ETG |
Ethyl acetate | 34 |  | ETA |
Ethyl acetoacetate | 34 |  | EAA |
Ethyl acrylate | 14 | 1 | EAC |
Ethyl alcohol | 20 | 2 | EAL |
Ethylamine | 7 | 2 | EAM |
Ethylamine solution | 7 |  | EAN |
Ethyl amyl ketone | 18 |  | EAK | ELK
Ethylbenzene | 32 | 2 | ETB |
Ethyl butanol | 20 |  | EBT |
N-Ethyl-n-butylamine | 7 |  | EBA |
Ethyl tert-butyl ether | 41 | 2 | EBE |
Ethyl butyrate | 34 |  | EBR |
Ethyl chloride | 36 |  | ECL |
Ethyl cyclohexane | 31 | 1 | ECY
N-Ethylcyclohexylamine | 7 |  | ECC |
Ethylene | 30 |  | ETL |
Ethyleneamine EA 1302 | 7 | 2 | EMX | EDA
Ethylene carbonate | 34 |  |
Ethylene chlorohydrin | 20 |  | ECH |
Ethylene cyanohydrin | 20 |  | ETC |
Ethylenediamine | 7 | 2 | EDA | EMX
Ethylenediaminetetraacetic acid, tetrasodium salt solution | 43 |  | EDS |
Ethylene dibromide | 36 |  | EDB |
Ethylene dichloride | 36 | 2 | EDC |
Ethylene glycol | 20 | 2 | EGL |
Ethylene glycol acetate | 34 |  | EGO |
Ethylene glycol butyl ether, see Ethylene glycol monoalkyl ethers |  |  | EGM | EGC
Ethylene glycol tert-butyl ether, see Ethylene glycol monoalkyl ethers |  |  |  | EGC
Ethylene glycol butyl ether acetate | 34 |  | EMA |
Ethylene glycol diacetate | 34 |  | EGY |
Ethylene glycol dibutyl ether | 40 |  | EGB |
Ethylene glycol ethyl ether, see Ethyl glycol monoalkyl ethers |  |  | EGE | EGC/EEO
Ethylene glycol ethyl ether acetate, see 2-Ethoxyethyl acetate |  |  | EGA | EEA
Ethylene glycol hexyl ether | 40 |  | EGH |
Ethylene glycol isopropyl ether, see Ethylene glycol monoalkyl ethers |  |  | EGI | EGC
Ethylene glycol methyl butyl ether, see Ethylene glycol monoalkyl ethers | 40 |  | EMB | EGC
Ethylene glycol methyl ether, see Ethylene glycol monoalkyl ethers |  |  | EME | EGC
Ethylene glycol methyl ether acetate | 34 |  | EGT |
Ethylene glycol monoalkyl ethers | 40 |  | EGC |
Including: |  |  |  |
Ethylene glycol butyl ether |  |  |  |
Ethylene glycol isobutyl ether |  |  |  |
Ethylene glycol tert-butyl ether |  |  |  |
Ethylene glycol ethyl ether |  |  |  |
Ethylene glycol hexyl ether |  |  |  |
Ethylene glycol methyl ether |  |  |  |
Ethylene glycol propyl ether |  |  |  |
Ethylene glycol isopropyl ether |  |  |  |
Ethylene glycol phenyl ether | 40 |  | EPE |
Ethylene glycol phenyl ether, Diethylene glycol phenyl ether mixture | 40 |  | EDX |
Ethylene glycol propyl ether, see Ethylene glycol monoalkyl ethers |  |  | EGP | EGC
Ethylene glycol iso-propyl ether, see Ethylene glycol monoalkyl ethers |  |  | EGI | EGC
Ethylene oxide | 0 | 1 | EOX |
Ethylene oxide, Propylene oxide mixture | 16 | 1 | EPM |
Ethylene-Propylene copolymer | 30 |
Ethylene-Vinyl acetate copolymer emulsion | 43 |  |  |
Ethyl ether | 41 |  | EET |
Ethyl-3-ethoxypropionate | 34 |  | EEP |
2-Ethylhexaldehyde, see Octyl aldehydes |  |  | HA | OAL
2-Ethylhexanoic acid, see Octanoic acids |  |  | EHO | OAY
2-Ethylhexanol, see Octanol |  |  | EHX | OCX
2-Ethylhexyl acrylate | 14 | 1 | EAI |
2-Ethylhexylamine | 7 |  | EHM |
Ethyl hexyl phthalate | 34 |  | EHE |
Ethyl hexyl tallate | 34 |  | EHT |
2-Ethyl-1-(hydroxymethyl)propane-1,3-diol, C8-C10 ester | 34 |  | EHD |
Ethylidene norbornene | 30 | 2 | ENB |
Ethyl methacrylate | 14 | 1 | ETM |
N-Ethylmethylallylamine | 7 |  | EML |
2-Ethyl-6-methyl-N-(1'-methyl-2-methoxyethyl)aniline | 9 |  | EEM |
o-Ethyl phenol | 21 |  | EPL |
Ethyl propionate | 34 |  | EPR |
2-Ethyl-3-propylacrolein | 19 | 2 | EPA |
Ethyl toluene | 32 | 2 | ETE |
Fatty acids (saturated, C13+), see Fatty acids (saturated, C14+) |  |  |  |
Fatty acids (saturated, C14+) | 34 |  | FAD | SRA
Ferric chloride solution | 1 | 1 | FCS | FCL
Ferric hydroxyethylethylenediaminetriacetic acid, trisodium salt solution | 43 | 2 | FHX | STA
Ferric nitrate, Nitric acid solution | 3 |  | FNN |
Fish solubles (water based fish meal extracts) | 43 |  | FSO |
Fluorosilicic acid | 1 | 1 | FSJ |
Formaldehyde, Methanol mixtures | 19 | 2 | MTM |
Formaldehyde solution | 19 | 2 | FMS |
Formamide | 10 |  | FAM |
Formic acid | 4 | 2 | FMA |
Fructose solution | 43 |  |  |
Fumaric adduct of Rosin, water dispersion | 43 |  | FAR |
Furfural | 19 |  | FFA |
Furfuryl alcohol | 20 | 2 | FAL |
Gas oil, cracked | 33 |  | GOC |
Gasoline blending stock, alkylates | 33 |  | GAK |
Gasoline blending stock, reformates | 33 |  | GRF |
Gasolines:
Automotive (not over 4.23 grams lead per gal.) | 33 |  | GAT |
Aviation (not over 4.86 grams lead per gal) | 33 |  | GAV | AVA
Casinghead (natural) | 33 |  | GCS |
Polymer | 33 |  | GPL |
Straight run | 33 |  | GSR |
Glucose solution | 43 |  | GLU | DTS
Glutaraldehyde solution | 19 |  | GTA |
Glycerine | 20 | 2 | GCR |
Glycerine, Dioxanedimethanol mixture | 20 |  | GDM
Glycerol monooleate | 20 |  | GMO |
Glycerol polyalkoxylate | 34 |  |  |
Glyceryl triacetate | 34 |  |  |
Glycidyl ester of C10 trialkyl acetic acid (IMO cargo name), see Glycidyl ester of tridecyl acetic acid | 34 |  |  | GLT
Gylcidyl ester of tridecylacetic acid | 34 |  | GLT |
Glycidyl ester of Versatic acid, see Gylcidyl ester of tridecylacetic acid |  |  |  | GLT
Glycine, sodium salt solution | 7 |  |  |
Glycol diacetate, see Ethylene glycol diacetate |  |  |  | EGY
Glycolic acid solution | 4 |  | GLC |
Glyoxal solutions | 19 |  | GOS |
Glyoxylic acid | 4 |  | GAC
Glyphosate solution (not containing surfactant) (See also ROUNDUP) | 7 |  | GIO
Heptadecane, see n-Alkanes (C10+) |  |  |  | ALJ
Heptane | 31 | 1 | HMX | ALK (HPI/HPT)
n-Heptanoic acid | 4 |  | HEP |
Heptanol | 20 |  | HTX | HTN
Heptene | 30 |  | HPX | HTE
Heptyl acetate | 34 |  | HPE |
Herbicide (C15-H22-NO2-Cl), see Metolachlor |  |  |  | MCO
Hexadecanol (cetyl alcohol), see Alcohols (C13+) |  |  |  | ALY
1-Hexadecylnaphthalene, 1,4-bis(Hexadecyl)naphthalene mixture | 32 | 2 |
Hexaethylene glycol, see Polyethylene glycol |  |
Hexamethylene glycol | 20 |
Hexamethylenediamine | 7 |  | HME | HMD/HMC
Hexamethylenediamine solution | 7 |  | HMC | HMD/HME
Hexamethylenediamine adipate solution | 43 |  | HAM |
Hexamethylene diisocyanate | 12 |  | HDI
Hexamethylenetetramine | 7 |  | HMT |
Hexamethylenetetramine solutions | 7 |  | HTS |
Hexamethylenimine | 7 |  | HMI |
Hexane | 31 | 2 | HXS | ALK (IHA/HXA)
Hexanoic acid | 4 |  | HXO |
Hexanol | 20 |  | HXN |
Hexene | 30 |  | HEX | HXE/HXT/MPN/MTN
Hexyl acetate | 34 |  | HAE | HSA
Hexylene glycol | 20 |  | HXG |
HiTec 321 | 7 |  | HIT |
Hog grease, see Lard |  |  |  |
Hydrochloric acid | 1 | 1 | HCL |
Hydrofluorosilicic acid, see Fluorosilicic acid |  |  | HFS | FSJ
bis(Hydrogenated tallow alkyl)methyl amines | 7 |  | HTA |
Hydrogen peroxide solutions | 0 | 1 |  | HPN/HPS/HPO
2-Hydroxyethyl acrylate | 14 | 2 | HAI |
N-(Hydroxyethyl)ethylenediamine triacetic acid, trisodium salt solution | 43 |  | HET | FHX
N,N-bis(2-Hydroxyethyl) oleamide | 10 |  | HOO
2-Hydroxy-4-(methylthio)butanoic acid | 4 |  | HBA |
Hydroxy terminated polybutadiene (IMO cargo name), see Polybutadiene, hydroxy terminated | 20 |  |  |
alpha-hydro-omega-Hydroxytetradeca(oxytetramethylene), see Poly(tetramethylene ether) glycols (mw 950-1050) |  |  |  | HTO
Icosa(oxypropane-2,3-diyl)s | 20 |  | IOP |
Isophorone | 18 | 2 | IPH |
Isophorone diamine | 7 |  | IPI |
Isophorone diisocyanate | 12 |  | IPD |
Isoprene | 30 |  | IPR |
Isoprene concentrate (Shell) | 30 |  | ISC |
Isopropylbenzene (cumene), see Propylbenzene |  |  |  | PBY
Jet fuels:
JP-4 | 33 |  | JPF |
JP-5 | 33 |  | JPV |
JP-8 | 33 |  | JPE |
Kaolin clay slurry | 43 |  |  |
Kerosene | 33 |  | KRS |
Ketone residue | 18 |  | KTR |
Kraft black liquor | 5 |  |  | KPL
Kraft pulping liquors (Black, Green, or White) | 5 |  | KPL |
Lactic acid | 0 | 1, 2 | LTA
Lactonitrile solution | 37 |  | LNI |
Lard | 34 |  |  |
Latex (ammonia inhibited) | 30 |  | LTX
Latex, liquid synthetic | 43 |  | LLS | LTX
Lauric acid | 34 |  | LRA |
Lauryl polyglucose, see Alkyl(C12 -C14) polyglucoside solution (55% or less) |  |  | LAP | AGM
Lecithin | 34 |  | LEC |
Lignin liquor | 43 |  |  |
Lignin sulfonic acid, sodium salt solution, see Sodium lignosulfonate solution |  |  |  |
d-Limonene, see Dipentene |  |  |
Liquid Streptomyces solubles | 43 |
Long chain alkaryl polyether (C11-C20) | 41 |  | LCP
Long chain alkaryl sulfonic acid (C16-C60) | 0 | 1, 2 | LCS
Long chain alkylphenate/Phenol sulfide mixture | 21 |  | LPS
Long chain polyetheramine in alkyl(C2-C4)benzenes | 7 |  | LCE |
l-Lysine solution | 43 |  | LYS |
Magnesium chloride solution | 0 | 1, 2 |  |
Magnesium hydroxide slurry | 5 |  |  |
Magnesium long chain alkaryl sulfonate (C11-C50) | 34 |  | MAS | MSE
Magnesium long chain alkyl phenate sulfide (C8-C20) | 34 |  | MPS
Magnesium long chain alkyl salicylate (C11+) | 34 |  | MLS
Magnesium nonyl phenol sulfide, see Magnesium long chain alkyl phenate sulfide (C8-C20) |  |  |  | MPS
Magnesium sulfonate, see Magnesium long chain alkaryl sulfonate (C11-C50) |  |  | MSE | MAS
Maleic anhydride | 11 |  | MLA |
Mercaptobenzothiazol, sodium salt solution (IMO cargo name), see Sodium-2-mercaptobenzothiazol solution | 5 |  |  | SMB
Mesityl oxide | 18 | 2 | MSO |
Metam sodium solution | 7 |  | MSS | SMD
Methacrylic acid | 4 |  | MAD |
Methacrylic resin in Ethylene dichloride | 14 | 1 | MRD
Methacrylonitrile | 15 | 2 | MET |
Methane | 31 | 1 | MTH |
3-Methoxy-1-butanol | 20 |  |  |
3-Methoxybutyl acetate | 34 |  | MOA |
N-(2-Methoxy-1-methyl ethyl)-2-ethyl-6-methyl chloroacetanilide (IMO cargo name), see Metolachlor | 34 |  |  | MCO
1-Methoxy-2-propyl acetate | 34 |  | MPO |
Methoxy triglycol | 40 |  | MTG |
Methyl acetate | 34 |  | MTT |
Methyl acetoacetate | 34 |  | MAE |
Methyl acetylene, Propadiene mixture | 30 |  | MAP |
Methyl acrylate | 14 | 1 | MAM |
Methyl alcohol | 20 | 2 | MAL |
Methylamine solutions | 7 |  | MSZ |
Methyl amyl acetate | 34 |  | MAC |
Methyl amyl alcohol | 20 |  | MAA | MIC
Methyl amyl ketone | 18 |  | MAK |
Methyl bromide | 36 |  | MTB |
Methyl butanol, see the amyl alcohols |  |  |  | AAI
Methyl butenol | 20 |  | MBL |
Methyl butenes (tert-amylenes), see Pentene |  |  |  | PTX
Methyl tert-butyl ether | 41 | 2 | MBE |
Methyl butyl ketone | 18 | 2 | MBK |
Methylbutynol, see 2-Methyl-2-hydroxy-3-butyne | 20 |  | MBY | MHB
3-Methyl butyraldehyde | 19 |  |
Methyl butyrate | 34 |  | MBU |
Methyl chloride | 36 |  | MTC |
Methylcyclohexane | 31 | 1 | MCY |
Methylcyclopentadiene dimer | 30 |  | MCK |
Methyl diethanolamine | 8 |  | MDE | MAB
Methylene chloride, see Dichloromethane |  |  |  | DCM
2-Methyl-6-ethylaniline | 9 |  | MEN |
Methyl ethyl ketone | 18 | 2 | MEK |
2-Methyl-5-ethylpyridine | 9 |  | MEP |
Methyl formate | 34 |  | MFM |
N-Methylglucamine solution | 43 |  | MGC |
Methyl heptyl ketone | 18 |  | MHK |
2-Methyl-2-hydroxy-3-butyne | 20 |  | MHB |
Methyl isoamyl ketone | 18 |  |  | MAK
Methyl isobutyl carbinol, see Methyl amyl alcohol |  |  | MIC | MAA
Methyl isobutyl ketone | 18 | 2 | MIK |
Methyl methacrylate | 14 | 1 | MMM |
3-Methyl-3-methoxybutanol | 20 |  |  |
3-Methyl-3-methoxybutyl acetate | 34 |  |  |
Methyl naphthalene | 32 | 2 | MNA |
Methylolureas | 19 |  | MUS |
2-Methyl pentane | 31 | 1 |  | IHA
2-Methyl-1-pentene, see Hexene |  |  | MPN | HEX
4-Methyl-1-pentene, see Hexene |  |  | MTN | HEX
Methyl tert-pentyl ether (IMO cargo name), see tert-Amyl methyl ether | 41 |  |  | AYE
2-Methyl-1,3-propanediol | 20 |  | MDL
Methyl propyl ketone | 18 |  | MKE
Methylpyridine | 9 |  |  | MPR/MPE/MPF
N-Methyl-2-pyrrolidone | 9 | 2 | MPY |
Methyl salicylate | 34 |  | MES |
alpha-Methylstyrene | 30 |  | MSR |
3-(Methylthio)propionaldehyde | 19 |  | MTP |
Metolachlor | 34 |  | MCO |
Milk | 43 |  |  |
Mineral spirits | 33 |  | MNS |
Molasses | 20 |  |  |
Molasses residue | 0 | 1 |  |
Monochlorodifluoromethane | 36 |  | MCF |
Monoethanolamine, see Ethanolamine |  |  |  |
Monoisopropanolamine, see Propanolamine |  |  |  |
Morpholine | 7 | 2 | MPL |
Motor fuel antiknock compounds containing lead alkyls | 0 | 1 | MFA |
MTBE, see Methyl tert-butyl ether |  |  |  | MBE
Myrcene | 30 |  | MRE |
Naphtha:
Aromatic | 33 |  |  |
Coal tar solvent | 33 |  | NCT |
Heavy | 33 |  |  |
Paraffinic | 33 |  |
Petroleum | 33 |  | PTN |
Solvent | 33 |  | NSV |
Stoddard solvent | 33 |  | NSS |
Varnish Makers' and Painters' | 33 |  | NVM |
Naphthalene | 32 | 2 | NTM |
Naphthalene still residue | 32 | 2 | NSR |
Naphthalene sulfonic acid-formaldehyde copolymer, sodium salt solution | 0 | 1 | NFS |
Naphthalene sulfonic acid, sodium salt solution | 34 |  | NSA |
Naphthenic acid | 4 |  | NTI |
Naphthenic acid, sodium salt solution | 43 |  | NTS |
Neodecanoic acid | 4 |  | NEA |
NIAX POLYOL APP 240C | 0 | 1, 2 | NXP |
Nitrating acid | 0 | 1 | NIA |
Nitric acid (70% or less) | 3 |  | NCD |
Nitric acid (greater than 70%) | 0 | 1 |  | NAC
Nitrobenzene | 42 |  | NTB |
o-Nitrochlorobenzene, see Chloronitrobenzene |  |  |  | CNO
Nitroethane | 42 |  | NTE |
Nitroethane, 1-Nitropropane mixtures | 42 |  | NNO |
o-Nitrophenol | 0 | 1, 2 | NTP | NIP/NPH
Nitropropane | 42 |  | NPM | NPN/NPP
Nitropropane, Nitroethane mixture | 42 |  |  | NNO (NNM/NNL)
Nitrotoluene | 42 |  | NIT | NIE/NTT/NTR
Nonane | 31 | 1 | NAX | ALK (NAN)
Nonanoic acid | 4 |  | NNA | NAI/NIN
Nonanoic, Tridecanoic acid mixture | 4 |  | NAT
Nonene | 30 |  | NOO | NON/NNE
Nonyl acetate | 34 |  | NAE
Nonyl alcohol | 20 | 2 | NNS | NNI/NNN/DBC
Nonylbenzene, see Alkyl(C9+)benzenes |  |  |  | AKB
Nonyl methacrylate | 14 | 1 | NMA |
Nonyl phenol | 21 |  | NNP |
Nonyl phenol poly(4+)ethoxylates | 40 |  | NPE |
Nonyl phenol sulfide solution, see Alkyl phenol sulfide (C8-C40) |  |  |  | AKS/NPS
Noxious Liquid Substance, n.o.s. (NLS's) | 0 | 1 |  |
1-Octadecene, see the olefin or alpha-olefin entries |  |  |  |
Octadecenoamide | 10 |  | ODD |
Octadecenol (oleyl alcohol), see Alcohols (C13+) |  |  |  | ALY
Octane | 31 | 1 | OAX | ALK (IOO/OAN)
Octanoic acid | 4 |  | OAY | OAA/EHO
Octanol | 20 | 2 | OCX | IOA/OTA/EHX
Octene | 30 |  | OTX | OTE
n-Octyl acetate | 34 |  | OAF | OAE
Octyl alcohol, see Octanol |  |  |  | OCX
Octyl aldehyde | 19 |  | OAL | IOC/OLX/EHA
Octyl decyl adipate | 34 |  | ODA |
Octyl nitrate, see Alkyl(C7-C9) nitrates |  |  | ONE | AKN
Octyl phenol | 21 |  |  |
Octyl phthalate, see Dioctyl phthalate |  |  |  | DOP
Oil, edible:
Beechnut | 34 |  | OBN | VEO
Castor | 34 |  | OCA | VEO
Cocoa butter | 34 |  | OCB | VEO
Coconut | 34 | 2 | OCC | VEO
Cod liver | 34 |  | OCL | AFN
Corn | 34 |  | OCO | VEO
Cottonseed | 34 |  | OCS | VEO
Fish | 34 | 2 | OFS | AFN
Groundnut | 34 |  | OGN | VEO
Hazelnut | 34 |  | OHN | VEO
Lard | 34 |  | OLD | AFN
Maize | 34 |  |  | VEO (OCO)
Nutmeg butter | 34 |  | ONB | VEO
Olive | 34 |  | OOL | VEO
Palm | 34 | 2 | OPM | VEO
Palm kernel | 34 |  | OPO | VEO
Peanut | 34 |  | OPN | VEO
Poppy | 34 |  | OPY | VEO
Poppy seed | 34 |  |  | VEO
Raisin seed | 34 |  | ORA | VEO
Rapeseed | 34 |  | ORP | VEO
Rice bran | 34 |  | ORB | VEO
Safflower | 34 |  | OSF | VEO
Salad | 34 |  | OSL | VEO
Sesame | 34 |  | OSS | VEO
Soya bean | 34 |  | OSB | VEO
Sunflower seed | 34 |  | OSN | VEO
Tucum | 34 |  | OTC | VEO
Vegetable | 34 |  | OVG | VEO
Walnut | 34 |  | OWN | VEO
Oil, fuel:
No. 1 | 33 |  | OON |
No. 1-D | 33 |  | OOD |
No. 2 | 33 |  | OTW |
No. 2-D | 33 |  | OTD |
No. 4 | 33 |  | OFR |
No. 5 | 33 |  | OFV |
No. 6 | 33 |  | OSX |
Oil, misc:
Aliphatic | 33 |  |  |
Animal | 34 |  | OMA | AFN
Aromatic | 33 |  |  |
Clarified | 33 |  | OCF |
Coal | 33 |  |  |
Coconut oil, fatty acid methyl ester | 34 |  | OCM |
Cotton seed oil, fatty acid | 34 |  | CFY |
Crude | 33 |  | OIL |
Diesel | 33 |  | ODS |
Gas, high pour | 33 |  |  |
Gas, low pour | 33 |  |  |
Gas, low sulfur | 33 |  |  |
Heartcut distillate | 33 |  |  |
Lanolin | 34 |  | OLL | AFN
Linseed | 33 |  | OLS |
Lubricating | 33 |  | OLB |
Mineral | 33 |  | OMN |
Mineral seal | 33 |  | OMS |
Motor | 33 |  | OMT |
Neatsfoot | 33 |  | ONF | AFN
Oiticica | 34 |  | OOI |
Palm oil, fatty acid methyl ester | 34 |  | OPE |
Penetrating | 33 |  | OPT |
Perilla | 34 |  | OPR
Pilchard | 34 |  | OPL | AFN
Pine | 33 |  | OPI | PNL
Residual | 33 |  |  |
Road | 33 |  | ORD |
Rosin | 33 |  | ORN |
Seal | 34 |  |  |
Soapstock | 34 |  | OIS |
Soybean (epoxidized) | 34 |  |  | EVO
Sperm | 33 |  | OSP | AFN
Spindle | 33 |  | OSD |
Tall | 34 |  | OTL |
Tall, fatty acid | 34 | 2 | TOF |
Transformer | 33 |  | OTF |
Tung | 34 |  | OTG |
Turbine | 33 |  | OTB |
Wood | 34 |  |  |
Olefin/Alkyl ester copolymer (molecular weight 2000+) | 34 |  | OCP
Olefin mixtures | 30 |  |  | OFX/OFY
alpha-Olefins (C6-C18) mixtures | 30 |  | OAM |
Olefins (C13+) | 30 |  |  |
Oleic acid | 34 |  | OLA |
Oleum | 0 | 1, 2 | OLM |
Oleyl alcohol (octadecenol), see Alcohols (C13+) |  |  |  | ALY
Oleylamine | 10 |  | OLY |
ORIMULSION, see Asphalt emulsion |  |  |  | ASQ
Oxyalkylated alkyl phenol formaldehyde | 33 |  |  |
Palm kernel acid oil | 34 |  | PNO |
Palm kernel acid oil, methyl ester | 34 |  | PNF |
Palm kernel oil, fatty acid, see Palm kernel acid oil |  |  |  | PNO
Palm kernel oil, fatty acid methyl ester, see Palm kernel acid oil, methyl ester |  |  |  | PNF
Palm stearin | 34 |  | PMS |
n-Paraffins (C10-C20), see n-Alkanes (C10+) |  |  | PFN | ALJ
Paraldehyde | 19 |  | PDH |
Paraldehyde-Ammonia reaction product | 9 |  | PRB |
Pentachloroethane | 36 |  | PCE |
Pentacosa(oxypropane-2,3-diyl)s | 20 |  | POY |
Pentadecanol, see Alcohols (C13+) |  |  | PDC | ALY
1,3-Pentadiene | 30 |  | PDE | PDN
Pentaethylene glycol, see Polyethylene glycols |  |  |  |
Pentaethylene glycol methyl ether, see Poly(2-8)alkylene glycol monoalkyl(C1-C6) ether |  |  |  | PAG
Pentaethylenehexamine | 7 |  | PEN
Pentaethylenehexamine, Tetraethylenepentamine mixture | 7 |  | PEP |
Pentane | 31 | 1 | PTY | IPT/PTA
Pentanoic acid | 4 |  | POC |
n-Pentanoic acid, 2-Methyl butryic acid mixture | 4 |  | POJ | POC
Pentasodium salt of Diethylenetriamine pentaacetic acid solution, see Diethylenetriamine pentaacetic acid, pentasodium salt solution |  |  |  |
Pentene | 30 |  | PTX | PTE
Pentyl aldehyde | 19 |  |
n-Pentyl propionate | 34 |  | PPE
Perchloroethylene | 36 | 2 | PER | TTE
Petrolatum | 33 |  | PTL |
Phenol | 21 |  | PHN |
1-Phenyl-1-xylyl ethane | 32 | 2 | PXE |
Phosphate esters, alkyl(C12-C14)amine | 7 |  | PEA |
Phosphoric acid | 1 | 1 | PAC |
Phosphorus | 0 | 1 | PPW | PPR/PPB
Phthalate based polyester polyol | 0 | 1, 2 | PBE |
Phthalic anhydride | 11 |  | PAN |
alpha-Pinene | 30 |  | PIO | PIN
beta-Pinene | 30 |  | PIP | PIN
Pine oil | 33 |  | PNL | OPI
Polyalkyl(C18-C22) acrylate in Xylene | 14 | 1 | PIX |
Polyalkylene glycol butyl ether, see Poly(2-8)alkylene glycol monoalkyl(C1-C6) ether |  |  | PGB | PAG
Poly(2-8)alkylene glycol monoalkyl(C1-C6) ether | 40 |  | PAG
Including: |  |  |  |
Diethylene glycol butyl ether |  |  |  |
Diethylene glycol ethyl ether |  |  |  |
Diethylene glycol n-hexyl ether |  |  |  |
Diethylene glycol methyl ether |  |  |  |
Diethylene glycol n-propyl ether |  |  |  |
Dipropylene glycol butyl ether |  |  |  |
Dipropylene glycol methyl ether |  |  |  |
Polyalkylene glycol butyl ether |  |  |  |
Polyethylene glycol monoalkyl ether |  |  |  |
Polypropylene glycol methyl ether |  |  |  |
Tetraethylene glycol methyl ether |  |  |  |
Triethylene glycol butyl ether |  |  |  |
Triethylene glycol ethyl ether |  |  |  |
Triethylene glycol methyl ether |  |  |  |
Tripropylene glycol methyl ether |  |  |  |
Poly(2-8)alkylene glycol monoalkyl(C1-C6) ether acetate | 34 |  | PAF
Including: |  |  |  |
Diethylene glycol butyl ether acetate |  |  |  |
Diethylene glycol ethyl ether acetate |  |  |  |
Diethylene glycol methyl ether acetate |  |  |  |
Polyalkylene glycols, Polyalkylene glycol monoalkyl ethers mixtures | 40 |  | PPX |
Polyalkylene oxide polyol | 20 |  | PAO |
Polyalkyl methacrylate (C1-C20) |  |  |  |
Polyalkyl(C10-C20)methacrylate | 14 | 1 | PMT |
Polyalkyl(C10-C18)methacrylate/Ethylene propylene copolymer mixture | 14 | 1 | PEM |
Polyaluminum chloride solution | 1 | 1 |  |
Polybutadiene, hydroxyl terminated | 20 |  |  |
Polybutene | 30 |  | PLB |
Polybutenyl succinimide | 10 |  | PBS |
Poly(2+)cyclic aromatics | 32 | 2 | PCA |
Polydimethylsiloxane | 34 |  |  |
Polyether (molecular weight 2000+) | 41 |  | PYR
Polyethylene glycol | 40 |  |  |
Polyethylene glycol dimethyl ether | 40 |  |  |
Polyethylene glycol monoalkyl ether, see Poly(2-8)alkylene glycol monoalkyl(C1-C6) ether |  |  | PEE | PAG
Polyethylene polyamines | 7 | 2 | PEB |
Polyferric sulfate solution | 34 |  | PSS |
Polyglycerine, Sodium salts solution (containing less than 3% Sodium hydroxide) | 20 | 2 | PGT
Polyglycerol | 20 |  |  | GCR
Polyisobutenamine in aliphatic (C10-C14) solvent | 7 |  | PIB |
Polyisobutenyl anhydride adduct | 11 |  |
Poly(4+)isobutylene | 30 |
Polymethylene polyphenyl isocyanate | 12 |  | PPI |
Polymethylsiloxane | 34 |  |  |
Polyolefin (molecular weight 300+) | 30 |
Polyolefin amide alkeneamine (C17+) | 33 |  | POH
Polyolefin amide alkeneamine (C28+) | 33 |  | POD
Polyolefin amide alkeneamine borate (C28-C250) | 33 |  | PAB
Polyolefin amide alkeneamine/Molybdenum oxysulfide mixture | 7 |
Polyolefin amide alkeneamine polyol | 20 |  | PAP
Poly(C17+)olefin amine | 7 |  | POG |
Polyolefinamine (C28-C250) | 33 |  | POM |
Polyolefinamine in alkyl(C2-C4)benzenes | 32 | 2 | POF
Polyolefin aminoester salt | 34 |  | PAE |
Polyolefin anhydride | 11 |  | PAR
Polyolefin ester (C28-C250) | 34 |  | POS
Polyolefin phenolic amine (C28-C250) | 7 |  | PPH
Polyolefin phosphorosulfide, barium derivative (C28-C250) | 34 |  | PPS
Poly(20)oxyethylene sorbitan monooleate | 34 |  | PSM |
Poly(5+)propylene | 30 |  | PLQ | PLP
Polypropylene glycol | 40 |  | PGC |
Polypropylene glycol methyl ether, see Propylene glycol monoalkyl ether |  |  | PGM | PGE
Polysiloxane | 34 |  |  | DMP
Poly(tetramethylene ether) glycols (mw 950-1050) (alpha-hydro-omega-Hydroxytetradeca(oxytetramethylene)) | 40 |  | HTO |
Polytetramethylene ether glycol | 40 |  |  |
Potassium chloride solution | 43 |  | PCS | (DRB)
Potassium formate solution | 34 |  | PFR |
Potassium hydroxide solution (IMO cargo name), see Caustic potash solution | 5 | 2 |  | CPS
Potassium oleate | 34 |  | POE |
Potassium salt of polyolefin acid | 34 |  |  |
Potassium thiosulfate solution | 43 |  | PTF |
Propane | 31 | 1 | PRP |
Propanolamine | 8 |  | PAX | MPA/PLA
Propionaldehyde | 19 |  | PAD |
Propionic acid | 4 |  | PNA |
Propionic anhydride | 11 |  | PAH |
Propionitrile | 37 |  | PCN |
n-Propoxypropanol, see Propylene glycol monoalkyl ether |  |  | PXP | PGE
Propyl acetate | 34 |  |  | IAC/PAT
Propyl alcohol | 20 | 2 |  | IPA/PAL
Propylamine | 7 |  |  | IPP/PRA
iso-Propylamine solution | 7 |  |  | IPO/IPQ
Propylbenzene | 32 | 2 | PBY | PBZ/CUM
n-Propyl chloride | 36 |  | PRC
iso-Propylcyclohexane | 31 | 1 | IPX |
Propylene | 30 |  | PPL |
Propylene-butylene copolymer | 30 |  | PBP |
Propylene carbonate | 34 |  |  |
Propylene dimer | 30 |  | PDR |
Propylene glycol | 20 | 2 | PPG |
Propylene glycol n-butyl ether, see Propylene glycol monoalkyl ether |  |  | PGD | PGE
Propylene glycol ethyl ether, see Propylene glycol monoalkyl ether |  |  | PGY | PGE
Propylene glycol methyl ether, see Propylene glycol monoalkyl ether |  |  | PME | PGE
Propylene glycol methyl ether acetate | 34 |  | PGN
Propylene glycol monoalkyl ether | 40 |  | PGE |
Including: |  |  |  |
n-Propoxypropanol |  |  |  |
Propylene glycol n-butyl ether |  |  |  |
Propylene glycol ethyl ether |  |  |  |
Propylene glycol methyl ether |  |  |  |
Propylene glycol propyl ether |  |  |  |
Propylene glycol phenyl ether | 40 |  | PGP |
Propylene glycol propyl ether, see Propylene glycol monoalkyl ether |  |  |  | PGE
Propylene oxide | 16 | 1 | POX |
Propylene, Propane, MAPP gas mixture | 30 | 2 | PPM |
Propylene tetramer | 30 |  | PTT |
Propylene trimer | 30 |  | PTR |
Propyl ether | 41 |  |  | IPE/PRE
Pseudocumene, see Trimethylbenzene |  |  |  | TME/TRE
Pyridine | 9 |  | PRD |
Pyridine bases, see Paraldehyde-Ammonia reaction product |  |  |  | PRB
Roehm monomer 6615 | 14 | 1 | RMN |
Rosin oil | 33 |  | ORN |
Rosin soap (disproportionated) solution | 43 |  | RSP |
ROUNDUP (See also Glyphosate solution) | 7 |  | RUP |
Rum, see Alcoholic beverages |  |  |  |
SAP 7001 | 0 | 1 | SON |
Sewage sludge | 43 |  |  |
Silica slurry | 43 |  |  |
Sludge, treated | 43 |  |  |
Sodium acetate, Glycol, Water mixture (not containing Sodium hydroxide) | 34 | 2 | SAO | SAP
Sodium acetate, Glycol, Water mixture (containing Sodium hydroxide) | 5 |  | SAP | SAO
Sodium acetate solution | 34 |  | SAN | AKP
Sodium alkyl sulfonate solution | 43 |  | SSU |
Sodium alkyl (C14-C17) sulfonates 60-65% solution (IMO cargo name), see Alkane (C14-C17) sulfonic acid, sodium salt solution | 34 |  | AKA |
Sodium aluminate solution | 5 |  | SAU |
Sodium aluminosillicate slurry | 34 |  |  |
Sodium benzoate solution | 34 |  | SBN |
Sodium borohydride, Sodium hydroxide solution | 5 |  | SBX | SBH/SBI
Sodium carbonate solutions | 5 |  | SCE |
Sodium chlorate solution | 0 | 1, 2 | SDD | SDC
Sodium cyanide solution | 5 |  | SCS | SCN
Sodium dichromate solution | 0 | 1, 2 | SDL | SCR
Sodium dimethyl naphthalene sulfonate solution, see Dimethyl naphthalene sulfonic acid, sodium salt solution |  |  |  | DNS
Sodium hydrogen sulfide, Sodium carbonate solution | 0 | 1, 2 | SSS |
Sodium hydrogen sulfite solution | 43 |  | SHX |
Sodium hydrosulfide solution | 5 | 2 | SHR |
Sodium hydrosulfide, Ammonium sulfide solution | 5 | 2 | SSA |
Sodium hydroxide solution (IMO cargo name), see Caustic soda solution | 5 | 2 |  | CSS
Sodium hypochlorite solution | 5 |  |  | SHP/SHQ/(SHC)
Sodium lignosulfonate solution, see also Lignin liquor | 43 |  |  |
Sodium long chain alkyl salicylate (C13+) | 34 |  | SLS
Sodium 2-mercaptobenzothiazol solution | 5 |  | SMB |
Sodium N-methyl dithio carbamate solution, see Metam sodium solution |  |  |  | MSS
Sodium naphthalene sulfonate solution, see Naphthalene sulfonic acid, sodium salt solution |  |  | SNS | NSA
Sodium naphthenate solution, see Naphthenic acid, sodium salt solution |  |  |  | NTS
Sodium nitrite solution | 5 |  | SNI | SNT
Sodium petroleum sulfonate | 33 |  | SPS |
Sodium polyacrylate solution | 43 | 2 |  |
Sodium salt of Ferric hydroxyethylethylenediaminetriacetic acid solution, see Ferric hydroxyethylethylenediaminetriacetic acid, trisodium salt solution |  |  | STA | FHX
Sodium silicate solution | 43 | 2 | SSN | SSC
Sodium sulfide, Hydrosulfide solution | 0 | 1, 2 |  | SSH/SSI/SSJ
Sodium sulfide solution | 43 |  | SDR
Sodium sulfite solution | 43 |  | SUP | SUS
Sodium tartrates, Sodium succinates solution | 43 |  | STM
Sodium thiocyanate solution | 0 | 1, 2 | STS | SCY
Sorbitol solutions | 20 |  |  | SBT
Soyabean oil (expoxidized) | 34 |  |  | OSC/EVO
Stearic acid, see Fatty acids (saturated, C14+) |  |  | SRA | FAD
Stearyl alcohol | 20 |
Styrene | 30 |  | STY | STX
Sulfohydrocarbon (C3-C88) | 33 |  | SFO
Sulfohydrocarbon, long chain (C18+) alkylamine mixture | 7 |  | SFX
Sulfolane | 39 |  | SFL |
Sulfonated polyacrylate solutions | 43 | 2
Sulfur | 0 | 1 | SXX |
Sulfuric acid | 2 | 2 | SFA |
Sulfuric acid, spent | 2 | 2 | SAC |
Sulfurized fat (C14-C20) | 33 |  | SFT |
Sulfurized polyolefinamide alkene(C28-C250) amine | 33 |  | SPO |
Tall oil | 34 |  | OTL |
Tall oil fatty acid (Resin acids less than 20%) | 34 | 2 | TOF |
Tall oil fatty acid, barium salt | 0 | 1, 2 | TOB |
Tall oil soap (disproportionated) solution | 43 |  | TOS |
Tallow | 34 | 2 | TLO |
Tallow fatty acid | 34 | 2 | TFD |
Tallow fatty alcohol, see Alcohols (C13+) |  |  | TFA | ALY
Tallow nitrile | 37 |  | TAN |
TAME, see tert-Amyl methyl ether |  |  |  | AYE
1,1,2,2-Tetrachloroethane | 36 |  | TEC |
Tetrachloroethylene, see Perchloroethylene |  |  | TTE | PER
Tetradecanol, see Alcohols (C13+) |  |  | TTN | ALY
Tetradecene, see the olefins entries |  |  | TTD |
Tetradecylbenzene, see Alkyl(C9+) benzenes | 32 | 2 | TDB | AKB
Tetraethylene glycol | 40 |  | TTG |
Tetraethylene glycol methyl ether, see Poly(2-8)alkylene glycol monoalkyl(C1-C6) ether |  |  |  | PAG
Tetraethylenepentamine | 7 | 2 | TTP |
Tetrahydrofuran | 41 |  | THF |
Tetrahydronaphthalene | 32 | 2 | THN |
1,2,3,5-Tetramethylbenzene, see Tetramethylbenzene |  |  | TTB | TTC
Tetramethylbenzene | 32 | 2 | TTC | TTB
Tetrapropylbenzene, see Alkyl(C9+)benzenes |  |  |  | AKB
Tetrasodium salt of EDTA solution, see Ethylenediaminetetraacetic acid, tetrasodium salt solution |  |  |  | EDS
Titanium dioxide slurry | 43 |  | TDS |
Titanium tetrachloride | 2 | 2 | TTT |
Toluene | 32 | 2 | TOL |
Toluenediamine | 9 |  | TDA |
Toluene diisocyanate | 12 |  | TDI |
o-Toluidine | 9 |  | TLI |
Triarylphosphate, see Triisopropylated phenyl phosphates |  |  | TRA | TPL
Tributyl phosphate | 34 |  | TBP |
1,2,4-Trichlorobenzene | 36 |  | TCB |
1,1,1-Trichloroethane | 36 | 2 | TCE |
1,1,2-Trichloroethane | 36 |  | TCM |
Trichloroethylene | 36 | 2 | TCL |
1,2,3-Trichloropropane | 36 | 2 | TCN |
1,1,2-Trichloro-1,2,2-trifluoroethane | 36 |  | TTF |
Tricresyl phosphate | 34 |  |  | TCO/TCP
Tridecane, see n-Alkanes (C10+) |  |  | TRD | ALJ
Tridecanoic acid | 34 |  | TDO
Tridecanol, see Alcohols (C13+) |  |  | TDN | ALY
Tridecene, see Olefins (C13+) |  |  | TDC |
Tridecyl acetate | 34 |  | TAE
Tridecylbenzene, see Alkyl(C9+) benzenes | 32 | 2 | TRB | AKB
Triethanolamine | 8 | 2 | TEA |
Triethylamine | 7 |  | TEN |
Triethylbenzene | 32 | 2 | TEB |
Triethylene glycol | 40 |  | TEG |
Triethylene glycol butyl ether, see Poly(2-8)alkylene glycol monoalkyl(C1-C6) ether |  |  |  | PAG
Triethylene glycol butyl ether mixture | 40 |  |  |
Triethylene glycol dibenzoate | 34 |  | TGB |
Triethylene glycol di-(2-ethylbutyrate) | 34 |  | TGD |
Triethylene glycol ether mixture | 40 |  |  |
Triethylene glycol ethyl ether, see Poly(2-8)alkylene glycol monoalkyl(C1-C6) ether |  |  | TGE | PAG
Triethylene glycol methyl ether, see Poly(2-8)alkylene glycol monoalkyl(C1-C6) ether |  |  | TGY | PAG
Triethylenetetramine | 7 | 2 | TET |
Triethyl phosphate | 34 |  | TPS |
Triethyl phosphite | 34 | 2 | TPI |
Triisobutylene | 30 |  | TIB |
Triisooctyl trimellitate | 34 |  |  |
Triisopropanolamine | 8 |  | TIP |
Triisopropanolamine salt of 2,4-Dichlorophenoxyacetic acid solution, see 2,4-Dichlorophenoxyacetic acid, Triisopropanolamine salt solution |  |  |  | DTI
Triisopropylated phenyl phosphates | 34 |  | TPL
Trimethylacetic acid | 4 |  | TAA |
Trimethylamine solution | 7 |  | TMT
Trimethylbenzene | 32 | 2 | TRE | TME/TMB/TMD
Trimethylhexamethylenediamine (2,2,4- and 2,4,4-) | 7 |  | THA |
Trimethylhexamethylene diisocyanate (2,2,4- and 2,4,4-) | 12 |  | THI |
Trimethyl nonanol, see Dodecanol |  |  |  | DDN
Trimethylol propane polyethoxylate | 20 |  | TPR |
2,2,4-Trimethyl-1,3-pentanediol diisobutyrate | 34 |  | TMQ |
2,2,4-Trimethyl-1,3-pentanediol-1-isobutyrate | 34 |  | TMP |
2,2,4-Trimethyl-3-pentanol-1-isobutyrate | 34 |  |  |
Trimethyl phosphite | 34 | 2 | TPP |
1,3,5-Trioxane | 41 | 2 | TRO |
Triphenylborane, Caustic soda solution | 5 |  | TPB
Tripropylene, see Propylene trimer |  |  |  | PTR
Tripropylene glycol | 40 |  | TGC |
Tripropylene glycol methyl ether, see Poly(2-8)alkylene glycol monoalkyl(C1-C6) ether |  |  | TGM | PAG
Trisodium nitrilotriacetate | 34 |  |  |
Trisodium phosphate solution | 5 |  | TSP
Trisodium salt of N-(Hydroxyethyl)ethylenediaminetriacetic acid solution, see N-(Hydroxyethyl)ethylenediaminetriacetic acid, trisodium salt solution |  |  |  | HET
Trixylyl phosphate (IMO cargo name), see Trixylenyl phosphate | 34 |  |  | TRP
Trixylenyl phosphate | 34 |  | TRP |
Turpentine | 30 |  | TPT |
Ucarsol CR Solvent 302 SG | 8 |  | UCS |
Undecanoic acid | 4 |  | UDA |
Undecanol, see Undecyl alcohol |  |  |  | UND
Undecene | 30 |  | UDC |
Undecyl alcohol | 20 |  | UND |
Undecylbenzene, see Alkyl(C9+) benzenes |  |  | UDB | AKB
Urea, Ammonium mono- and di-hydrogen phosphate, Potassium chloride solution | 0 | 1 | UPX |
Urea, Ammonium nitrate solution (containing Ammonia) | 6 |  | UAS |
Urea, Ammonium nitrate solution (not containing Ammonia) | 43 |  | UAT | ANU
Urea, Ammonium phosphate solution | 43 |  | UAP |
Urea solution | 43 |  |  | URE
Valeraldehyde | 19 |  | VAK | IVA/VAL
Vanillin black liquor | 5 |  | VBL |
Vegetable oils, n.o.s. | 34 |  | VEO
Including: |  |  |  |
Beechnut oil |  |  |  |
Castor oil |  |  |  |
Cocoa butter |  |  |  |
Coconut oil |  |  |  |
Corn oil |  |  |  |
Cottonseed oil |  |  |  |
Groundnut oil |  |  |  |
Hazelnut oil |  |  |  |
Linseed oil |  |  |  |
Nutmeg butter |  |  |  |
Oiticica oil |  |  |  |
Olive oil |  |  |  |
Palm kernel oil |  |  |  |
Palm oil |  |  |  |
Peel oil (oranges and lemons) |  |  |  |
Perilla oil |  |  |  |
Poppy oil |  |  |  |
Raisin seed oil |  |  |  |
Rapeseed oil |  |  |  |
Rice bran oil |  |  |  |
Safflower oil |  |  |  |
Salad oil |  |  |  |
Sesame oil |  |  |  |
Soya bean oil |  |  |  |
Sunflower seed oil |  |  |  |
Tucum oil |  |  |  |
Tung oil |  |  |  |
Walnut oil |  |  |  |
Vegetable acid oils and distillates, n.o.s. | 34 |  | VAO
Including: |  |  |  |
Corn acid oil |  |  |  |
Cottonseed acid oil |  |  |  |
Dark mixed acid oil |  |  |  |
Groundnut acid oil |  |  |  |
Mixed acid oil |  |  |  |
Mixed general acid oil |  |  |  |
Mixed hard acid oil |  |  |  |
Mixed soft acid oil |  |  |  |
Rapeseed acid oil |  |  |  |
Safflower acid oil |  |  |  |
Soya acid oil |  |  |  |
Sunflower seed acid oil |  |  |  |
Vegetable protein solution | 43 |  |  |
Vinyl acetate | 13 | 1 | VAM |
Vinyl chloride | 35 |  | VCM |
Vinyl ethyl ether | 13 | 1 | VEE |
Vinylidene chloride | 35 |  | VCI |
Vinyl neodecanate | 13 | 1 | VND |
Vinyltoluene | 13 | 1 | VNT |
Water | 43 |  |  |
Waxes: |  |  | WAX |
Candelilla | 34 |  | WDC |
Carnauba | 34 |  | WCA |
Paraffin | 31 | 1 | WPF |
Petroleum | 33 |  |  |
Wine, see Alcoholic beverages |  |  |  |
White spirit (low (15-20%) aromatic) | 33 |  | WSL | WSP
Xylene | 32 | 2 | XLX | XLM/XLO/XLP
Xylenes, Ethylbenzene mixture | 32 | 2 | XEB |
Xylenols | 21 |  | XYL |
Zinc alkaryl dithiophosphate (C7-C16) | 34 |  | ZAD
Zinc alkenyl carboxamide | 10 |  | ZAA |
Zinc alkyl dithiophosphate (C3-C14) | 34 |  | ZAP
Zinc bromide, Calcium bromide solution, see Drilling brine (containing Zinc salts) |  |  |  | DZB
1. Because of very high reactivity or unusual conditions of carriage or potential compatibility problems, this commodity is not assigned to a specific group in the Compatibility Chart. For additional compatibility information, contact Commandant (G-MSO), U.S. Coast Guard, 2100 Second Street, SW., Washington, DC 20593-0001. Telephone (202) 267-1577.
2. See Appendix I-Exceptions to the Chart.

PART 150 TABLE II—[AMENDED]

9. In Table II, amend the designated Compatibility Groups as follows:

a. In Compatibility Group O, Unassigned Cargoes:

1. Remove the words “2-Hydroxyethyl acrylate ¹,²”.

2. Remove the words “Potassium polysulfide, Potassium thiosulfide solution (41% or less)”.

b. In Compatibility Group 7, Aliphatic Amines:

1. Remove the words “Calcium long chain alkyl phenolic amine (C8-C40)”.

2. Remove the word “Diethylenetriamine” and add, in its place, the word “Diethylenetriamine ²”.

3. Remove the words “Polyalkyl methacrylate (C1-C20)”.

4. Remove the words “Polyolefin amide alkeneamine polyol”.

5. Remove the words “Polyolefinamine in alkyl (C2-C4) benzenes”.

6. Remove the words “Polyolefin phenolic amine (C28-C250)”.

7. Remove the word “Tetraethylenepentamine” and add, in its place, the word “Tetraethylenepentamine ²”.

c. In Compatibility Group 14, Acrylates, remove the words “Polyalkyl methacrylate (C1-C20)”, and add, in their place, the words “Polyalkyl (C10-C20) methacrylate”.

d. In Compatibility Group 18, Ketones, remove the entry “Methyl diethanolamine”.

e. In Compatibility Group 20, Alcohols, Glycols, remove the words “Polybutadiene, hydroxyl terminated” and add, in their place, the words “Polybutadiene, hydroxy terminated”.

f. In Compatibility Group 30, Olefins, remove the words “Pentene, Miscellaneous hydrocarbon mixture ²”.

g. In Compatibility Group 33, Miscellaneous Hydrocarbon Mixtures, from the entry “Alachlor technical” remove the word “technical”.

h. In Compatibility Group 34, Esters:

1. Remove the words “Alkyl phenol sulfide (C8-C40)” and add, in their place, the words “Alkyl (C8-C40) phenol sulfide”.

2. Remove the words “Barium long chain alkaryl sulfonate (C11-C50)” and add, in their place, the words “Barium long chain alkaryl (C11-C50) sulfonate”.

3. Remove the words “Calcium long chain alkyl phenate (C8-C40)” and add the words “Calcium long chain alkyl phenates” following the entry for “Calcium long chain alkyl phenate sulfide (C8-C40)”.

4. Revise the entry “Fatty acids (saturated, C13+)”, to read “Fatty acids (saturated, C14+)”.

5. For the entry “Lecithin (soyabean)”, remove the word “(soyabean)”.

6. Remove the words “Polyolefin amide alkeneamine borate (C28-C250)”.

i. In Compatibility Group 36, Halogenated Hydrocarbons, remove the words “Carbon tetrachloride” and add, in their place, the words “Carbon tetrachloride ²”.

j. In Compatibility Group 40, Glycol Ethers,

1. Remove the words “Nonyl phenol (ethoxylated)”.

2. Revise the entry “Nonyl phenol poly(4-12)ethoxylates”, to read “Nonyl phenol poly(4+)ethoxylates”.

3. Remove the words “Oil, misc:”.

k. In Compatibility Group 42, Nitrocompounds, revise the entry “Nitropropane, Nitroethane mixture” to read “Nitropropane, Nitroethane mixtures”.

l. In Compatibility Group 43, Miscellaneous Water Solutions, remove the words “N-Methylglucamine solution (70% or less)”.

m. To the same Table II, add the following new entries in the designated Compatibility Groups, in chemically proper alphabetized order:

Table II—Grouping of Cargoes

* * * * *

0. Unassigned Cargoes

* * * * *

tert-Dodecanethiol ²

* * * * *

Hydrogen peroxide solutions ¹

* * * * *

NIAX POLYOL APP 240C ¹, ²

* * * * *

SAP 7001 ¹

* * * * *

4. Organic Acids

* * * * *

Glycolic acid

* * * * *

n-Pentanoic acid, 2-Methyl butryic acid mixture

* * * * *

7. Aliphatic Amines

* * * * *

N,N-Dimethyldodecylamine

* * * * *

Ethyleneamine EA 1302 ²

* * * * *

N-Ethylmethylallylamine

* * * * *

Glyphosate solution (not containing surfactant)

* * * * *

Hexamethylenediamine

* * * * *

HiTec 321

* * * * *

bis-(Hydrogenated tallow alkyl)methyl amines

* * * * *

Phosphate esters, alkyl (C12-C14) amine

* * * * *

Polyisobutenamine in aliphatic (C10-C14) solvent

* * * * *

Poly (C17+) olefin amine

* * * * *

Polyolefin amide alkeneamine (C17+)

* * * * *

iso-Propylamine solution

* * * * *

Roundup

8. Alkanolamines

* * * * *

Ethoxylated long chain (C16+) alkyloxyalkanamine

* * * * *

Methyl diethanolamine

* * * * *

Ucarsol CR Solvent 302 SG

9. Aromatic Amines

* * * * *

Alkyl (C8-C9) phenylamine in aromatic solvents

* * * * *

Calcium long chain alkyl phenolic amine (C8-C40)

* * * * *

Dialkyl (C8-C9) diphenylamines

* * * * *

Diphenylamine

* * * * *

Paraldehyde-Ammonia reaction product

10. Amides

* * * * *

Acetochlor

* * * * *

N,N-bis(2-Hydroxyethyl) oleamide

* * * * *

Zinc alkenyl carboxamide

11. Organic Anhydrides

* * * * *

Polyisobutenyl anhydride adduct

* * * * *

12. Isocyanates

* * * * *

Hexamethylene diisocyanate

* * * * *

14. Acrylates

* * * * *

Dodecyl-Octadecyl methacrylate mixture

* * * * *

2-Hydroxyethyl acrylate ²

* * * * *

Polyalkyl (C10-C18) methacrylate/Ethylene

* * * * *

propylene copolymer mixture

* * * * *

Roehm monomer 6615

* * * * *

18. Ketones

* * * * *

1-(4-Chlorophenyl)-4,4-dimethyl pentan-3-one ²

* * * * *

19. Aldehydes

* * * * *

3-(Methylthio)propionaldehyde

* * * * *

20. Alcohols, Glycols

* * * * *

1,4-Butanediol

* * * * *

Diethyl hexanol

* * * * *

Icosa(oxypropane-2,3-diyl)s

* * * * *

2-Methyl-1,3-propanediol

* * * * *

Penacosa(oxypropane-2,3-diyl)s

* * * * *

Polyolefin amide alkeneamine polyol

* * * * *

Trimethyl nonanol

* * * * *

21. Phenols, Cresols

* * * * *

Dibutylphenols

* * * * *

30. Olefins

* * * * *

Cyclopentadiene, Styrene, Benzene mixture

* * * * *

Isoprene concentrate (Shell)

* * * * *

Methyl butene

* * * * *

Propylene, Propane, MAPP gas mixture

* * * * *

32. Aromatic Hydrocarbons

* * * * *

C9 Resinfeed (DSM) ²

* * * * *

1-Hexadecylnaphthalene, 1,4-bis(Hexadecyl)

* * * * *

naphthalene mixture

Naphthalene still residue

* * * * *

Polyolefin amine in alkylbenzenes (C2-C4)

* * * * *

Xylenes, Ethylbenzene mixture

33. Miscellaneous Hydrocarbon Mixtures

* * * * *

Asphalt emulsion

* * * * *

Coal tar distillate

Coal tar, high temperature

* * * * *

Degummed C9 (DOW)

* * * * *

Polyolefin amine (C28-C250)

Polyolefin amide alkeneamine (C17+)

Polyolefin amide alkeneamine borate (C28-C250)

* * * * *

Sulfurized fat (C14-C20)

Sulfurized polyolefinamide alkeneamines (C28-C250)

* * * * *

34. Esters

* * * * *

Alkyl (C10-C20, saturated and unsaturated) phosphite

Alkyl sulfonic acid ester of phenol

Alkylaryl phosphate mixtures (more than 40%

Diphenyl tolyl phosphate, less than 0.02% ortho-isomer)

* * * * *

Calcium nitrate solution

* * * * *

Copper salt of long chain alkanoic acids

* * * * *

Diethylene glycol dibenzoate

* * * * *

Dithiocarbamate ester (C7-C35)

* * * * *

Ditridecyl adipate

* * * * *

Polyolefin aminoester salt

* * * * *

Potassium formate solution

* * * * *

Potassium salt of polyolefin acid

* * * * *

Tall oil fatty acid (Resin acids less than 20%) ²

* * * * *

Triethylene glycol dibenzoate

* * * * *

36. Halogenated Hydrocarbons

* * * * *

Bromochloromethane

* * * * *

Catoxid feedstock ²

* * * * *

Dibromomethane

* * * * *

Dibutylphenols

* * * * *

3,4-Dichloro-1-butene

* * * * *

1,2,3-Trichlorobenzene

* * * * *

40. Glycol Ethers

Alkyl (C7-C11) phenol poly(4-12)ethoxylate

Alkyl (C9-C15) phenyl propoxylate

* * * * *

Pentaethylene glycol methyl ether

* * * * *

Poly(tetramethylene ether) glycols (mw 950-1050)

Polytetramethylene ether glycol

* * * * *

Tetraethylene glycol methyl ether

41. Ethers

* * * * *

tert-Amyl methyl ether

* * * * *

Ethyl tert-butyl ether ²

* * * * *

Methyl tert-pentyl ether

42. Nitrocompounds

* * * * *

Nitroethane, 1-Nitropropane mixture

* * * * *

43. Miscellaneous Water Solutions

Alkyl polyglucoside solutions

* * * * *

Ammonium lignosulfonate solution

* * * * *

Calcium lignosulfonate solution

* * * * *

Caramel solutions

* * * * *

l-Lysine solution

* * * * *

Sodium lignosulfonate solution

* * * * *

Titanium dioxide slurry

* * * * *

Footnotes to Table II

¹ Because of very high reactivity or unusual conditions of carriage or potential compatibility problems, this product is not assigned to a specific group in the Compatibility Chart. For additional compatibility information, contact Commandant (G-MSO), U.S. Coast Guard, 2100 Second Street, SW., Washington, DC 20593-0001. Telephone (202) 267-1577.

² See Appendix I—Exceptions to the Chart.

PART 150 APPENDIX [AMENDED]

10. In appendix I(a):

a. Under the compound “Caustic Soda, 50% or less (5)” in the column “Member of reactive group”, revise the entry “Sodium chlorate (0)” in the column “Compatible with” to read “Sodium chlorate solution (0)”; add the new entry “Dodecyl alcohol (20)” to follow the entry “Diethylene glycol (40)” in the column “Compatible with”; and add the new entry “iso-Propyl alcohol (20)” to follow the entry “Propyl alcohol (20)” in the column “Compatible with”.

b. Preceding the entry “Dodecyl and Tetradecylamine mixture (7)” in the column “Member of reactive group”, add the new entry “tert-Dodecanethiol (0)”; and, in the column “Compatible with”, add the corresponding entries “Acrylonitrile (15)”, “Diisodecyl phthalate (34)”, “Methyl ethyl ketone (18)”, “iso-Nonyl alcohol (20)”, “Perchloroethylene (36)”, “iso-Propyl alcohol (20)”, and “Tall oil, crude”.

c. Under the entry “Sodium hydrosulfide solution (5)” in the column “Member of reactive group”, add the new entry “Methyl alcohol (20)” to precede the entry “iso-Propyl alcohol (20)” in the column “Compatible with”.

11. In appendix I (b):

a. Remove the words “Ethylenediamine (7) is not compatible with Ethylene dichloride (36)” and add, in their place, the words “Ethylenediamine (7) and Ethyleneamine EA 1302 (7) are not compatible with either Ethylene dichloride (36) or 1,2,3-Trichloropropane (36)”.

b. Remove the words “Ethylene dichloride (36) is not compatible with Ethylenediamine (7)” and add, in their place, the words “Ethylene dichloride (36) is not compatible with Ethylenediamine (7) or Ethyleneamine EA 1302 (7)”.

c. Remove the words “2-Hydroxyethyl acrylate is not compatible with Groups 2, 3, 5-8 and 12” and add, in their place, the words “2-Hydroxyethyl acrylate (14) is not compatible with Group 5, 6, or 12”.

12. Amend Appendix I (b) by removing the following entries in their entirety:

a. “Naphtha, cracking fraction (33) is not compatible with strong acids, caustics or oxidizing agents”.

b. “Pentene, Miscellaneous hydrocarbon mixtures (30) are not compatible with strong acids or oxidizing agents”.

c. “Sodium salt of Ferric hydroxyethylethylenediamine triacetic acid solution (43) is not compatible with Group 3, Nitric acid”.

13. Amend Appendix I (b) by adding the following new entries in chemically proper alphabetical order to read as follows:

* * * * *

C9 Resinfeed (DSM) (32) is not compatible with Group 2, Sulfuric acid.

* * * * *

Carbon tetrachloride (36) is not compatible with Tetraethylenepentamine or Triethylenetetramine, both Group 7, Aliphatic amines.

* * * * *

Catoxid feedstock (36) is not compatible with Group 1, 2, 3, 4, 5, or 12.

* * * * *

1-(4-Chlorophenyl)-4,4-dimethyl pentan-3-one (18) is not compatible with Group 5 (Caustics) or 10 (Amides).

* * * * *

Diethylenetriamine (7) is not compatible with 1,2,3-Trichloropropane, Group 36, Halogenated hydrocarbons.

* * * * *

Ethyl tert-butyl ether (41) is not compatible with Group 1, Non-oxidizing mineral acids.

* * * * *

NIAX POLYOL APP 240C (0) is not compatible with Group 2, 3, 5, 7, or 12.

* * * * *

Propylene, Propane, MAPP gas mixture (containing 12% or less MAPP gas) (30) is not compatible with Group 1 (Non-oxidizing mineral acids), Group 36 (Halogenated hydrocarbons), nitrogen dioxide, oxidizing materials, or molten sulfur.

* * * * *

Tall oil fatty acid (Resin acids less than 20%) (34) is not compatible with Group 5, Caustics.

* * * * *

Tetraethylenepentamine (7) is not compatible with Carbon tetrachloride, Group 36, Halogenated hydrocarbons.

* * * * *

1,2,3-Trichloropropane (36) is not compatible with Diethylenetriamine, Ethylenediamine, Ethyleaneamine EA 1302, or Triethylenetetramine, all Group 7, Aliphatic amines.

* * * * *

Triethylenetetramine (7) is not compatible with Carbon tetrachloride, or 1,2,3-Trichloropropane, both Group 36, Halogenated hydrocarbons.

* * * * *

PART 151—BARGES CARRYING BULK LIQUID HAZARDOUS MATERIAL CARGOES

14. The citation of authority for part 151 continues to read as follows:

Authority: 33 U.S.C. 1903; 46 U.S.C. 3703; 49 CFR 1.46.

§ 151.05-1 [Amended]

15. In § 151.05-1, remove paragraph (f) and redesignate paragraphs (g) through (r) as (f) through (q).

16. Following § 151.05-2, revise Table 151.05 to read as follows:

Table 151.05— Summary of Minimum Requirements
Cargo identification¹: Cargo name | Cargo identification¹: Pressure | Cargo identification¹: Temp. | Hull type | Cargo segre- gation tank | Tanks: Type | Tanks: Vent | Tanks: Gauging device | Cargo transfer: Piping class | Cargo transfer: Control | Environmental control: Cargo tanks | Environmental control: Cargo handling space | Fire protection required | Special requirements in 46 CFR Part 151 | Electrical hazard class and group | Temp. control install. | Tank internal inspect. period—years
a. | b. | c. | d. | e. | f. | g. | h. | i. | j. | k. | l. | m. | n. | o. | p. | q.
Acetaldehyde | Press. | Amb. | II | 1NA 2 i i | Ind. Pressure | SR | Restr. | II | P-1 | Inert | Vent F | Yes | .55-1(h) | I-C | NA | G
Acetic acid | Atmos. | Amb. | III | 1 i 2 i i | Integral Gravity | Open | Open | II | G-1 | NR | Vent N | Yes | .50-73 .55-1(g) | I-D | NA | G
Acetic anhydride | Atmos. | Amb. | III | 1 i 2 i i | Integral Gravity | PV | Restr. | II | G-1 | NR | Vent F | Yes | .50-73 .55-1(g) | I-D | NA | G
Acetone cyano­hydrin | Atmos. | Amb. | I | 1 i i 2 i | Integral Gravity | PV | Closed | I | G-1 | NR | Vent F | Yes | .50-5 .50-70(b) .50-73 .50-81 | I-D | NA | G
Acetonitrile | Atmos. | Amb. | III | 1 i 2 i i | Integral Gravity | PV | Restr. | II | G-1 | NR | Vent F | Yes | No | I-D | NA | G
Acrylic acid | Atmos. | Amb. | III | 1 i i 2 i i | Integral Gravity | PV | Restr. | II | G-1 | NR | Vent F | Yes | .50-70(a) .50-73 .50-81 .58-1(a) | I-D | NA | G
Acrylonitrile | Atmos. | Amb. | II | 1 i i 2 i i | Integral Gravity | PV | Closed | II | G-1 | NR | Vent F | Yes | .55-1(e) .50-70(a) | I-D | NA | G
Adiponitrile | Atmos. | Amb. | II | 1 i i 2 i | Integral Gravity | PV | Open | II | G-1 | NR | Vent F | Yes | No | I-D | NA | G
Alkyl­benzene­sulfonic acid (greater than 4%) | Atmos. | Elev. | III | 1 i i 2 i i | Integral Gravity | Open | Open | II | G-1 | NR | Vent N | Yes | .50-73 .58-1(e) | I-B | NA | G
Alkyl(C7-C9) nitrates | Atmos. | Amb. | III | 1 i 2 i i | Integral Gravity | Open | Open | II | G-1 | NR | Vent N | Yes | .50-81 .50-86 | NA | NA | G
Allyl alcohol | Atmos. | Amb. | I | 1 i i 2 i i | Integral Gravity | PV | Closed | I | G-1 | NR | Vent F | Yes | .50-5 .50-73 | I-C | NA | G
Allyl chloride | Atmos. | Amb. | I | 1 i i 2 i i | Integral Gravity | PV | Closed | I | G-1 | NR | Vent F | Yes | .50-5 | I-D | NA | G
Aluminum sulfate solution | Atmos. | Amb. | III | 1 i 2 i | Integral Gravity | Open | Open | II | G-1 | NR | Vent N | Yes | .58-1(e) | NA | NA | G
Aminoethyl­ethanol­amine | Atmos. | Amb. | III | 1 i 2 i | Integral Gravity | Open | Open | II | G-1 | NR | Vent N | Yes | .55-1(b) | NA | NA | G
Ammonia, anhydrous | Press. | Amb. | II | 1NA 2 i i | Ind. Pressure | SR250 p.s.i. | Restr. | II | P-2 | NR | Vent F | No | .50-30 .50-32 | I-D | NA | G
Ammonia, anhydrous | Atmos. | Low | II | 1NA 2 i i | Ind. Gravity | PV | Restr. | II-L | G-2 | NR | Vent F | No | .50-30 .50-32 | I-D | .40- 1(b)(1) | 8
Ammonium bisulfite solution (70% or less) | Atmos. | Amb. | III | 1 i 2 i | Integral Gravity | Open | Open | II | G-1 | NR | Vent N | No | .50-73 .56-1(a), (b), (c) | NA | NA | G
Ammonium hydroxide (28% or less NH 3) | Atmos. | Amb. | III | 1 i 2 i | Integral Gravity | PV | Restr. | II | G-1 | NR | Vent F | No | .56-1(a), (b), (c), (f), (g) | I-D | NA | G
Aniline | Atmos. | Amb. | I | 1 i i 2 i i | Integral Gravity | PV | Closed | I | G-1 | NR | Vent F | Yes | .50-5 .50-73 | I-D | NA | G
Anthracene oil (Coal tar fraction) | Atmos. | Amb. Elev. | II | 1 i i 2 i i | Integral Gravity | Open | Open | II | G-1 | NR | Vent N | Yes | No | I-D | NA | G
Argon, liquefied | Press. | Low | III | 1NA 2 i | Ind. Pressure | SR | Restr. | II-L | P-1 | NR | Vent F | No | .40-1(a) .50-30 .50-36 | NA | .40-1(a) | G
Benzene | Atmos. | Amb. | III | 1 i 2 i i | Integral Gravity | PV | Closed | II | G-1 | NR | Vent F | Yes | .50-60 | I-D | NA | G
Benzene hydrocarbon mixtures (containing Acetylenes) (having 10% Benzene or more) | Atmos. | Amb. | III | 1 i 2 i i | Integral Gravity | PV | Closed | II | G-1 | NR | Vent F | Yes | .50-60 .56-1(b), (d), (f), (g), | I-D | NA | G
Benzene hydrocarbon mixtures (having 10% Benzene or more) | Atmos. | Amb. | III | 1 i 2 i i | Integral Gravity | PV | Closed | II | G-1 | NR | Vent F | Yes | .50-60 | I-D | NA | G
Benzene, Toluene, Xylene mixtures (having 10% Benzene or more) | Atmos. | Amb. | III | 1 i 2 i i | Integral Gravity | PV | Closed | II | G-1 | NR | Vent F | Yes | .50-60 | I-D | NA | G
Buta­diene | Press. | Amb. | II | 1NA 2 i i | Ind. Pressure | SR | Restr. | II | P-2 | NR | Vent F | Yes | .50-70(a) .50-73 | I-B | NA | G
Buta­diene, Butylene mixtures (containing Acetylenes) | Press. | Amb. | II | 1NA 2 i i | Ind. Pressure | SR | Restr. | II | P-1 | NR | Vent F | Yes | .50-30 .50-70(a) .50-73 .56-1(b), (d), (f), (g) | I-B | NA | G
Butyl acrylate (all isomers) | Atmos. | Amb. | III | 1 i 2 i i | Integral Gravity | PV | Restr. | II | G-1 | NR | Vent F | Yes | .50-70(a) .50-81(a), (b) | I-D | NA | G
Butyl­amine (all isomers) | Atmos. | Amb. | II | 1 i i 2 i i | Ind. Gravity | PV | Closed | II | G-1 | NR | Vent F | Yes | .55-1(c) | I-D | NA | G
Butyl methacrylate | Atmos. | Amb. | III | 1 i 2 i i | Integral Gravity | PV | Restr. | II | G-1 | NR | Vent F | Yes | .50-70(a) .50-81(a), (b) | I-D | NA | G
Butyraldehyde (all isomers) | Atmos. | Amb. | III | 1 i 2 i i | Integral Gravity | PV | Open | II | G-1 | NR | Vent F | Yes | .55-1(h) | I-C | NA | G
Camphor oil (light) | Atmos. | Amb. | II | 1 i i 2 i i | Integral Gravity | Open | Open | II | G-1 | NR | Vent N | Yes | No | I-D | NA | G
Carbolic oil | Atmos. | Amb. | I | 1 i i 2 i i | Integral Gravity | PV | Closed | I | G-1 | NR | Vent F | Yes | .50-5 .50-73 | NA | NA | G
Carbon dioxide, liquefied | Press. | Low | III | 1NA 2 i | Ind. Pressure | SR | Restr. | I-L | P-1 | NR | Vent F | No | .50-30 | NA | .40-1(b)(1) | G
Carbon disulfide | Atmos. | Amb. | II | 1NA 2 i i | Ind. Gravity | PV | Restr. | II | G-1 | Inert | Vent F | Yes | .50-40 .50-41 | I-A | NA | G
Carbon te­tra­chlor­ide | Atmos. | Amb. | III | 1 i 2 i | Integral Gravity | PV | Open | II | G-1 | NR | Vent N | No | No | NA | NA | G
Cashew nut shell oil (untreated) | Atmos. | Amb. | III | 1 i i 2 i | Integral Gravity | PV | Restr. | II | G-2 | NR | Vent N | Yes | .50-73 | NA | NA | G
Caustic potash solution | Atmos. | Amb. Elev. | III | 1 i 2 i | Integral Gravity | Open | Open | II | G-1 | NR | NR | No | .50-73 .55-1(j) | NA | NA | G
Caustic soda solution | Atmos. | Amb. Elev. | III | 1 i 2 i | Integral Gravity | Open | Open | II | G-1 | NR | NR | No | .50-73 .55-1(j) | NA | NA | G
Chlorine | Press. | Amb. | I | 1NA 2 i i | Ind. Pressure | SR300 p.s.i. | Indirect | I | P-2 | NR | Vent F | No | .50-30 .50-31 | NA | NA | 3
Chlor­o­benz­ene | Atmos. | Amb. | III | 1 i 2 i i | Integral Gravity | PV | Open | II | G-1 | NR | Vent N | Yes | No | I-D | NA | G
Chlor­o­form | Atmos. | Amb. | III | 1 i 2 i | Integral Gravity | Open | Open | II | G-1 | NR | Vent F | No | No | NA | NA | G
Chloro­hy­drins (crude) | Atmos. | Amb. | I | 1 i i 2 i i | Integral Gravity | PV | Closed | I | G-1 | NR | Vent F | Yes | .50-5 | I-D | NA | G
o-Chloro­nitrobenz­ene | Atmos. | Amb. | I | 1 i i 2 i i | Integral Gravity | PV | Closed | I | G-1 | NR | Vent F | Yes | .50-5 .50-73 | NA | NA | G
Chloro­­sul­fonic acid | Atmos. | Amb. | III | 1 i i 2 i i | Integral Gravity | PV | Open | II | G-1 | NR | Vent N | No | .50-20 .50-21 .50-73 | I-B | NA | G
Coal tar naphtha solvent | Atmos. | Amb. | III | 1 i 2 i | Integral Gravity | PV | Restr. | II | G-1 | NR | Vent F | Yes | .50-73 | I-D | NA | G
Coal tar pitch (molten) | Atmos. | Elev. | III | 1 i i 2 i i | Integral Gravity | PV | Restr. | II | G-1 | NR | Vent F | Yes | .50-73 | I-D | NA | G
Cre­o­sote | Atmos. | Amb. | III | 1 i 2 i | Integral Gravity | Open | Open | II | G-1 | NR | Vent N | Yes | No | NA | NA | G
Cresols (all isomers) | Atmos. | Amb. | III | 1 i 2 i | Integral Gravity | Open | Open | II | G-1 | NR | Vent N | Yes | No | NA | NA | G
Cresols with less than 5% Phenol, see Cresols (all isomers)
Cresols with 5% or more Phenol, see Phenol
Cresylate spent caustic | Atmos. | Amb. | III | 1 i i 2 i | Integral Gravity | Open | Open | II | G-1 | NR | Vent N | No | .50-73 .55-1(b) | NA | NA | G
Cresylic acid, sodium salt solution, see Cresylate spent caustic
Cro­ton­al­de­hyde | Atmos. | Amb. | II | 1 i i 2 i i | Integral Gravity | PV | Restr. | II | G-1 | NR | Vent F | Yes | .55-1(h) | I-C | NA | G
Cyclo­hexa­none | Atmos. | Amb. | III | 1 i 2 i i | Integral Gravity | PV | Restr. | II | G-1 | NR | Vent F | Yes | .56-1(a), (b) | I-D | NA | G
Cyclo­hexa­none, Cyclo­hexa­nol mixture | Atmos. | Amb. | III | 1 i 2 i i | Integral Gravity | PV | Restr. | II | G-1 | NR | Vent F | Yes | .56-1(b) | I-D | NA | G
Cyclo­hex­yl­amine | Atmos. | Amb. | III | 1 i i 2 i i | Integral Gravity | PV | Restr. | II | G-1 | NR | Vent F | Yes | .56-1(a), (b), (c), (g) | I-D | NA | G
Cyclo­penta­diene, Styrene, Benzene mixture | Atmos. | Amb. | III | 1 i 2 i i | Integral Gravity | Open | Open | II | G-1 | NR | Vent F | Yes | .50-60 .56-1(b) | I-D | NA | G
iso-Decyl acrylate | Atmos. | Amb. | III | 1 i 2 i | Integral Gravity | Open | Open | II | G-1 | NR | Vent N | Yes | .50-70(a) .50-81(a), (b) .55-1(c) | NA | NA | G
Dichloro­benz­ene (all isomers) | Atmos. | Amb. | III | 1 i i 2 i | Integral Gravity | PV | Restr. | II | G-1 | NR | Vent F | Yes | .56-1(a), (b) | I-D | NA | G
Dichloro­difluoro­methane | Press. | Amb. | III | 1NA 2 i | Ind. Pressure | SR | Restr. | II | P-1 | NR | NR | No | No | NA | NA | G
1,1-Di­chloro­ethane | Atmos. | Amb. | III | 1 i i 2 i i | Integral Gravity | PV | Restr. | II | G-1 | NR | Vent F | Yes | No | I-D | NA | G
2,2'-Dichloro­ethyl ether | Atmos. | Amb. | II | 1 i i 2 i i | Integral Gravity | PV | Restr. | II | G-1 | NR | Vent F | Yes | .55-1(f) | I-C | NA | G
Dichloro­methane | Atmos. | Amb. | III | 1 i 2 i | Integral Gravity | PV | Restr. | II | G-1 | NR | Vent F | No | No | I-D | NA | G
2,4-Dichloro­phen­oxy­ acetic acid, diethan­ol­amine salt solution | Atmos. | Amb. | III | 1 i 2 i | Integral Gravity | Open | Open | II | G-1 | NR | Vent N | No | .56-1(a), (b), (c), (g) | NA | NA | G
2,4-Dichloro­phen­oxy­acetic acid, dimethyl­amine salt solution | Atmos. | Amb. Elev. | III | 1 i 2 i | Integral Gravity | PV | Restr. | II | G-1 | NR | Vent F | No | .56-1(a), (b), (c), (g) | NA | NA | G
2,4-Dichloro­phen­oxy­acetic acid, tri­iso­pro­panol­amine salt solution | Atmos. | Amb. | III | 1 i 2 i | Integral Gravity | Open | Open | II | G-1 | NR | Vent N | No | .56-1(a), (b), (c), (g) | NA | NA | G
1,1-Dichloro­propane | Atmos. | Amb. | III | 1 i 2 i i | Integral Gravity | PV | Restr. | II | G-1 | NR | Vent F | Yes | No | I-D | NA | G
1,2-Dichloro­propane | Atmos. | Amb. | III | 1 i 2 i i | Integral Gravity | PV | Restr. | II | G-1 | NR | Vent F | Yes | No | I-D | NA | G
1,3-Dichloro­propane | Atmos. | Amb. | III | 1 i 2 i i | Integral Gravity | PV | Restr. | II | G-1 | NR | Vent F | Yes | No | I-D | NA | G
1,3-Dichloro­prop­ene | Atmos. | Amb. | II | 1 i i 2 i i | Integral Gravity | PV | Restr. | II | G-1 | NR | Vent F | Yes | No | I-D | NA | G
Dichloro­pro­pene, Dichloro­propane mixtures | Atmos. | Amb. | II | 1 i i 2 i i | Integral Gravity | PV | Closed | II | G-1 | NR | Vent F | Yes | No | I-D | NA | G
2,2-Dichloro­pro­pionic acid | Atmos. | Amb. | II | 1 i i 2 i | Integral Gravity | PV | Restr. | II | G-1 | Dry | Vent F | Yes | .50-73 .58-1(e) | NA | NA | G
Dieth­an­ol­amine | Atmos. | Amb. | III | 1 i 2 i | Integral Gravity | Open | Open | II | G-1 | NR | Vent N | Yes | .55-1(c) | NA | NA | G
Diethyl­amine | Atmos. | Amb. | III | 1 i i 2 i i | Integral Gravity | PV | Restr. | II | G-1 | NR | Vent F | Yes | .55-1(c) | I-C | NA | G
Diethyl­ene­tri­amine | Atmos. | Amb. | III | 1 i 2 i | Integral Gravity | Open | Open | II | G-1 | NR | Vent N | Yes | .55-1(c) | NA | NA | G
Diethyl ether, see Ethyl ether
Di­iso­bu­tyl­amine | Atmos. | Amb. | III | 1 i i 2 i i | Integral Gravity | PV | Restr. | II | G-1 | NR | Vent F | Yes | .55-1(c) | I-C | NA | G
Diiso­propan­ol­amine | Atmos. | Amb. | III | 1 i 2 i | Integral Gravity | Open | Open | II | G-1 | NR | Vent N | Yes | .55-1(c) | NA | NA | G
Diiso­propyl­amine | Atmos. | Amb. | II | 1 i i 2 i i | Integral Gravity | PV | Closed | II | G-1 | NR | Vent F | Yes | .55-1(c) | I-C | NA | G
N,N-Dimeth­yl­acet­amide | Atmos. | Amb. | III | 1 i i 2 i | Integral Gravity | PV | Restr. | II | G-1 | NR | Vent F | Yes | .56-1(b) | I-D | NA | G
Dimeth­yl­amine | Press. | Amb. | II | 1NA 2 i i | Ind. Pressure | SR | Restr. | II | P-2 | NR | Vent F | Yes | .55-1(c) | I-C | NA | G
Dimethyl­eth­anol­amine | Atmos. | Amb. | III | 1 i 2 i i | Integral Gravity | PV | Restr. | II | G-1 | NR | Vent F | Yes | .56-1(b), (c) | I-C | NA | G
Dimethyl­form­amide | Atmos. | Amb. | III | 1 i i 2 i i | Integral Gravity | PV | Restr. | II | G-1 | NR | Vent F | Yes | .55-1(e) | I-D | NA | G
1,4-Dioxane | Atmos. | Amb. | II | 1 i i 2 i i | Integral Gravity | PV | Closed | II | G-1 | Inert | Vent F | Yes | No | I-C | NA | G
Diphenyl­methane diiso­cyanate | Atmos. | Elev. | II | 1 i i 2 i | Integral Gravity | PV | Closed | I | G-1 | Inert Dry | Vent F | Yes | .50-5 .56-1(a), (b) | NA | Yes | G
Di-n-propyl­amine | Atmos. | Amb. | II | 1 i i 2 i i | Integral Gravity | PV | Restr. | II | G-1 | NR | Vent F | Yes | .55-1(c) | I-C | NA | G
Dodecyl­- dimethyl­- amine, Tetra­decyl­dimethyl­amine mixture | Atmos. | Amb. | III | 1 i 2 i | Integral Gravity | Open | Open | II | G-1 | NR | Vent N | Yes | .56-1(b) | NA | NA | G
Dodecyl phenol | Atmos. | Amb. | I | 1 i i 2 i | Integral Gravity | Open | Open | II | G-1 | NR | Vent N | Yes | .50-73 | I-D | NA | 2
Epichloro­hy­drin | Atmos. | Amb. | I | 1 i i 2 i i | Integral Gravity | PV | Closed | I | G-1 | NR | Vent F | Yes | .50-5 | I-C | NA | G
Ethanol­amine | Atmos. | Amb. | III | 1 i 2 i | Integral Gravity | Open | Open | II | G-1 | NR | Vent N | Yes | .55-1(c) | I-D | NA | G
Ethyl acrylate | Atmos. | Amb. | III | 1 i 2 i i | Integral Gravity | PV | Restr. | II | G-1 | NR | Vent F | Yes | .50-70(a) .50-81(a), (b) | I-D | NA | G
Ethylamine solution (72% or less) | Atmos. | Amb. | II | 1 i i 2 i i | Integral Gravity | PV | Closed | II | G-1 | NR | Vent F | Yes | .55-1(b) | I-D | NA | G
N-Ethyl­butyl­amine | Atmos. | Amb. | III | 1 i i 2 i i | Integral Gravity | PV | Restr. | II | G-1 | NR | Vent F | Yes | .55-1(b) | I-C | NA | G
Ethyl chloride | Press. | Amb. | II | 1NA 2 i i | Ind. Pressure | SR | Restr. | II | P-2 | NR | Vent F | Yes | No | I-D | NA | 8
N-Ethyl­cy­clo­hex­yl­amine | Atmos. | Amb. | III | 1 i i 2 i i | Integral Gravity | PV | Restr. | II | G-1 | NR | Vent F | Yes | .55-1(b) | I-C | NA | G
Ethylene chloro­hydrin | Atmos. | Amb. | I | 1 i i 2 i i | Integral Gravity | PV | Closed | I | G-1 | NR | Vent F | Yes | .50-5 .50-73 | I-D | NA | G
Ethylene cyano­hy­drin | Atmos. | Amb. | III | 1 i 2 i i | Integral Gravity | Open | Open | II | G-1 | NR | Vent N | Yes | No | NA | NA | G
Ethylene­di­amine | Atmos. | Amb. | III | 1 i 2 i i | Integral Gravity | PV | Restr. | II | G-1 | NR | Vent F | Yes | .55-1(c) | I-D | NA | G
Ethylene di­brom­ide | Atmos. | Amb. | II | 1 i i 2 i | Integral Gravity | PV | Closed | II | G-1 | NR | Vent F | No | No | NA | NA | G
Ethylene di­chlor­ide | Atmos. | Amb. | III | 1 i i 2 i i | Integral Gravity | PV | Restr. | II | G-1 | NR | Vent F | Yes | No | I-D | NA | G
Ethylene glycol monoalkyl ethers Including: 2-Ethoxy­ethanol Ethylene glycol butyl ether Ethylene glycol tert-butyl ether Ethylene glycol ethyl ether Ethylene glycol methyl ether Ethylene glycol n-propyl ether Ethylene glycol isopropyl ether | Atmos. | Amb. | III | 1 i 2 i | Integral Gravity | PV | Restr. | II | G-1 | NR | Vent F | Yes | No | I-C | NA | G
Ethylene glycol hexyl ether | Atmos. | Amb. | III | 1 i 2 i | Integral Gravity | Open | Open | II | G-1 | NR | Vent N | Yes | No | NA | NA | G
Ethylene glycol propyl ether | Atmos. | Amb. | III | 1 i 2 i | Integral Gravity | Open | Open | II | G-1 | NR | Vent N | Yes | No | NA | NA | G
Ethylene oxide | Press. | Amb. | I | 1NA 2 i i | Ind. Pressure | SR | Restr. | II | P-2 | Inert | Vent F | Yes | .50-10 .50-12 | I-B | .40-1(c) | 4
Ethyl ether | Atmos. | Amb. | II | 1NA 2 i i | Ind. Gravity | PV | Closed | II | G-1 | Inert | Vent F | Yes | .50-40 .50-42 | I-C | NA | G
2-Ethylhexyl ac­ryl­ate | Atmos. | Amb. | III | 1 i 2 i i | Integral Gravity | Open | Open | II | G-1 | NR | Vent N | Yes | .50-70(a) .50-81(a), (b) | I-D | NA | G
Ethylidene nor­born­ene | Atmos. | Amb. | II | 1 i i 2 i i | Integral Gravity | PV | Closed | II | G-1 | NR | Vent F | Yes | .50-5 .50-74 | NA | NA | G
Ethyl meth­ac­ryl­ate | Atmos. | Amb. | III | 1 i i 2 i i | Integral Gravity | PV | Restr. | II | G-1 | NR | Vent F | Yes | .50-70(a) | I-D | NA | G
2-Ethyl-3-pro­pyl­ac­rol­ein | Atmos. | Amb. | III | 1 i 2 i | Integral Gravity | PV | Restr. | II | G-1 | NR | Vent F | Yes | No | I-C | NA | G
Ferric chloride solutions | Atmos. | Amb. | III | 1 i i 2 i i | Integral Gravity | Open | Open | II | G-1 | NR | Vent N | No | .50-20 .50-75 | I-B | NA | G
Fluorosilicic acid (30% or less) | Atmos. | Amb. | II | 1 i i 2 i i | Ind. Gravity | PV | Closed | II | G-1 | NR | Vent F | No | .50-20 .50-22 .50-73 .50-77 | I-B | NA | 4
Formaldehyde solution (37% to 50%) | Atmos. | Amb. | III | 1 i i 2 i i | Integral Gravity | PV | Restr. | II | G-1 | NR | Vent F | No | .55-1(h) | I-B | NA | G
Formic acid | Atmos. | Amb. | III | 1 i i 2 i | Integral Gravity | PV | Restr. | II | G-1 | NR | Vent F | Yes | .50-73 .55-1(i) | I-D | NA | G
Fur­fur­al | Atmos. | Amb. | III | 1 i i 2 i | Integral Gravity | PV | Restr. | II | G-1 | NR | Vent F | Yes | .55-1(h) | I-C | NA | G
Glu­tar­al­de­hyde solution (50% or less) | Atmos. | Amb. | III | 1 i 2 i | Integral Gravity | Open | Open | II | G-1 | NR | Vent N | No | No | NA | NA | G
Glyoxylic acid solution (50% or less) | Atmos. | Amb. | III | 1 i 2 i i | Integral Gravity | Open | Open | II | G-1 | NR | Vent N | Yes | .50-73 .50-81 .58-1(e) | NA | NA | G
Hexamethyl­enedia­mine solution | Atmos. | Amb. | III | 1 i 2 i | Integral Gravity | PV | Restr. | II | G-1 | NR | Vent F | Yes | .55-1(c) | I-D | NA | G
Hexamethyl­ene­imine | Atmos. | Amb. | II | 1 i i 2 i | Integral Gravity | PV | Restr. | II | G-1 | NR | Vent F | Yes | .56-1(b), (c) | I-C | NA | G
Hydrochloric acid | Atmos. | Amb. | III | 1NA 2 i i | Ind. Gravity | Open | Open | II | G-1 | NR | Vent F | No | .50-20 .50-22 .50-73 | I-B | NA | 4
Hydrofluorosilicic acid (25% or less), see Fluoro­silicic acid (30% or less)
2-Hydrox­yethyl acrylate | Atmos. | Amb. | I | 1 i i 2 i | Integral Gravity | PV | Closed | I | G-1 | NR | Vent F | Yes | .50-5 .50-70(a) .50-73 .50-81(a), (b) | NA | NA | G
Iso­prene | Atmos. | Amb. | III | 1 i 2 i i | Integral Gravity | PV | Open | II | G-1 | NR | Vent F | Yes | .50-70(a) .50-81(a), (b) | I-D | NA | G
Kraft pulping liquors (free alkali content 3% or more) (including: Black, Green, or White liquor) | Atmos. | Amb. | III | 1 i 2 i | Integral Gravity | Open | Open | II | G-1 | NR | NR | No | .50-73 .56-1(a), (c), (g) | NA | NA | G
Mesityl oxide | Atmos. | Amb. | III | 1 i i 2 i i | Integral Gravity | PV | Restr. | II | G-1 | NR | Vent F | Yes | No | I-D | NA | G
Methyl­ace­ty­l­ene, Pro­pad­i­ene mixture | Press. | Amb. | III | 1 NA 2 i i | Ind. Pressure | SR | Restr. | II | P-2 | NR | Vent F | Yes | .50-79 | I-C | NA | G
Methyl ac­ry­l­ate | Atmos. | Amb. | III | 1 i 2 i i | Integral Gravity | PV | Restr. | II | G-1 | NR | Vent F | Yes | .50-70(a) .50-81(a), (b) | I-D | NA | G
Methyl­amine solution (42% or less) | Atmos. | Amb. | II | 1NA 2 i i | Ind. Gravity | PV | Closed | II | G-1 | NR | Vent F | Yes | .56-1(a), (b), (c), (g) | I-D | NA | G
Methyl brom­ide | Press. | Amb. | I | 1NA 2 i i | Ind. Pressure | SR | Closed | I | P-2 | NR | Vent F | Yes | .50-5 | I-D | NA | 2
Methyl chlor­ide | Press. | Amb. | II | 1NA 2 i i | Ind. Pressure | SR | Restr. | II | P-2 | NR | Vent F | Yes | .55-1(c) | I-D | NA | 8
Methyl­cy­clo­penta­diene dimer | Atmos. | Amb. | III | 1 i 2 i | Integral Gravity | PV | Restr. | II | G-1 | NR | Vent F | Yes | No | I-B | NA | G
Methyl di­ethan­ol­amine | Atmos. | Amb. | III | 1 i 2 i | Integral Gravity | Open | Open | II | G-1 | NR | Vent N | Yes | .56-1(b), (c) | I-C | NA | G
2-Methyl-5-eth­yl­py­ri­dine | Atmos. | Amb. | III | 1 i 2 i | Integral Gravity | Open | Open | II | G-1 | NR | Vent N | Yes | .55-1(e) | I-D | NA | G
Methyl methacryl­ate | Atmos. | Amb. | III | 1 i 2 i i | Integral Gravity | PV | Restr. | II | G-1 | NR | Vent F | Yes | .50-70(a) .50-81(a), (b) | I-D | NA | G
2-Methyl­pyri­dine | Atmos. | Amb. | III | 1 i 2 i i | Integral Gravity | PV | Restr. | II | G-1 | NR | Vent F | Yes | .55-1(c) | I-D | NA | G
alpha-Methyl­sty­rene | Atmos. | Amb. | III | 1 i 2 i i | Integral Gravity | PV | Restr. | II | G-1 | NR | Vent F | Yes | .50-70(a) .50-81(a), (b) | I-D | NA | G
Monochloro­- difluoro­methane | Press. | Amb. | III | 1NA 2 i | Ind. Pressure | SR | Restr. | I | P-1 | NR | NR | No | No | NA | NA | G
Morpholine | Atmos. | Amb. | III | 1 i 2 i i | Integral Gravity | Open | Open | II | G-1 | NR | Vent N | Yes | .55-1(c) | I-C | NA | G
Motor fuel anti-knock compounds (containing lead alkyls) | Atmos. | Amb. | I | 1 i i 2 i i | Ind. Gravity | PV | Closed | I | G-1 | NR | Vent F | Yes | .50-6 .50-73 | I-D | NA | .50-6
Nitric acid (70% or less) | Atmos. | Amb. | II | 1 i i 2 i i | Integral Gravity | PV | Restr. | II | G-1 | NR | Vent F | No | .50-20 .50-73 .50-80 | I-B | NA | 4
Nitro­benz­ene | Atmos. | Amb. | I | 1 i i 2 i i | Integral Gravity | PV | Closed | I | G-1 | NR | Vent F | Yes | .50-5 .50-73 | I-D | NA | G
Nitrogen, liquefied | Press. | Low | III | 1NA 2 i | Ind. Pressure | SR | Restr. | II-L | P-1 | NR | Vent F | No | .40-1(a) .50-30 .50-36 | NA | .40-1(a) | G
1- or 2-Ni­tro­pro­pane | Atmos. | Amb. | III | 1 i i 2 i i | Integral Gravity | PV | Restr. | II | G-1 | NR | Vent F | Yes | .50-81 | I-C | NA | G
o-Nitrotoluene | Atmos. | Amb. | I | 1 i i 2 i i | Integral Gravity | PV | Closed | I | G-1 | NR | Vent F | Yes | .50-5 .50-73 | I-D | NA | G
Octyl nitrates (all isomers), see Alkyl(C7-C9) nitrates
Oleum | Atmos. | Amb. | III | 1 i i 2 i i | Integral Gravity | Open | Open | II | G-1 | NR | Vent N | No | .50-20 .50-21 .50-73 | I-B | NA | 4
Penta­chloro­eth­ane | Atmos. | Amb. | III | 1 i i 2 i | Integral Gravity | PV | Restr. | II | G-1 | NR | Vent F | No | No | NA | NA | G
1,3-Penta­di­ene | Atmos. | Amb. | III | 1 i 2 i i | Integral Gravity | PV | Restr. | II | G-1 | NR | Vent F | Yes | .50-70(a) .50-81 | I-D | NA | G
Perchloro­eth­yl­ene | Atmos. | Amb. | III | 1 i 2 i | Integral Gravity | PV | Restr. | II | G-1 | NR | Vent F | No | No | NA | NA | G
Phenol | Atmos. | Amb. | I | 1 i i 2 i | Integral Gravity | PV | Closed | I | G-1 | NR | Vent F | Yes | .50-5 .50-73 | I-D | NA | 2
Phosphoric acid | Atmos. | Amb. | III | 1 i i 2 i | Integral Gravity | Open | Open | II | G-1 | NR | Vent N | No | .50-20 .50-23 .50-73 | I-B | NA | 4
Phosphorus, white (elemental) | Atmos. | Elev. | I | 1 i i 2 i i | Integral Gravity | PV | Closed | I | G-1 | Water Pad | Vent F | Yes | .50-50 | NA | NA | 4-8
Phthalic an­hy­dride (molten) | Atmos. | Elev. | III | 1 i i 2 i i | Integral Gravity | PV | Restr. | II | G-1 | NR | Vent F | Yes | No | I-D | NA | G
Polyethyl­ene poly­amines | Atmos. | Amb. | III | 1 i 2 i | Integral Gravity | Open | Open | II | G-1 | NR | Vent N | Yes | .55-1(e) | NA | NA | G
Polymethyl­ene poly­phenyl iso­cy­an­ate | Atmos. | Amb. | II | 1 i i 2 i | Integral Gravity | PV | Closed | II | G-1 | Dry | Vent F | Yes | .55-1(e) | NA | NA | G
Potassium hy­drox­ide solution, see Caustic potash solution
iso-Pro­pan­ol­amine | Atmos. | Amb. | III | 1 i 2 i | Integral Gravity | Open | Open | II | G-1 | NR | Vent N | Yes | .55-1(c) | I-D | NA | G
Pro­pan­ol­amine (iso-, n-) | Atmos. | Amb. | III | 1 i 2 i | Integral Gravity | Open | Open | II | G-1 | NR | Vent N | Yes | .56-1(b), (c) | I-D | NA | G
Propionic acid | Atmos. | Amb. | III | 1 i 2 i i | Integral Gravity | Open | Open | II | G-1 | NR | Vent N | Yes | .50-73 .55-1(g) | I-D | NA | G
iso-Pro­pyl­a­mine | Atmos. | Amb. | II | 1 i i 2 i i | Integral Gravity | PV | Closed | II | G-1 | NR | Vent F | Yes | .55-1(c) | I-D | NA | G
Propylene oxide | Press. | Amb. | II | 1NA 2 i i | Ind. Pressure | SR | Restr. | II | P-1 | Inert | Vent F | Yes | .50-10 .50-13 | I-B | NA | G
iso-Propyl ether | Atmos. | Amb. | III | 1 i i 2 i i | Integral Gravity | PV | Restr. | II | G-1 | Inert | Vent F | Yes | .50-70(a) | I-D | NA | G
Pyridine | Atmos. | Amb. | III | 1 i 2 i i | Integral Gravity | PV | Restr. | II | G-1 | NR | Vent F | Yes | .55-1(e) | I-D | NA | G
Sodium alum­i­nate solution (45% or less) | Atmos. | Amb. Elev. | III | 1 i 2 i | Integral Gravity | Open | Open | II | G-1 | NR | NR | No | .50-73 .56-1(a), (b), (c) | NA | NA | G
Sodium chlor­ate solution (50% or less) | Atmos. | Amb. | III | 1 i 2 i | Integral Gravity | Open | Open | II | G-1 | NR | Vent N | No | .50-73 | NA | NA | G
Sodium di­chrom­ate solution (70% or less) | Atmos. | Amb. | II | 1 i i 2 i i | Integral Gravity | Open | Closed | II | G-1 | NR | Vent N | No | .50-5(d) .50-73 .56-1(b), (c) | NA | NA | G
Sodium hydroxide solution, see Caustic soda solution
Sodium hypochlorite solution (20% or less) | Atmos. | Amb. | III | 1 i 2 i i | Integral Gravity | PV | Restr. | II | G-1 | NR | Vent F | No | .50-73 .56-1(a), (b) | NA | NA | G
Sodium sul­fide, hy­dro­sul­fide solutions (H2S 15ppm or less) | Atmos. | Amb. | III | 1 i 2 i | Integral Gravity | Open | Open | II | G-1 | NR | Vent N | No | .50-73 .55-1(b) | NA | NA | G
Sodium sul­fide, hy­dro­sul­fide solutions (H2S greater than 15ppm but less than 200ppm) | Atmos. | Amb. | III | 1 i i 2 i | Integral Gravity | PV | Restr. | II | G-1 | NR | Vent F | No | .50-73 .55-1(b) | NA | NA | G
Sodium sul­fide, hy­dro­sul­fide solutions (H2S greater than 200ppm) | Atmos. | Amb. | II | 1 i i 2 i | Integral Gravity | PV | Closed | II | G-1 | NR | Vent F | No | .50-73 .55-1(b) | NA | NA | G
Sodium thi­o­cy­an­ate solution (56% or less) | Atmos. | Amb. | III | 1 i 2 i | Integral Gravity | Open | Open | II | G-1 | NR | Vent N | Yes | .58-1(a) | NA | NA | G
Styrene monomer | Atmos. | Amb. | III | 1 i 2 i i | Integral Gravity | Open | Open | II | G-1 | NR | Vent N | Yes | .50-70(a) .50-81(a), (b) | I-D | NA | G
Sulfur (molten) | Atmos. | Elev. | III | 1 i 2 i i | Integral Gravity | Open | Open | II | G-1 | Vent N | Vent N | Yes | .50-55 | I-C | .40- 1(f)(1) | G
Sulfur dioxide | Press. | Amb. | I | 1NA 2 i i | Ind. Pressure | SR | Closed |  | P-2 | NR | Vent F | No | .50-30 .50-84 .55-1(j) | NA | NA | 2
Sulfuric acid | Atmos. | Amb. | III | 1 i i 2 i i | Integral Gravity | Open | Open | II | G-1 | NR | Vent N | No | .50-20 .50-21 .50-73 | I-B | NA | 4
Sulfuric acid, spent | Atmos. | Amb. | III | 1 i i 2 i i | Integral Gravity | Open | Open | II | G-1 | NR | Vent N | No | .50-20 .50-21 .50-73 | I-B | NA | 4
1,1,2,2-Tetra­chloro­ethane | Atmos. | Amb. | III | 1 i i 2 i i | Integral Gravity | PV | Restr. | II | G-1 | NR | Vent F | No | No | NA | NA | G
Tetraethyl­enepent­amine | Atmos. | Amb. | III | 1 i 2 i i | Integral Gravity | Open | Open | II | G-1 | NR | Vent N | Yes | .55-1(c) | I-C | NA | G
Tetra­hydro­furan | Atmos. | Amb. | III | 1 i 2 i i | Integral Gravity | PV | Restr. | II | G-1 | NR | Vent F | Yes | .50-70(b) | I-C | NA | G
Toluene­diamine | Atmos. | Elev. | II | 1 i i 2 i | Integral Gravity | PV | Closed | II | G-1 | NR | Vent F | Yes | .50-73 .56-1(a), (b), (c), (g) | NA | NA | G
Toluene di­iso­cyanate | Atmos. | Amb. | I | 1 i i 2 i i | Integral Gravity | PV | Closed | I | G-1 | Dry N 2 | Vent F | Yes | .50-5 .55-1(e) | I-D | NA | G
o-Toluidine | Atmos. | Amb. | II | 1 i i 2 i i | Integral Gravity | PV | Closed | II | G-1 | NR | Vent F | Yes | .50-5 .50-73 | I-D | NA | G
1,2,4-Tri­chloro­benzene | Atmos. | Amb. | III | 1 i i 2 i i | Integral Gravity | PV | Restr. | II | G-1 | NR | Vent F | Yes | No | I-D | NA | G
1,1,2-Tri­chloro­eth­ane | Atmos. | Amb. | III | 1 i i 2 i | Integral Gravity | PV | Restr. | II | G-1 | NR | Vent F | No | .50-73 .56-1(a) | I-D | NA | G
Trichloro­eth­ylene | Atmos. | Amb. | III | 1 i 2 i | Integral Gravity | PV | Restr. | II | G-1 | NR | Vent F | No | No | I-D | NA | G
1,2,3-Tri­chloro­pro­pane | Atmos. | Amb. | II | 1 i i 2 i | Integral Gravity | PV | Restr. | II | G-1 | NR | Vent F | Yes | .50-73 .56-1(a) | I-D | NA | G
Triethanol­amine | Atmos. | Amb. | III | 1 i 2 i | Integral Gravity | Open | Open | II | G-1 | NR | Vent N | Yes | .55-1(b) | I-C | NA | G
Triethylamine | Atmos. | Amb. | II | 1 i i 2 i i | Integral Gravity | PV | Restr. | II | G-1 | NR | Vent F | Yes | .55-1(e) | I-C | NA | G
Triethylene­te­tramine | Atmos. | Amb. | III | 1 i 2 i | Integral Gravity | Open | Open | II | G-1 | NR | Vent N | Yes | .55-1(b) | I-C | NA | G
Triphenylborane (10% or less), Caustic soda solution | Atmos. | Amb. | III | 1 i 2 i | Integral Gravity | Open | Open | II | G-1 | NR | NR | No | .56-1(a), (b), (c) | NA | NA | G
Trisodium phosphate solution | Atmos. | Amb. Elev. | III | 1 i 2 i | Integral Gravity | Open | Open | II | G-1 | NR | NR | No | .50-73 .56-1(a), (c) | NA | NA | G
Urea, Ammonium nitrate solution (containing more than 2% NH 3) | Atmos. | Amb. | III | 1 i 2 i | Integral Gravity | PV | Restr. | II | G-1 | NR | Vent F | No | .56-1(b) | I-D | NA | G
Valeraldehyde (all isomers) | Atmos. | Amb. | III | 1 i 2 i i | Integral Gravity | PV | Restr. | II | G-1 | Inert | Vent F | Yes | No | I-C | NA | G
Vanillan black liquor (free alkali content 3% or more) | Atmos. | Amb. | III | 1 i 2 i | Integral Gravity | Open | Open | II | G-1 | NR | NR | No | .50-73 .56-1(a), (c), (g) | NA | NA | G
Vinyl acetate | Atmos. | Amb. | III | 1 i 2 i i | Integral Gravity | PV | Open | II | G-1 | NR | Vent F | Yes | .50-70(a) .50-81(a), (b) | I-D | NA | G
Vinyl chloride | Press. | Amb. | II | 1NA 2 i i | Ind. Pressure | SR | Closed | II | P-2 | NR | Vent F | Yes | .50-30 .50-34 | I-D | NA | 8
Vinyl chloride | Atmos. | Low | II | 1NA 2 i i | Ind. Gravity | PV | Closed | II-L | G-2 | NR | Vent F | Yes | .50-30 .50-34 | I-D | .40- 1(b)(1) | 8
Vinylidene chloride | Atmos. | Amb. | II | 1NA 2 i i | Ind. Gravity | PV | Closed | II | P-2 | Padded | Vent F | Yes | .55-1(f) .50-70(a) .50-81(a), (b) | I-D | NA | G
Vinyl­tol­u­ene | Atmos. | Amb. | III | 1 i 2 i i | Integral Gravity | PV | Restr. | II | G-1 | NR | Vent F | Yes | .50-70(a) .50-81 .56-1(a), (b), (c), (g) | I-D | NA | G
For requirements see these sections in Part 151: |  |  | .10- 1 | .13- 5 | .15- 1 | .15-5 | .15- 10 | .20- 1 | .20- 5 | .25-1 | .25-2 | .30 |  | 111.105 (Sub-chapter J) | .40 | .04- 5
See Table 2 of Part 153 for additional cargoes permitted to be carried by tankbarge.
Terms and symbols:
Segregation—Tank—
Line 1—Segregation of cargo from surrounding waters:
i=Skin of vessel (single skin) only required. Cargo tank wall can be vessel's hull.
i i=Double skin required. Cargo tank wall cannot be vessel's hull.
Line 2—Segregation of cargo space from machinery spaces and other spaces which have or could have a source of ignition:
i=Single bulkhead only required. Tank wall can be sole separating medium.
i i=Double bulkhead required. Cofferdam, empty tank, pumproom, tank with Grade E Liquid (if compatible with cargo) is satisfactory.
Internal tank inspection—
G—Indicates cargo is subject to general provisions of 151.04-5(b).
Specific numbers in this column are changes from the general provisions.
Abbreviations used:
Tank type: Ind=Independent.
Vent:
PV=Pressure vacuum valve.
SR=Safety relief.
Gauging device: Restr.=Restricted.
General usage:
NR=No requirement.
NA=Not applicable.
1. The provisions contained in 46 CFR Part 197, subpart C, apply to liquid cargoes containing 0.5% or more benzene by volume.

§ 151.12-5 [Amended]

17. Amend § 151.12-5 by adding the following new entries in chemically proper alphabetized order:

§ 151.12-5 Equipment for Category D NLS.

* * * * *

Cyclohexanone, Cychexanol mixture

* * * * *

Glyoxylic acid solution (50% or less)

* * * * *

PART 153—SHIPS CARRYING BULK LIQUID, LIQUEFIED GAS, OR COMPRESSED GAS HAZARDOUS MATERIALS

18. The citation of authority for Part 153 continues to read as follows:

Authority: 46 U.S.C. 3703; 49 CFR 1.46. Section 153.40 issued under 49 U.S.C. 5103. Sections 153.470 through 153.491, 153.1100 through 153.1132, and 153.1600 through 153.1608 also issued under 33 U.S.C. 1903(b).

19. Revise Table 1 of part 153 to read as follows:

Table 1.—Summary of Minimum Requirements
Cargo name | IMO Annex II Pollution Category | Haz. | Cargo containment system | Vent height | Vent | Gauge | Fire protection system | Special requirements in 46 CFR Part 153 | Electrical hazard class and group
a. | b. | c. | d. | e. | f. | g. | h. | i. | j.
Acetic acid | D | S | III | 4m | PV | Restr | A | .238(a), .409, .527, .554, .933 | I-D
Acetic anhydride | D | S | II | 4m | PV | Restr | A | .238(a), .409, .526, .527, .554, .933 | I-D
Acetochlor | A | P | II | NR | Open | Open | A | .409 | NA
Acetone cyanohydrin | A | S/P | II | B/3 | PV | Closed | A | .238(a), .316, .336, .408, .525, .526, .527, .912(a)(2), .933, .1002, .1004, .1020, .1035 | I-D
Acetonitrile | III | S | II | B/3 | PV | Restr | A | .409, .525, .526, .1020 | I-D
Acrylamide solution (50% or less) | D | S | II | NR | Open | Closed | NSR | .409, .525(a), (c), (d), (e), .912(a)(1), .1002(a), .1004, .1020 | NA
Acrylic acid | D | S | III | 4m | PV | Restr | A | .238(a), .409, .526, .912(a)(1), .933, .1002(a), .1004 | I-D
Acrylonitrile | B | S/P | II | B/3 | PV | Closed | A | .236(a), (c), (d), .316, .408, .525, .526, .527, .912(a)(1), .1004, .1020 | I-D
Adiponitrile | D | S | III | 4m | PV | Restr | A | .526 | I-D
Alachlor | B | S/P | III | NR | Open | Open | A, C | .238(a), .409, .440, .488, .908(a), (b) | NA
Alcohol (C6-C17) (secondary) poly(3-6)ethoxylates | A | P | II | NR | Open | Open | A | .409 | NA
Alcohol (C6-C17) (secondary) poly(7-12)­ethoxylates | B | P | III | NR | Open | Open | A | .409, .440, .908(a), (b) | NA
Alcohol(C9-C11) poly(2.5-9) ethoxylate | B | P | III | NR | Open | Open | A | .409, .440, .908(a) | NA
Alcohol(C12-C15) poly(...)ethoxylates, see Alcohol(C12-C16) poly(...)ethoxylates
Alcohol(C12-C16) poly(1-6)ethoxylates | A | P | II | NR | Open | Open | A | .409 | NA
Alcohol(C12-C16) poly(7-19)ethoxylates | B | P | III | NR | Open | Open | A | .409, .440, .908(a) | NA
Alcohol(C12-C16) poly(20+)ethoxylates | C | P | III | NR | Open | Open | A | None | NA
Alkanes(C6-C9) (all isomers) | C | P | III | 4m | PV | Restr | A | .409 | I-D
Alkane(C14-C17) sulfonic acid, sodium salt solution (65% or less) | B | P | III | NR | Open | Open | NSR | .440, .908(a) | NA
Alkaryl polyether (C9-C20) | B | P | III | NR | Open | Open | A, B | .409; (.440, .908(a)) ¹ | NA
Alkenyl(C16-C20) succinic anhydride | D | S | III | B/3 | PV | Closed | NSR | .316, .408, .525, .526, .1020 | NA
Alkyl acrylate-Vinyl pyridine copolymer in Toluene | C | P | III | 4m | PV | Restr | A | .409 | NA
Alkylaryl phosphate mixtures (more than 40% Diphenyl tolyl phosphate, less than 0.02% ortho- isomer) | A | S/P | I | B/3 | PV | Closed | A, B, C | .316, .408, .525, .526, .1020 | NA
Alkyl(C3-C4)benzenes (all isomers) | A | P | III | 4m | PV | Restr | A | .409 | I-D
Alkyl(C5-C8)benzenes (all isomers) | A | P | II | NR | Open | Open | A | .409 | I-D
Alkylbenzene, Alkylindane, Alkylindene mixture (each C12-C17) | A | P | II | NR | Open | Open | A | .409 | NA
Alkylbenzenesulfonic acid (greater than 4%) | C | S/P | III | NR | Open | Open | A, B | .440, .908(a) | NA
Alkylbenzenesulfonic acid, sodium salt solution | C | P | III | NR | Open | Open | NSR | .440, .903, .908(a), (b) | NA
Alkyl(C7-C9) nitrates | B | S/P | II | NR | Open | Open | A, B | .409, .560, .1002 | NA
Alkyl (C7-C11) phenol poly(4-12) ethoxylate | B | P | III | NR | Open | Open | A | .409, .440, .488 ¹, .908(a), (b) | I-D
Alkyl(C8-C9) phenyl­amine in aromatic solvent | A | P | III | 4m | PV | Restr | A | .409 | NA
Alkyl(C10-C20, saturated and unsaturated) phosphite | C | P | III | NR | Open | Open | A | None | NA
Alkyl(C8-C10) polyglucoside solution (65% or less) | C | P | III | NR | Open | Open | NSR | .440, .908(a), (b) | NA
Alkyl(C12-C14) polyglucoside solution (55% or less) | B | P | III | NR | Open | Open | NSR | .409, .440, .908(a), (b) | NA
Alkyl(C8-C10)/(C12-C14): (40% or less/60% or more) polyglucoside solution (55% or less) | B | P | III | NR | Open | Open | NSR | .409, .440, .908(a), (b) | NA
Alkyl(C8-C10)/(C12-C14): (50/50%) polyglucoside solution (55% or less) | C | P | III | NR | Open | Open | NSR | .440, .908(a), (b) | NA
Alkyl(C8-C10)/(C12-C14): (60% or more/40% or less) polyglucoside solution (55% or less) | C | P | III | NR | Open | Open | NSR | .440, .908(a), (b) | NA
Allyl alcohol | B | S/P | II | B/3 | PV | Closed | A | .316, .408, .525, .526, .527, .933, .1020 | I-C
Allyl chloride | B | S/P | II | B/3 | PV | Closed | A | .316, .408, .525, .526, .527, .1020 | I-D
Aluminum chloride (30% or less), Hydrochloric acid (20% or less) solution | D | S | III | 4m | PV | Restr | NSR | .252, .526, .527, .554, .557, .933, .1045, .1052 | I-B
2-(2-Aminoethoxy) ethanol | D | S | III | NR | Open | Open | A, C, D | .236(b), (c), .409 | NA
Aminoethylethanolamine | D | S | III | NR | Open | Open | A | .236(a), (b), (c), (g) | NA
N-Aminoethylpiperazine | D | S | III | 4m | PV | Restr | A | .236(b), (c), .409, .526 | I-C
2-Amino-2-methyl-1-propanol (90% or less) | D | S | III | NR | Open | Open | A | .236(a), (b), (c), (g) | I-D
Ammonia aqueous (28% or less), see Ammonium hydroxide (28% or less NH3)
Ammonium bisulfite solution (70% or less) | D | S | III | 4m | PV | Restr | No | .238(e), .526, .933, .1002 | NA
Ammonium hydroxide (28% or less NH3) | C | S/P | III | 4m | PV | Restr | A, B, C | .236(b), (c), (f), .526, .527 | I-D
Ammonium nitrate solution (greater than 45% and less than 93%) | D | S | II | NR | Open | Open | NSR | .238(d), .252, .336, .409, .554(a), (b) | NA
Ammonium sulfide solution (45% or less) | B | S/P | II | B/3 | PV | Closed | A, C | .236(a), (b), (c), (g), .316, .408, .525, .526, .527, .933, .1002, .1020 | I-D
Ammonium thiocyanate (25% or less), Ammonium thiosulfate (20% or less) solution | C | P | III | NR | Open | Open | NSR | None | NA
Ammonium thiosulfate solution (60% or less) | C | P | III | NR | Open | Open | NSR | .440, .908(b) | NA
Amyl acetate (all isomers) | C | P | III | 4m | PV | Restr | A | .409 | I-D
tert-Amyl methyl ether | C | P | III | 4m | PV | Restr | A | .409 | NA
Aniline | C | S/P | II | B/3 | PV | Closed | A | .316, .408, .525, .526, .933, .1020 | I-D
Anthracene oil (Coal tar fraction), see Coal tar
Aviation alkylates (C8 paraffins and iso-paraffins, b. pt. 95-120 deg. C) | C | P | III | 4m | PV | Restr | B | .409 | I-C
Barium long chain (C11-C50) alkaryl sulfonate | B | S/P | II | NR | Open | Open | A, D | .408, .440, .525(a), (c), (e), (d), .908(a), .1020 | NA
Barium long chain alkyl (C8-C14) phenate sulfide | [A] | P | II | NR | Open | Open | A | .409 | NA
Benzene hydrocarbon mixtures ² (having 10% Benzene or more) | C ² | S/P | III | B/3 | PV | Closed | A, B | .316, .409, .440, .526, .908(b), .933, .1060 | I-D
Benzenesulfonyl chloride | D | S | III | 4m | PV | Restr | A, B, D | .236(a), (b), (c), (g), .409, .526 | I-D
Benzene, Toluene, Xylene mixtures ² (having 10% Benzene or more) | @C ² | S/P | III | B/3 | PV | Closed | B | .316, .409, .440, .526, .908(b), .1060 | I-D
Benzyl acetate | C | P | III | NR | Open | Open | A | None | I-D
Benzyl alcohol | C | P | III | NR | Open | Open | A | None | I-D
Benzyl chloride | B | S/P | II | B/3 | PV | Closed | A, B | .316, .408, .525, .526, .527, .912(a)(2), .1004, .1020 | I-D
Bromochloromethane | D | S | III | 4m | PV | Restr | NSR | .236(a), (b), (d), .526, .933 | NA
Butene oligomer | B | P | III | NR | Open | Open | A | .409 | NA
Butyl acetate (all isomers) | C | P | III | 4m | PV | Restr | A | .409 | I-D
Butyl acrylate (all isomers) | B | S/P | II | 4m | PV | Restr | A | .409, .526, .912(a)(1), .1002(a), (b), .1004 | I-D
Butylamine (all isomers) | C | S/P | II | B/3 | PV | Restr | A | .236(b), (c), .316, .408, .525, .526, .527, .1020 | I-D
Butylbenzene (all isomers), see Alkyl(C3-C4)benzenes (all isomers) | A | P | III | 4m | PV | Restr | A | .409 | I-D
Butyl benzyl phthalate | A | P | II | NR | Open | Open | A | .409 | I-D
n-Butyl butyrate, see Butyl butyrate (all isomers)
Butyl butyrate (all isomers) | B | P | III | 4m | PV | Restr | A | .409 | I-D
1,2-Butylene oxide | C | S/P | III | 4m | PV | Restr | A, C | .372, .409, .440, .500, .526, .530(a), (c), (e)-(g), (m)-(o), .1010, .1011 | I-B
n-Butyl ether | C | S/P | III | B/3 | PV | Restr | A, D | .409, .500, .525, .526, .1020 | I-C
Butyl heptyl ketone | [C] | P | III | NR | Open | Open | A | None | NA
iso-Butyl isobutyrate, see Butyl butyrate (all isomers)
Butyl methacrylate | D | S | III | 4m | PV | Restr | A, D | .409, .526, .912(a)(1), .1002(a), (b), .1004 | I-D
Butyl methacrylate, Decyl methacrylate, Cetyl-Eicosyl methacrylate mixture | D | S | III | 4m | PV | Restr | A, C, D | .912(a)(1), .1002(a), (b), .1004 | I-D
n-Butyl propionate | C | P | III | 4m | PV | Restr | A | .409 | I-D
Butyl toluene | @A | P | II | NR | Open | Open | A | .409 | I-D
Butyraldehyde (all isomers) | C | S/P | III | 4m | PV | Restr | A | .409, .526 | I-C
Butyric acid | D | S | III | 4m | PV | Restr | A | .238(a), .554 | I-D
Calcium alkyl(C9)phenol sulfide, polyolefin phosphorosulfide mixture | A | P | II | NR | Open | Open | A, B | .409 | NA
Calcium bromide, Zinc bromide solution, see Drilling brine (containing Zinc salts)
Calcium hypochlorite solution (15% or less) | C | S/P | III | 4m | PV | Restr | NSR | .236(a), (b) | NA
Calcium hypochlorite solution (more than 15%) | B | S/P | III | 4m | PV | Restr | NSR | .236(a), (b), .409 | NA
Calcium long chain alkyl(C5-C10) phenate | C | P | III | NR | Open | Open | A | None | NA
Calcium long chain alkyl salicylate (C13+) | C | P | III | NR | Open | Open | A, B | (.440, .903, .908(a)) ¹ | NA
Camphor oil | B | S/P | II | 4m | PV | Restr | A, B | .409 | I-D
Carbolic oil | A | S/P | II | B/3 | PV | Closed | A | .408, .440, .525, .526, .908(b), .933, .1020 | NA
Carbon disulfide | B | S/P | II | B/3 | PV | Closed | C | .236(c), .252, .408, .500, .515, .520, .525, .526, .527, .1020, .1040 | I-A
Carbon tetrachloride | B | S/P | III | B/3 | PV | Closed | NSR | .316, .409, .525, .526, .527, .1020 | NA
Cashew nut shell oil (untreated) | D | S | III | 4m | PV | Restr | A, B | .526, .933 | NA
Caustic potash solution | C | S/P | III | NR | Open | Open | NSR | .236(a), (c), (g), .933 | NA
Caustic soda solution | D | S | III | NR | Open | Open | NSR | .236(a), (c), (g), .933 | NA
Cetyl-Eicosyl methacrylate mixture | III | S | III | NR | Open | Open | A, C, D | .912(a)(1), .1002(a), (b), .1004 | NA
Chlorinated paraffins (C10-C13) | A | P | I | NR | Open | Open | A | .408 | NA
Chloroacetic acid (80% or less) | C | S/P | II | B/3 | PV | Closed | NSR | .238(e), .408, .440, .554, .908(b) | I-D
Chlorobenzene | B | S/P | III | 4m | PV | Restr | A, B | .409, .526 | I-D
Chloroform | B | S/P | III | B/3 | PV | Restr | NSR | .409, .525, .526, .527, .1020 | NA
(crude) Chlorohydrins | D | S | II | B/3 | PV | Closed | A | .408, .525, .526, .1020 | I-D
4-Chloro-2-methyl­phenoxy­acetic acid, dimethyl­amine salt solution | C | P | III | NR | Open | Open | NSR | .236(a), (b), (c), (g) | NA
o-Chloronitrobenzene | B | S/P | II | B/3 | PV | Closed | A, B, C, D | .316, .336, .408, .440, .525, .526, .908(a), (b), .933, .1020 | NA
1-(4-Chlorophenyl)-4,4-dimethyl pentan-3-one | B | P | III | NR | Open | Open | A, B, D | .409, .440, .488, .908(a), (b) | NA
2- or 3-Chloropropionic acid | C | S/P | III | NR | Open | Open | A | .238(a), (b), .440, .554, .908(a), (b) | NA
Chlorosulfonic acid | C | S/P | I | B/3 | PV | Closed | NSR | .408, .525, .526, .527, .554, .555, .602, .933, .1000, .1020, .1045 | I-B
o-Chlorotoluene | A | S/P | III | 4m | PV | Restr | A, B, C | .409, .526 | I-D
m-Chlorotoluene | B | S/P | III | 4m | PV | Restr | A, B, C | .409, .526 | I-D
p-Chlorotoluene | B | S/P | II | 4m | PV | Restr | A, B, C | .409, .440, .526, .908(b) | I-D
Chlorotoluenes (mixed isomers) | A | S/P | II | 4m | PV | Restr | A, B, C | .409, .526 | I-D
Coal tar | A | S/P | II | 4m | PV | Restr | B, D | .409, .933, .1060 | I-D
Coal tar naphtha solvent | B | S/P | III | 4m | PV | Restr | A, D | .409, .526, .933, .1060 | I-D
Coal tar pitch (molten) | D | S | III | 4m | PV | Restr | B, D | .252, .409, .933, .1060 | I-D
Cobalt naphthenate in solvent naphtha | A | S/P | II | 4m | PV | Restr | A, D | .409, .526 | I-D
Coconut oil, fatty acid | C | P | III | NR | Open | Open | A | .440, .903, .908(a), (b) | NA
Cottonseed oil, fatty acid | [C] | P | III | NR | Open | Open | A | .440, .903, .908(a) | NA
Creosote (coal tar) | A | S/P | II | NR | Open | Open | A, B, D | .409 | I-D
Creosote (wood) | A | S/P | II | NR | Open | Open | A, B, D | .409 | NA
Cresols (all isomers) | A | S/P | II | NR | Open | Open | A, B | .409, .440, .908(b) | I-D
Cresols with less than 5% Phenol, see Cresols (all isomers)
Cresols with 5% or more Phenol, see Phenol
Cresylate spent caustic (mixtures of Cresols and Caustic soda solutions) | A | S/P | II | NR | Open | Open | NSR | .236(a), (c), .409, .933 | NA
Cresylic acid, dephenolized | A | S/P | II | NR | Open | Open | A, B | .409 | NA
Cresylic acid, sodium salt solution, see Cresylate spent caustic
Crotonaldehyde | A | S/P | II | B/3 | PV | Restr | A | .316, .409, .525, .526, .527, .1020 | I-C
Cumene (iso­propyl­benzene), see Propyl­benzene (all isomers)
1,5,9-Cyclododecatriene | A | S/P | I | 4m | PV | Restr | A | .236(b), (c), .408, .526, .912(a)(1), .1002(a), (b), .1004 | I-D
Cycloheptane | C | P | III | 4m | PV | Restr | A | .409 | I-D
Cyclohexane | C | P | III | 4m | PV | Restr | A | .409, .440, .908(b) | I-D
Cyclohexanone | D | S | III | 4m | PV | Restr | A | .236(a), (b), .409, .526 | I-D
Cyclohexanone, Cyclohexanol mixture | D | S | III | 4m | PV | Restr | A | .236(a), (b), .526 | I-D
Cyclohexyl acetate | B | P | III | 4m | PV | Restr | A | .409 | I-D
Cyclohexylamine | C | S/P | III | 4m | PV | Restr | A, C, D | .236(a), (b), (c), (g), .409, .526 | I-D
1,3-Cyclopentadiene dimer (molten) | B | P | II | 4m | PV | Restr | A | .409, .440, .488, .908(a), (b) | I-C
Cyclopentane | C | P | III | 4m | PV | Restr | A | .409 | I-D
Cyclopentene | B | P | III | 4m | PV | Restr | A | .409 | I-D
p-Cymene | C | P | III | 4m | PV | Restr | A | .409 | I-D
iso-Decaldehyde | @C | P | III | NR | Open | Open | A | None | I-C
n-Decaldehyde | @B | P | III | NR | Open | Open | A | None | I-C
Decanoic acid | C | P | III | NR | Open | Open | A | .440, .903, .908(a), (b) | NA
Decene | B | P | III | 4m | PV | Restr | A | .409 | I-D
Decyl acetate | B | P | III | NR | Open | Open | A | .409 | NA
(iso-, n-) Decyl acrylate | A | S/P | II | NR | Open | Open | A, C, D | .236(a), (b), (c), .409, .912(a)(1), .1002(a), (b), .1004 | I-D
Decyl alcohol (all isomers) | B | P | III | NR | Open | Open | A | .409, .440, .908(b) | I-D
Decyloxytetrahydro-thiophene dioxide | A | S/P | II | B/3 | PV | Restr | A | .409, .526 | NA
Dibromomethane | C | S/P | II | 4m | PV | Restr | NSR | .236(a), (b), (d), .408, .525(a), (c), (d), (e), .526, .933, .1020 | NA
Dibutylamine | C | S/P | III | 4m | PV | Restr | A, B, C, D | .236(b), (c), .409, .526 | I-C
Dibutyl hydrogen phosphonate | B | P | III | NR | Open | Open | A | .409, .440, .908(a) | NA
ortho-Dibutyl phthalate | A | P | II | NR | Open | Open | A | .409 | I-D
Dichlorobenzene (all isomers) ¹ | B | S/P | II | 4m | PV | Restr | A, B, D | .236(a), (b), .409, .440, .488 ¹, .526, .908(a), (b) ¹ | I-D
3,4-Dichloro-1-butene | B | S/P | III | B/3 | PV | Closed | A, B, C | .316, .409, .525(a), (c), (d), (e), .526, .527, .933, .1020 | I-D
1,1-Dichloroethane | D | S | III | 4m | PV | Restr | A, B | .409, .526, .527 | I-D
2,2'-Dichloroethyl ether | B | S/P | II | 4m | PV | Restr | A | .236(a), (b), .409, .526 | I-C
1,6-Dichlorohexane | B | S/P | II | 4m | PV | Restr | A, B | .409, .526 | NA
2,2'-Dichloroisopropyl ether | C | S/P | II | B/3 | PV | Restr | A, B, C, D | .236(a), (b), .316, .408(a), .440, .525, .526, .1020 | I-D
Dichloromethane | D | S | III | 4m | PV | Restr | NSR | .526 | I-D
2,4-Dichlorophenol ⁴ | A | S/P | II | 4m | PV | Restr | A, B, C, D | .236(a), (b), (c), (g), .409, .440, .500, .501, .526, .908(b), .933 | I-D
2,4-Dichloro­phenoxy­acetic acid, diethanol­amine salt solution | A | S/P | III | NR | Open | Open | NSR | .236(a), (b), (c), (g), .409 | NA
2,4-Dichlorophenoxy­acetic acid, dimethylamine salt solution | A | S/P | III | NR | Open | Open | NSR | .236(a), (b), (c), (g), .409 | NA
2,4-Dichloro­phenoxy­acetic acid, triiso­propanol­amine salt solution | A | S/P | III | NR | Open | Open | NSR | .236(a), (b), (c), (g), .409 | NA
1,1-Dichloropropane | C | S/P | II | B/3 | PV | Restr | A, B | .409, .525, .526, .1020 | I-D
1,2-Dichloropropane | C | S/P | II | B/3 | PV | Restr | A, B | .409, .525, .526, .1020 | I-D
1,3-Dichloropropane | D | S | II | B/3 | PV | Restr | A, B | .409, .525, .526, .1020 | I-D
1,3-Dichloropropene | B | S/P | II | B/3 | PV | Closed | A, B | .316, .336, .408, .525, .526, .527, .1020 | I-D
Dichloropropene, Dichloropropane mixtures | B | S/P | II | B/3 | PV | Closed | A, B, C, D | .316, .336, .408, .526, .527 | I-D
2,2-Dichloropropionic acid | D | S | III | 4m | PV | Restr | A | .238(e), .266, .500, .501, .554, .933 | NA
Diethanolamine | D | S | III | NR | Open | Open | A | .236(b), (c) | NA
Diethylamine | C | S/P | III | B/3 | PV | Restr | A | .236(a), (b), (c), (g), .409, .525, .526, .527, .1020 | I-C
Diethylaminoethanol, see Diethylethanolamine
2,6-Diethylaniline | C | S/P | III | NR | Open | Open | B, C, D | .236(b), .409, .440, .908(b) | NA
Diethylbenzene | A | P | III | 4m | PV | Restr | A | .409 | I-D
Diethylenetriamine | D | S | III | NR | Open | Open | A | .236(b), (c) | NA
Diethylethanolamine | C | S/P | III | 4m | PV | Restr | A, C | .236(a), (b), (c), (g), .409, .526 | I-C
Diethyl ether, see Ethyl ether
Di-(2-ethylhexyl) phosphoric acid | C | S/P | III | NR | Open | Open | A, B, C, D | .236(b), (c) | I-D
Diethyl phthalate | C | P | III | NR | Open | Open | A | None | I-D
Diethyl sulfate | B | S/P | II | 4m | PV | Closed | A, D | .236(a), (c), (d), .409, .526, .933 | I-D
Diglycidyl ether of Bisphenol A | B | P | III | NR | Open | Open | A | .409, .440, .908(a) | NA
Diglycidyl ether of Bisphenol F | B | P | III | NR | Open | Open | A | .409, .440, .908(a) | NA
Di-n-hexyl adipate | B | P | III | NR | Open | Open | A | .409 | NA
Diisobutylamine | C | S/P | II | 4m | PV | Restr | A, B, C, D | .236(a), (b), (c), (g), .409, .525(a), (c), (d), (e), .526, .1020 | I-C
Diisobutylcarbinol | @C | P | III | NR | Open | Open | A | None | I-D
Diisobutylene | B | P | III | 4m | PV | Restr | A | .409 | I-D
Diisobutyl phthalate | B | P | III | NR | Open | Open | A | .409, .440, .908(a) | I-D
Diisopropanolamine | C | S/P | III | NR | Open | Open | A | .236(b), (c), .440, .908(a), (b) | I-D
Diisopropylamine | C | S/P | II | B/3 | PV | Closed | A | .236(b), (c), .408, .525, .526, .527, .1020 | I-C
Diisopropylbenzene (all isomers) | A | P | II | NR | Open | Open | A | .409 | I-D
N,N-Dimethylacetamide | D | S | III | B/3 | PV | Restr | B | .236(b), .316, .525, .526, .527, .1020 | I-D
N,N-Dimethylacetamide solution (40% or less) | D | S | III | B/3 | PV | Restr | B | .236(b), .316, .526 | I-D
Dimethyl adipate | B | P | III | NR | Open | Open | A | .409, .440, .908(b) | NA
Dimethylamine solution (45% or less) | C | S/P | III | B/3 | PV | Restr | A, C, D | .236(a), (b), (c), (g), .409, .525, .526, .527, .1020 | I-C
Dimethylamine solution (over 45% but not over 55%) | C | S/P | II | B/3 | PV | Closed | A, C, D | .236(a), (b), (c), (g), .316, .408, .525, .526, .527, .1020 | I-C
Dimethylamine solution (over 55% but not over 65%) | C | S/P | II | B/3 | PV | Closed | A, C, D | .236(a), (b), (c), (g), .316, .372, .408, .525, .526, .527, .1020 | I-C
2,6-Dimethylaniline | [C] | S/P | III | NR | Open | Open | B, C, D | .236(b), .409, .440, .908(b) | I-D
N,N-Dimethyl­cyclo­hexylamine | C | S/P | II | B/3 | PV | Restr | A, C | .236(a), (b), (c), (g), .316, .409, .525, .526, .527, .1020 | NA
N,N-Dimethyldodecylamine | A | S/P | I | NR | Open | Open | B | .236(b), .408 | NA
Dimethylethanolamine | D | S | III | 4m | PV | Restr | A, D | .236(b), (c), .409, .526 | I-C
Dimethylformamide | D | S | III | 4m | PV | Restr | A, D | .236(b), .409, .526 | I-D
Dimethyl glutarate | C | P | III | NR | Open | Open | A | None | NA
Dimethyl hydrogen phosphite | B | S/P | III | 4m | PV | Restr | A, D | .526 | NA
Dimethyl naphthalene sulfonic acid, sodium salt solution | [A] | P | III | NR | Open | Open | NSR | .409 | NA
Dimethyloctanoic acid | C | P | III | NR | Open | Open | A | .440, .903, .908(b) | I-D
Dimethyl phthalate | C | P | III | NR | Open | Open | A | None | I-D
Dimethyl succinate | C | P | III | NR | Open | Open | A | .440, .908(b) | NA
Dinitrotoluene (molten) | A | S/P | II | B/3 | PV | Closed | A | .316, .408, .525, .526, .527, .1003, .1020 | I-C
1,4-Dioxane | D | S | II | B/3 | PV | Closed | A | .408, .525, .526, .1020 | I-C
Dipentene | C | P | III | 4m | PV | Restr | A | .409 | I-D
Diphenyl | A | P | I | NR | Open | Open | B | .408 | I-D
Diphenylamine (molten) | B | P | III | NR | Open | Open | B, D | .236(b), .409, .440, .488, .908(b) | NA
Diphenylamines, alkylated | A | P | II | NR | Open | Open | A | .409 | NA
Diphenylamine, reaction product with 2,2,4-Trimethylpentene | A | S/P | I | NR | Open | Open | A | .408 | NA
Diphenyl, Diphenyl ether mixtures | A | P | I | NR | Open | Open | B | .408 | I-D
Diphenyl ether | A | P | III | NR | Open | Open | A | .409 | I-D
Diphenyl ether, Biphenyl phenyl ether mixture | A | P | III | NR | Open | Open | A, B | .409 | NA
Diphenylmethane diisocyanate ⁶ | B | S/P | II | B/3 | PV | Closed | A, B, C ⁶, D | .236(a), (b), .316, .409, .440, .500, .501, .525, .526, .602, .908(a), .1000, .1020 | NA
Diphenylol propane-epichlorohydrin resins | B | P | III | NR | Open | Open | A, B | .409, .440, .908(a) | NA
Di-n-propylamine | C | S/P | III | 4m | PV | Restr | A | .236(b), (c), .409, .525, .526, .1020 | I-C
Dithiocarbamate ester (C7-C35) | A | P | II | NR | Open | Open | A, D | .409 | NA
Dodecanol | B | P | III | NR | Open | Open | A | .409, .440, .488, .908(a), (b) | I-D
Dodecene (all isomers) | B | P | III | NR | Open | Open | A | .409 | I-D
Dodecyl alcohol, see Dodecanol
Dodecylamine, Tetradecylamine mixture | A | S/P | II | 4m | PV | Restr | A, D | .236(b), (c), .409, .526 | NA
Dodecyl­dimethyl­amine, Tetradecyl­dimethyl­amine mixture | A | S/P | II | NR | Open | Open | B, C, D | .236(b), .409 | NA
Dodecyl diphenyl ether disulfonate solution | A | S/P | II | NR | Open | Open | NSR | .409 | NA
Dodecyl hydroxypropyl sulfide | A | P | I | NR | Open | Open | A | .408 | NA
Dodecyl methacrylate | III | S | III | NR | Open | Open | A, C | .236(b), (c), .912(a)(1), .1004 | I-D
Dodecyl-Octadecyl methacrylate mixture | D | S | III | NR | Open | Restr | A, D | .236(b), .912(a)(1), .1002(a), (b), .1004 | NA
Dodecyl-Pentadecyl methacrylate mixture | III | S | III | NR | Open | Open | A, C, D | .912(a)(1), .1002(a), (b), .1004 | NA
Dodecyl phenol | A | P | I | NR | Open | Open | A | .408 | I-D
Drilling brine (containing Zinc salts) | B | P | III | NR | Open | Open | NSR | .409 | NA
Epichlorohydrin | A | S/P | II | B/3 | PV | Closed | A | .316, .408, .525, .526, .527, .1020 | I-C
Ethanolamine | D | S | III | NR | Open | Open | A | .236(b), (c), .526 | I-D
2-Ethoxyethyl acetate | C | P | III | 4m | PV | Restr | A | .409 | I-C
Ethyl acrylate | A | S/P | II | 4m | PV | Restr | A | .409, .526, .527, .912(a)(1), .1002(a), (b), .1004 | I-D
Ethylamine | C | S/P | II | B/3 | PV | Closed | C, D | .236(b), (c), .252, .372, .409, .525, .526, .527, .1020 | I-D
Ethylamine solution (72% or less) | C | S/P | II | B/3 | PV | Closed | A, C | .236(a), (b), (c), (g), .372, .408, .525(a), (c), (d), (e), .526, .527, .1020 | I-D
Ethyl amyl ketone | C | P | III | 4m | PV | Restr | A | .409 | I-D
Ethylbenzene | B | P | III | 4m | PV | Restr | A | .409 | I-D
N-Ethylbutylamine | C | S/P | III | 4m | PV | Restr | A | .236(a), (b), (c), (g), .409, .525(a), (c), (d), (e), .526, .1020 | I-C
Ethyl tert-butyl ether | C | P | III | 4m | PV | Restr | A | .409 | I-C
Ethyl butyrate | C | P | III | 4m | PV | Restr | A | .409 | I-D
Ethylcyclohexane | C | P | III | 4m | PV | Restr | A | .409 | I-D
N-Ethylcyclohexylamine | D | S | III | 4m | PV | Restr | A, C | .236(a), (b), (c), (g), .409, .526 | I-C
S-Ethyl dipropyl­thio­carbamate | C | P | III | NR | Open | Open | A | None | NA
Ethylene chlorohydrin | C | S/P | II | B/3 | PV | Closed | A, D | .316, .408, .525, .526, .527, .933, .1020 | I-D
Ethylene cyanohydrin | D | S | III | NR | Open | Open | A | None | NA
Ethylenediamine | C | S/P | II | 4m | PV | Restr | A | .236(b), (c), .409, .440, .526, .908(b) | I-D
Ethylene dibromide | B | S/P | II | B/3 | PV | Closed | NSR | .408, .440, .525, .526, .527, .908(b), .1020 | NA
Ethylene dichloride | B | S/P | II | 4m | PV | Restr | A, B | .236(b), .408, .526 | I-D
Ethylene glycol butyl ether acetate | C | P | III | NR | Open | Open | A | None | I-C
Ethylene glycol diacetate | C | P | III | NR | Open | Open | A | None | I-D
Ethylene glycol ethyl ether acetate, see 2-Ethoxyethyl acetate
Ethylene glycol methyl ether acetate | C | P | III | NR | Open | Open | A | None | I-C
Ethylene glycol monoalkyl ether | D | S | III | 4m | PV | Restr | A | .409 | I-C
Including:
2-Ethoxyethanol
Ethylene glycol butyl ether
Ethylene glycol tert-butyl ether
Ethylene glycol ethyl ether
Ethylene glycol hexyl ether
Ethylene glycol methyl ether
Ethylene glycol n-propyl ether
Ethylene glycol isopropyl ether
Ethylene oxide (30% or less), Propylene oxide mixture | C | S/P | II | B/3 | PV | Closed | A, C | .252, .372, .408, .440, .500, .525, .526, .530, .1010, .1011, .1020 | I-B
Ethyl ether | III | S | II | 4m | PV | Closed | A | .236(g), .252, .372, .408, .440, .500, .515, .526, .527 | I-C
Ethyl-3-ethoxypropionate | C | P | III | 4m | PV | Restr | A | .409 | NA
2-Ethylhexanol | @C | P | III | NR | Open | Open | A | None | I-D
2-Ethylhexyl acrylate | B | S/P | III | NR | Open | Open | A | .409, .912(a)(1), .1002(a), (b), .1004 | I-D
2-Ethylhexylamine | B | S/P | II | B/3 | PV | Restr | A | .236(b), (c), .409, .525, .526, .1020 | I-D
Ethyl hexyl phthalate | C | P | III | NR | Open | Open | A | None | NA
Ethylidene norbornene | B | S/P | III | B/3 | PV | Restr | A, B, C, D | .236(b), .409, .526 | NA
Ethyl methacrylate | D | S | III | 4m | PV | Restr | A, B, D | .409, .526, .912(a)(1), .1002(a), (b), .1004 | I-D
Ethylphenol | A | S/P | III | NR | Open | Open | B | .409 | I-D
2-Ethyl-3-propylacrolein | A | S/P | III | 4m | PV | Restr | A | .409, .526 | I-C
Ethyl toluene | B | P | III | 4m | PV | Restr | A | .409 | I-D
Ferric chloride solutions | C | S/P | III | NR | Open | Open | NSR | .409, .440, .554, .555, .908(b), .1045 | I-B
Ferric nitrate, Nitric acid solution | C | S/P | II | 4m | PV | Restr | NSR | .408, .526, .527, .554, .555, .559, .933, .1045 | I-B
Fluorosilicic acid (30% or less) | C | S/P | III | B/3 | PV | Restr | NSR | .252, .526, .527, .554, .555, .933, .1045 | I-B
Formaldehyde (50% or more), Methanol mixtures | # | S/P | III | 4m | PV | Closed | A | .409, .526, .527 | I-B
Formaldehyde solution (37% to 50%) | C | S/P | III | 4m | PV | Restr | A | .409, .440, .526, .527, .908(b) | I-B
Formic acid | D | S | III | 4m | PV | Restr | A | .238(b), (c), .409, .526, .527, .554, .933 | I-D
Fumaric adduct of rosin, water dispersion | B | P | III | NR | Open | Open | NSR | .409, .440, .908(a) | NA
Furfural | C | S/P | III | 4m | PV | Restr | A | .409, .526 | I-C
Furfuryl alcohol | C | P | III | NR | Open | Open | A | None | I-C
Glutaraldehyde solution (50% or less) | D | S | III | NR | Open | Open | NSR | None | NA
Glycidyl ester of C10 Trialkyl acetic acid, see Glycidyl ester of Tridecyl acetic acid
Glycidyl ester of Tridecyl acetic acid | B | P | III | NR | Open | Open | A | .409 | NA
Glyoxylic acid solution (50% or less) | D | S | III | NR | Open | Open | A, C, D | .238(e), .554(a), (b), (c), .933, .1002 | NA
Heptane (all isomers), see Alkanes(C6-C9) (all isomers) | C | P | III | 4m | PV | Restr | A | .409 | I-D
Heptanol (all isomers) | C | P | III | 4m | PV | Restr | A | .409 | I-D
Heptene (all isomers) | C | P | III | 4m | PV | Restr | A | .409 | I-D
Heptyl acetate | B | P | III | NR | Open | Open | A | .409 | NA
Hexamethylenediamine (molten) | C | S/P | II | B/3 | PV | Closed | C | .236(a), (b), (c), (g), .316, .336, .409, .440, .525, .526, .527, .908(a), (b), .933, .1020 | NA
Hexamethylenediamine solution | C | S/P | III | 4m | PV | Restr | A | .236(b), (c), .409, .440, .526, .908(b) | I-D
Hexamethylene diisocyanate ⁶. | B | S/P | II | B/3 | PV | Closed | A, C ⁶, D | .238(d), .252, .316, .336, .408, .500, .501, .525, .526, .527, .602, .1000, .1020 | NA
Hexamethyleneimine | C | S/P | II | 4m | PV | Restr | A, C | .236(a), (b), (c), (g), .409, .526 | I-C
Hexane (all isomers), see Alkanes(C6-C9) | C | P | III | 4m | PV | Restr | A | .409 | I-D
Hexene (all isomers) | C | P | III | 4m | PV | Restr | A | .409 | I-D
Hexyl acetate | B | P | III | 4m | PV | Restr | A | .409 | I-D
Hydrochloric acid | D | S | III | 4m | PV | Restr | NSR | .252, .526, .527, .554, .557, .933, .1045, .1052 | I-B
Hydrogen peroxide solutions (over 8% but not over 60%) | C | S/P | III | B/3 | PV | Closed | NSR | .238(a), (c), .355, .409, .440(a)(1)&(2), .500, .933, .1004(a)(2), .1500 | NA
Hydrogen peroxide solutions (over 60% but not over 70%) | C | S/P | II | B/3 | PV | Closed | NSR | .238(a), (c), .355, .409, .440(a)(1)&(2), .500, .933, .1004(a)(2), .1500 | NA
2-Hydroxyethyl acrylate | B | S/P | II | B/3 | PV | Closed | A | .408, .525, .526, .912(a)(1), .933, .1002(a), (b), .1004, .1020 | NA
N,N-bis(2-Hydroxyethyl) oleamide | B | P | II | 4m | PV | Restr | A | .409, .440, .488, .908(a), (b) | NA
2-Hydroxy-4-(methyl­thio)­butanoic acid | C | P | III | NR | Open | Open | A | .440, .903, .908(a) | NA
alpha-hydro-omega-Hydroxy­tetra­deca­(oxytetra methylene), see Poly(tetramethylene ether) glycols (mw 950-1050)
Icosa (oxypropane-2,3-diyl)s | B | P | III | NR | Open | Open | A | .409, .440, .908(a) | NA
Isophorone diamine | D | S | III | 4m | PV | Restr | A | .236(b), (c), .526 | NA
Isophorone diisocyanate ⁶ | B | S/P | II | B/3 | PV | Closed | A, B, C ⁶, D | .236(a), (b), .316, .409, .500, .501, .525, .526, .602, .1000, .1020 | NA
Isoprene | C | S/P | III | 4m | PV | Restr | B | .372, .409, .440, .912(a)(1), .1002(a), (b), .1004 | I-D
Isopropylbenzene, see Propyl­benzene (all isomers)
Lactonitrile solution (80% or less) | B | S/P | II | B/3 | PV | Closed | A, C, D | .238(d), .252, .316, .336, .408, .440, .525, .526, .527, .908(a), .912(a)(2), .1002, .1004, .1020, .1035 | I-D
Lauric acid | B | P | III | NR | Open | Open | A | .409, .440, .488, .908(a), (b) | NA
Lauryl polyglu­cose (50% or less), see Alkyl(C12-C14) polyglucoside solution (55% or less)
Long chain alkaryl polyether (C11-C20) | C | P | III | NR | Open | Open | A, B | (.440, .903, .908(a)) ¹ | NA
Long chain polyetheramine in alkyl(C2-C4)benzenes | C | P | III | 4m | PV | Restr | A | .409, .440, .903, .908(a) | I-D
Magnesium long chain alkyl salicylate (C11+) | C | P | III | NR | Open | Open | A, B | (.440, .903, .908(a)) ¹ | NA
Maleic anhydride ⁷ | D | S | III | 4m | PV | Restr | ⁷A, C | None | I-D
Mercaptobenzothiazol, sodium salt solution, see Sodium-2-mercapto­benzo­thiazol solution
Mesityl oxide | D | S | III | 4m | PV | Restr | A | .236(b), (c), .409, .526 | I-D
Metam sodium solution | A | S/P | II | NR | Open | Open | NSR | .236(a), (b), (c), (g), .409 | NA
Methacrylic acid | D | S | III | 4m | PV | Restr | A | .238(a), .526, .912(a)(1), .1002(a), .1004 | NA
Methacrylic resin in Ethylene dichloride | B | S/P | II | 4m | PV | Restr | A, B | .236(b), .408, .440, .526, .908(a) | I-D
Methacrylonitrile | D | S | II | B/3 | PV | Closed | A | .236(b), .316, .408, .525, .526, .527, .912(a)(1), .1002(a), .1004, .1020 | NA
N-(2-Methoxy-1-methyl ethyl)-2-ethyl-6-methyl chloroacetanilide, see Metola­chlor
Methyl acrylate | B | S/P | II | 4m | PV | Restr | A, B | .409, .526, .527, .912(a)(1), .1002(a), (b), .1004 | I-D
Methylamine solution (42% or less) | C | S/P | II | B/3 | PV | Closed | A, C, D | .236(a), (b), (c), (g), .316, .408, .525, .526, .527, .1020 | I-D
Methylamyl acetate | C | P | III | 4m | PV | Restr | A | .409 | I-D
Methylamyl alcohol | C | P | III | 4m | PV | Restr | A | .409 | I-D
Methyl butyrate | C | P | III | 4m | PV | Restr | A | .409 | I-D
Methylcyclohexane | C | P | III | 4m | PV | Restr | A | .409 | I-D
Methylcyclopentadiene dimer | B | P | III | 4m | PV | Restr | B | .409 | I-B
Methyl diethanolamine | D | S | III | NR | Open | Open | A | .236(b), (c) | I-C
Methylene chloride, see Dichloromethane
2-Methyl-6-ethylaniline | C | S/P | III | NR | Open | Open | A, B, C, D | None | NA
2-Methyl-5-ethylpyridine | B | S/P | III | NR | Open | Open | A, D | .236(b), .409 | I-D
Methyl formate | D | S | II | B/3 | PV | Restr | A | .372, .408, .440, .525, .526, .527, .1020 | I-D
Methyl heptyl ketone | B | P | III | 4m | PV | Restr | A | .409 | I-D
2-Methyl-2-hydroxy-3-butyne | III | S | III | 4m | PV | Restr | A, B, C, D | .236(b), (d), (f), (g), .409, .526 | I-D
Methyl methacrylate | D | S | II | 4m | PV | Restr | A, B | .409, .526, .912(a)(1), .1002(a), (b), .1004 | I-D
Methyl naphthalene (molten) | A | S/P | II | 4m | PV | Restr | A, D | .409 | I-D
2-Methyl-1-pentene (Hexene (all isomers)), see Alkanes(C6-C9)
4-Methyl-1-pentene (Hexene (all isomers)), see Alkanes(C6-C9)
Methyl tert-pentyl ether, see tert-Amyl methyl ether
2-Methylpyridine | D | S | II | B/3 | PV | Closed | A, C | .236(b), .408, .525(a), (c), (d), (e), .1020 | I-D
3-Methylpyridine | C | S/P | II | B/3 | PV | Closed | A, C | .236(b), .408, .525(a), (c), (d), (e), .1020 | I-D
4-Methylpyridine | D | S | II | B/3 | PV | Closed | A, C, D | .236(b), .408, .440, .525(a), (c), (d), (e), .526, .908(b), .1020 | I-D
Methyl salicylate | B | P | III | NR | Open | Open | A | .409 | I-D
alpha-Methylstyrene | A | S/P | III | 4m | PV | Restr | A, D | .409, .526, .912(a)(1), .1002(a), (b), .1004 | I-D
3-(Methylthio) propion­aldehyde | B | S/P | III | B/3 | PV | Closed | B, C | .238(e), .316, .408, .525, .526, .527, .1020 | NA
Metolachlor | B | P | III | NR | Open | Open | A | .409 | NA
Morpholine | D | S | III | 4m | PV | Restr | A | .236(b), (c), .409 | I-C
Motor fuel anti-knock compounds (containing lead alkyls) | A | S/P | I | B/3 | PV | Closed | A, B, C | .252, .316, .336, .408, .525, .526, .527, .933, .1020, .1025 | I-D
Naphthalene (molten) | A | S/P | II | 4m | PV | Restr | A, D | .409, .440, .908(b) | I-D
Naphthalene sulfonic acid, sodium salt solution (40% or less) | [A] | P | III | NR | Open | Open | NSR | .409 | NA
Naphthenic acid | A | P | II | NR | Open | Open | A | .409 | NA
Naphthenic acid, sodium salt solution | [A] | P | II | NR | Open | Open | NSR | .409 | NA
Neodecanoic acid | C | P | III | NR | Open | Open | A | None | NA
Nitrating acid (mixture of sulfuric and nitric acids) | C | S/P | II | B/3 | PV | Closed | NSR | .316, .408, .526, .527, .554, .555, .556, .559, .602, .933, .1000, .1045 | I-B
Nitric acid (70% or less) | C | S/P | II | 4m | PV | Restr | NSR | .408, .526, .527, .554, .555, .559, .933, .1045 | I-B
Nitrobenzene | B | S/P | II | B/3 | PV | Closed | A, D | .316, .336, .408, .440, .525, .526, .908(b), .933, .1020 | I-D
Nitroethane ⁷ | D | S | III | 4m | PV | Restr | ⁷A, C | .236(b), .409, .526, .1002(a), (b), .1003 | I-C
Nitroethane, 1-Nitro­propane (each 15% or more) mixture ⁷ | D | S | III | 4m | PV | Restr | ⁷A | .236(b), .409, .526, .1002 | I-C
o-Nitrophenol (molten) | B | S/P | II | B/3 | PV | Closed | A, C, D | .409, .440, .525, .526, .908(a), (b), .1020 | NA
1- or 2-Nitropropane ⁷ | D | S | III | 4m | PV | Restr | ⁷A, C | .409, .526 | I-C
Nitropropane (60%), Nitroethane (40%) mixture ⁷ | D | S | III | 4m | PV | Restr | ⁷A, C | .236(b), .409, .526 | I-C
Nitropropane (20%), Nitroethane (80%) mixture ⁷ | D | S | III | 4m | PV | Restr | ⁷A, C | .236(b), .409, .526, .1002(a), (b), .1003 | I-C
(o-, p-) Nitrotoluene | B | S/P | II | B/3 | PV | Closed | A, B | .316, .408, .440, .525, .526, .908(b), .1020 | I-D
Nonane (all isomers), see Alkanes(C6-C9) | C | P | III | 4m | PV | Restr | B, C | .409 | I-D
Nonene (all isomers) | B | P | III | 4m | PV | Restr | A | .409 | I-D
Nonyl acetate | C | P | III | NR | Open | Open | A | .409 | I-D
Nonyl alcohol (all isomers) | C | P | III | NR | Open | Open | A | None | I-D
Nonyl phenol | A | P | II | NR | Open | Open | A | .409 | I-D
Nonyl phenol poly(4+)ethoxylates | B | P | III | NR | Open | Open | A | .409, .440, .488 ¹, .908(a), (b) | I-D
Noxious liquid, N.F., (1) n.o.s. (“trade name” contains “principal components”) ST 1, Cat A | A | P | I | NR | Open | Open | A | .408 | NA
Noxious liquid, F., (2) n.o.s. (“trade name” contains “principal components”) ST 1, Cat A | A | P | I | 4m | PV | Restr | A | .408 | NA
Noxious liquid, N.F., (3) n.o.s. (“trade name” contains “principal components”) ST 2, Cat A | A | P | II | NR | Open | Open | A | .409 | NA
Noxious liquid, F., (4) n.o.s. (“trade name” contains “principal components”) ST 2, Cat A | A | P | II | 4m | PV | Restr | A | .409 | NA
Noxious liquid, N.F., (5) n.o.s. (“trade name” contains “principal components”) ST 2, Cat B | B | P | II | NR | Open | Open | A | .409; (.440, .908) ¹ | NA
Noxious liquid, N.F., (6) n.o.s. (“trade name” contains “principal components”) ST 2, Cat B, mp. equal to or greater than 15 deg. C | B | P | II | NR | Open | Open | A | .409, .440, .488, .908(b); (.908(a)) ¹ | NA
Noxious liquid, F., (7) n.o.s. (“trade name” contains “principal components”) ST 2, Cat B | B | P | II | 4m | PV | Restr | A | .409; (.440, .908) ¹ | NA
Noxious liquid, F., (8) n.o.s. (“trade name” contains “principal components”) ST 2, Cat B, mp. equal to or greater than 15 deg. C | B | P | II | 4m | PV | Restr | A | .409, .440, .488, .908(b); (.908(a)) ¹ | NA
Noxious liquid, N.F., (9) n.o.s. (“trade name” contains “principal components”) ST 3, Cat A | A | P | III | NR | Open | Open | A | .409 | NA
Noxious liquid, F., (10) n.o.s. (“trade name” contains “principal components”) ST 3, Cat A | A | P | III | 4m | PV | Restr | A | .409 | NA
Noxious liquid, N.F., (11) n.o.s. (“trade name” contains “principal components”) ST 3, Cat B | B | P | III | NR | Open | Open | A | (.409, .440, .908) ¹ | NA
Noxious liquid, N.F., (12) n.o.s. (“trade name” contains “principal components”) ST 3, Cat B, mp. equal to or greater than 15 deg. C | B | P | III | NR | Open | Open | A | .409, .440, .488, .908(b); (.908(a)) ¹ | NA
Noxious liquid, F., (13) n.o.s. (“trade name” contains “principal components”) ST 3, Cat B | B | P | III | 4m | PV | Restr | A | .409; (.440, .908) ¹ | NA
Noxious liquid, F., (14) n.o.s. (“trade name” contains “principal components”) ST 3, Cat B, mp. equal to or greater than 15 deg. C | B | P | III | 4m | PV | Restr | A | .409, .440, .488, .908(b); (.908(a)) ¹ | NA
Noxious liquid, N.F., (15) n.o.s. (“trade name” contains “principal components”) ST 3, Cat C | C | P | III | NR | Open | Open | A | (.440, .903, .908) ¹ | NA
Noxious liquid, F., (16) n.o.s. (“trade name” contains “principal components”) ST 3, Cat C | C | P | III | 4m | PV | Restr | A | (.440, .903, .908) ¹ | NA
Octane (all isomers), see Alkanes(C6-C9) | C | P | III | 4m | PV | Restr | A | .409 | I-D
Octanol (all isomers) | C | P | III | NR | Open | Open | A | None | I-D
Octene (all isomers) | B | P | III | 4m | PV | Restr | A | .409 | I-D
Octyl acetate | C | P | III | NR | Open | Open | A | None | I-D
Octyl aldehydes | B | P | III | 4m | PV | Restr | A | .409, .440, .908(b) | I-C
Octyl nitrates (all isomers), see Alkyl(C7-C9) nitrates
Olefin mixtures (C5-C7) | C | P | III | 4m | PV | Restr | A | .409 | I-D
Olefin mixtures (C5-C15) | B | P | III | 4m | PV | Restr | A | .409 | I-D
alpha-Olefins (C6-C18) mixtures | B | P | III | 4m | PV | Restr | A | .409, .440, .908(a), (b) | I-D
Oleum | C | S/P | II | B/3 | PV | Closed | NSR | .316, .408, .440, .526, .527, .554, .555, .556, .602, .908(a), .933, .1000, .1045, .1052 | I-B
Oleylamine | A | S/P | II | 4m | PV | Restr | A | .409, .526 | NA
Palm kernel acid oil | C | P | III | NR | Open | Open | A, B | .440, .903, .908(a), (b) | NA
Paraldehyde | C | S/P | III | 4m | PV | Restr | A | .409, .440, .908(b) | I-C
Paraldehyde-ammonia reaction product | C | S/P | II | B/3 | PV | Closed | A | .236 (a), (b), (c), (g), .525(a), (c), (e), .408, .526, .1020 | NA
Pentachloroethane | B | S/P | II | B/3 | PV | Restr | NSR | .316, .409, .525, .526, .1020 | NA
1,3-Pentadiene | C | S/P | III | 4m | PV | Restr | A, B | .409, .526, .912(a)(1), .1002, .1004 | I-D
Pentane (all isomers) | C | P | III | 4m | PV | Restr | A | .372, .409 | I-D
n-Pentanoic acid (64%), 2-Methyl butyric acid (36%) mixture | D | S | II | B/3 | Open | Closed | A, D | .238(a), .408, .525(a), (c), (e), .554, .933, .1020 | I-D
Pentene (all isomers) | C | P | III | 4m | PV | Restr | A | .409 | I-D
n-Pentyl propionate | C | P | III | 4m | PV | Restr | A | .409 | I-D
Perchloroethylene | B | S/P | III | B/3 | PV | Restr | NSR | .409, .526 | NA
Phenol (or solutions with 5% or more Phenol) | C | S/P | II | B/3 | PV | Closed | A | .408, .440, .488, .525, .526, .908(a), (b), .933, .1020 | I-D
1-Phenyl-l-xylyl ethane | C | P | III | NR | Open | Open | A, B | None | NA
Phosphate esters, alkyl(C12-C14)amine | B | P | III | 4m | PV | Restr | A | .409 | NA
Phosphoric acid | D | S | III | NR | Open | Open | NSR | .554, .555, .558, .1045, .1052, .933 | I-B
Phthalic anhydride (molten) | C | S/P | III | 4m | PV | Restr | A, D | .440, .908(a), (b) | I-D
Pinene, see the alpha- or beta- isomers
alpha-Pinene | A | P | III | 4m | PV | Restr | A | .409 | I-D
beta-Pinene | B | P | III | 4m | PV | Restr | A | .409 | I-D
Pine oil | C | P | III | NR | Open | Open | A | .440, .908(a) | I-D
Polyalkyl(C18-C22) acrylate in Xylene | C | P | III | 4m | PV | Restr | A | .409, .440, .903, .908(a) | NA
Polyalkylene oxide polyol | C | P | III | NR | Open | Open | A | .440, .903, .908(a) | NA
Poly(2+)cyclic aromatics | A | P | II | 4m | PV | Restr | A, D | .409 | I-D
Polyethylene polyamines | C | S/P | III | NR | Open | Open | A | .236(b), (c), .400, .440, .908(b) | NA
Polyferric sulfate solution | C | S/P | III | NR | Open | Open | NSR | .238(d) | NA
Polyisobutenamine in aliphatic (C10-C14) solvent | C | P | III | NR | Open | Open | A | .903 | NA
Polymethylene polyphenyl isocyanate ⁶ | D | S | II | B/3 | PV | Closed | A, C ⁶, D | .236(a), (b), .409, .500, .501, .525, .526, .602, .1000, .1020 | NA
Polyolefinamine (C28-C250) | C | P | III | NR | Open | Open | A | None | NA
Polyolefinamine in alkyl(C2-C4)benzenes | C | P | III | 4m | PV | Restr | A | .409, .440, .903, .908(a) | I-D
Polyolefin phos­phoro­sulfide, barium derivative (C28-C250) | C | P | III | NR | Open | Open | A, B | (.440, .903, .908(a)) ¹ | NA
Poly(tetramethylene ether) glycols (mw 950-1050) | B | P | III | NR | Open | Open | A, D | .409, .440, .488, .908(a), (b) | NA
Potassium hydroxide solution, see Caustic potash solution
Potassium oleate | C | P | III | NR | Open | Open | A | .409 | NA
Potassium thiosulfate (50% or less) | C | P | III | NR | Open | Open | NSR | None | NA
iso-Propanolamine | C | S/P | III | NR | Open | Open | A | .236(b), (c), .440, .526, .903, .908(b) | I-D
n-Propanolamine | C | S/P | III | NR | Open | Open | A, D | .236(b), (c), .440, .526, .908(b) | NA
Propionaldehyde | C | S/P | III | 4m | PV | Restr | A | .316, .409, .526, .527 | I-C
Propionic acid | D | S | III | 4m | PV | Restr | A | .238(a), .409, .527, .554, .933 | I-D
Propionic anhydride | C | S/P | III | 4m | PV | Restr | A | .238(a), .526 | I-D
Propionitrile | C | S/P | II | B/3 | PV | Closed | A, D | .252, .316, .336, .408, .525, .526, .527, .1020 | I-D
iso-Propylamine | C | S/P | II | B/3 | PV | Closed | C, D | .236(b), (c), .372, .408, .440, .525, .526, .527, .1020 | I-D
iso-Propylamine solution (70% or less) | C | S/P | II | B/3 | PV | Closed | C, D | .236(a), (b), (c), (g), .408, .440, .525, .526, .527, .1020 | I-D
n-Propylamine | C | S/P | II | B/3 | PV | Closed | A, C, D | .236(b), (c), .408, .500, .525, .526, .527, .1020 | I-D
n-Propylbenzene, see Propylbenzene (all isomers)
Propylbenzene (all isomers) | A | P | III | 4m | PV | Restr | A | .409 | I-D
n-Propyl chloride | D | S | III | 4m | PV | Restr | A, B | .409 | I-D
iso-Propylcyclohexane | C | P | III | 4m | PV | Restr | A | .409, .440, .903, .908(a) | I-D
Propylene dimer | C | P | III | 4m | PV | Restr | A | .409 | NA
Propylene oxide | C | S/P | II | B/3 | PV | Closed | A, C | .372, .408, .440, .500, .526, .530, .1010, .1011 | I-B
Propylene tetramer | B | P | III | 4m | PV | Restr | A | .409 | I-D
Propylene trimer | B | P | III | 4m | PV | Restr | A | .409 | I-D
iso-Propyl ether | D | S | III | 4m | PV | Restr | A | .409, .500, .515, .912(a)(1) | I-D
Pyridine | D | S | III | 4m | PV | Restr | A | .236(b), .409 | I-D
Rosin, see Rosin oil
Rosin oil | B | P | III | NR | Open | Open | A | .409, .440, .488, .908(a), (b) | I-D
Rosin soap (dispro­por­tionated) solution | B | P | III | NR | Open | Open | A | .409 | NA
Sodium alkyl (C14-C17) sulfonates 60-65% solution, see Alkane (C14-C17) sulfonic acid, sodium salt solution
Sodium aluminate solution | D | S | III | NR | Open | Open | NSR | .236(a), (b), (c), (g), .933 | NA
Sodium borohydride (15% or less), Sodium hydroxide solution | C | S/P | III | NR | Open | Open | NSR | .236(a), (b), (c), (g), .440, .908(a), .933 | NA
Sodium chlorate solution (50% or less) | III | S | III | NR | Open | Open | NSR | .409, .933, .1065 | NA
Sodium dichromate solution (70% or less) | C | S/P | II | B/3 | Open | Closed | NSR | .236(b), (c), .408, .525, .933, .1020 | NA
Sodium dimethyl naphthalene sulfonate solution, see Dimethyl naphthalene sulfonic acid, sodium salt solution
Sodium hydrogen sulfide (6% or less), Sodium carbonate (3% or less) solution | B | P | III | NR | Open | Open | NSR | .409 | NA
Sodium hydrogen sulfite solution (45% or less) | D | S | III | NR | Open | Open | NSR | None | NA
Sodium hydrosulfide solution (45% or less) | B | S/P | III | 4m | PV | Restr | NSR | .409, .440, .526, .908(b), .933 | NA
Sodium hydrosulfide, Ammonium sulfide solution | B | S/P | II | B/3 | PV | Closed | A, C | .236(a), (b), (c), (g), .316, .372, .408, .525, .526, .527, .933, .1002, .1020 | NA
Sodium hydroxide solution, see Caustic soda solution
Sodium hypochlorite solution (15% or less) | C | S/P | III | 4m | PV | Restr | NSR | .236(a), (b), .933 | NA
Sodium long chain alkyl salicylate (C13+) | [C] | P | III | NR | Open | Open | A | (.440, .903, .908(a)) ¹ | NA
Sodium-2-mercapto­benzothiazol solution | B | S/P | III | NR | Open | Open | NSR | .236(a), (b), (c), (g), .409, .440, .908(b), .933 | NA
Sodium N-methyl­dithio­carbamate solution, see Metam sodium solution
Sodium naphthalene sulfonate solution (40% or less), see Naphthalene sulfonic acid, sodium salt solution (40% or less)
Sodium naphthenate solution, see Naphthenic acid, sodium salt solution
Sodium nitrite solution | B | S/P | II | NR | Open | Open | NSR | .408, .525(a), (c), (d), (e), .1020 | NA
Sodium petroleum sulfonate | B | S/P | II | NR | Open | Open | A | .409, .440, .908(a) | NA
Sodium silicate solution | C | P | III | NR | Open | Open | A | None | NA
Sodium sulfide solution (15% or less) | B | S/P | III | B/3 | PV | Closed | NSR | .236(a), (b), .409, .440, .526, .908(b) | NA
Sodium sulfite solution (25% or less) | C | P | III | NR | Open | Open | NSR | .409, .440, .908(b) | NA
Sodium tartrates, Sodium succinates solution | D | S | III | NR | Open | Open | A, B | .238(e) | NA
Sodium thiocyanate solution (56% or less) | B | P | III | NR | Open | Open | NSR | .238(a), .409 | NA
Styrene monomer | B | S/P | III | 4m | PV | Restr | A, B | .236(b), .409, .912(a)(1), .1002(a), (b), .1004 | I-D
Sulfohydrocarbon, long chain (C18+) alkylamine mixture | B | P | III | NR | Open | Open | A, B | .409; (.440, .908(a)) ¹ | NA
Sulfur (molten) | III | S | III | NR | Open | Open | NSR | .252, .440, .526, .545 | I-C
Sulfuric acid | C | S/P | III | NR | Open | Open | NSR | .440, .554, .555, .556, .602, .908(a), (b), .933, .1000, .1045, .1046, .1052 | I-B
Tall oil (crude and distilled) | B | P | III | NR | Open | Open | A | .409, .440, .488, .908(a), (b) | NA
Tall oil, fatty acid (resin acids less than 20%) | C | P | III | NR | Open | Open | A | .440, .908(a), (b) | NA
Tall oil fatty acid, barium salt | B | S/P | III | NR | Open | Open | A | .409, .440, .908(a) | NA
Tall oil soap (dispro­por­tionated) solution | B | P | III | NR | Open | Open | A | .409, .440, .908(a), (b) | NA
1,1,2,2-Tetrachloroethane | B | S/P | III | B/3 | PV | Restr | NSR | .316, .409, .525, .526, .1020 | NA
Tetraethylenepentamine ³ | D | S | III | NR | Open | Open | A | .236(b), (c), (g) | I-C
Tetrahydrofuran | D | S | III | 4m | PV | Restr | A, D | .409, .526, .912(a)(2), .1004 | I-C
Tetrahydronaphthalene | C | P | III | NR | Open | Open | A | None | I-D
Tetramethyl­benzene (all isomers) | A | P | III | NR | Open | Open | A | None | I-D
Toluene | C | P | III | 4m | PV | Restr | A | .409 | I-D
Toluenediamine | C | S/P | II | B/3 | PV | Closed | A, B, C, D | .236(a), (b), (c), (g), .316, .408, .440, .525, .526, .527, .908(a), (b), .933, .1020 | NA
Toluene diisocyanate ⁶ | C | S/P | II | 4m | PV | Closed | A, C ⁶, D | .236(b), .316, .408, .440, .500, .501, .525, .526, .527, .602, .908(b), .1000, .1020 | I-D
o-Toluidine | C | S/P | II | B/3 | PV | Closed | A, C | .316, .408, .525, .526, .933, .1020 | I-D
Tributyl phosphate | B | P | III | NR | Open | Open | A | .409 | I-D
1,2,3-Trichlorobenzene (molten) | A | S/P | I | B/3 | PV | Closed | A, C, D | .316, .408, .440, .526, .908(b), .933 | I-D
1,2,4-Trichlorobenzene | B | S/P | II | 4m | PV | Restr | A, B,C, | .409, .440, .526, .908(b), | I-D
1,1,1-Trichloroethane | C | P | III | NR | Open | Open | A | .409 | I-D
1,1,2-Trichloroethane | C | S/P | III | B/3 | PV | Restr | NSR | .409, .525, .526, .933, .1020 | I-D
Trichloroethylene | C | S/P | III | B/3 | PV | Restr | NSR | .316, .409, .525, .526, .1020 | I-D
1,2,3-Trichloropropane | C | S/P | II | B/3 | PV | Closed | A, B, C, D | .316, .408, .525, .526, .933, .1020 | I-D
1,1,2-Trichloro-1,2,2-trifluoroethane | C | P | III | NR | Open | Open | NSR | None | NA
Tricresyl phosphate (less than 1% of the ortho isomer) | A | P | II | NR | Open | Open | A | .409 | I-D
Tricresyl phosphate (1% or more of the ortho isomer) | A | S/P | I | 4m | PV | Closed | A, B | .408, .525(a), (c), (d), (e), .1020 | I-D
Tridecanoic acid | B | P | III | NR | Open | Open | A | .409, .440, .488, .908(a), (b) | NA
Triethanolamine | D | S | III | NR | Open | Open | A | .236(a), (b), (c), (g) | I-C
Triethylamine | C | S/P | II | B/3 | PV | Restr | A, B, C | .236(b), (c), .409, .525, .526, .527, .1020 | I-C
Triethylbenzene | A | P | II | NR | Open | Open | A | .409 | I-D
Triethylene glycol di-(2-ethylbutyrate) | [C] | P | III | NR | Open | Open | A | None | I-C
Triethylenetetramine | D | S | III | NR | Open | Open | A | .236(a), (b), (c) | I-C
Triethyl phosphite | B | S/P | III | B/3 | PV | Restr | A, B, D | .409, .526 | NA
Triisopropylated phenyl phosphates | A | P | II | NR | Open | Open | A | .409 | NA
Trimethylacetic acid | D | S | III | 4m | PV | Restr | A, C | .238(a), .266, .554 | I-D
Trimethylamine solution (30% or less) | C | S/P | II | B/3 | PV | Closed | A, C | .236(a), (b), (c), (g), .372, .408, .440, .525, .526, .527, .908(b), .1020 | I-C
Trimethylbenzene (all isomers) | A | P | III | 4m | PV | Restr | A | .409 | I-D
Trimethylhexamethylenediamine (2,2,4- and 2,4,4- isomers) | D | S | III | NR | Open | Open | A, C | .236(a), (b), (c), (g), .409 | NA
Trimethylhexamethylene diisocyanate (2,2,4- and 2,4,4- isomers) ⁶ | B | S/P | II | B/3 | PV | Closed | A, C ⁶ | .316, .409, .500, .501, .525, .526, .602, .1000, .1020 | NA
2,2,4-Trimethyl-1,3-pentane­diol-1-isobutyrate | C | P | III | NR | Open | Open | A | None | I-D
Trimethyl phosphite | # | S | III | 4m | PV | Restr | A, D | .409, .526, .602, .1000 | I-D
1,3,5-Trioxane | D | S | III | 4m | PV | Restr | A, D | .409 | I-C
Trixylenyl phosphate | A | P | I | NR | Open | Open | A | .408 | NA
Trixylyl phosphate, see Trixylenyl phosphate
Turpentine | B | P | III | 4m | PV | Restr | A | .409 | I-D
Undecanoic acid | B | P | III | NR | Open | Open | A | .440, .908(a), (b) | NA
1-Undecene | B | P | III | NR | Open | Open | A | .409 | I-D
1- Undecyl alcohol | B | P | III | NR | Open | Open | A | .409, .440, .908(b) | I-D
Urea, Ammonium nitrate solution (containing more than 2% NH3) | C | S/P | III | 4m | PV | Restr | A | .236(b), .526 | I-D
Valeraldehyde (all isomers) | C | S/P | III | 4m | PV | Restr | A | .409, .500, .526 | I-C
Vinyl acetate | C | S/P | III | 4m | PV | Restr | A | .409, .912(a)(1), .1002(a), (b), .1004 | I-D
Vinyl ethyl ether | C | S/P | II | 4m | PV | Closed | A | .236(b), (d), (f), (g), .252, .372, .408, .440, .500, .515, .526, .527, .912(a)(1), .1002(a), (b), .1004 | I-C
Vinylidene chloride | D | S | II | 4m | PV | Restr | B | .236(a), (b), .372, .409, .440, .500, .526, .527, .912(a)(1), .1002(a), (b), .1004 | I-D
Vinyl neodecanate | B | S/P | III | NR | Open | Open | A, B | .409, .912(a)(1), .1002(a), (b), .1004 | NA
Vinyltoluene | A | S/P | III | 4m | PV | Restr | A, B, D | .236(a), (b), (c), (g), .409, .912(a)(1), .1002(a), (b), .1004 | I-D
White spirit (low (15-20%) aromatic) | B | P | II | 4m | PV | Restr | A | .409 | NA
Xylenes ⁸ (ortho-, meta-, para-) | C | P | III | 4m | PV | Restr | A | .409, .440, .908(b) ⁸ | I-D
Xylenes, Ethylbenzene (10% or more) mixture | B | P | III | 4m | PV | Restr | A | .409 | NA
Xylenol | B | S/P | III | NR | Open | Open | A, B | .409, .440, .908(a), (b) | NA
Zinc alkaryl dithio­phosphate (C7-C16) | C | P | III | NR | Open | Open | A, B | (.440, .903, .908(a)) ¹ | NA
Zinc alkyl dithio­phosphate (C3-C14) | B | P | III | NR | Open | Open | A, B | .409; (.440, .908(a)) ¹ | NA
Column Heading Footnotes:
a. The cargo name must be as it appears in this column (see 153.900, 153.907). Words in italics are not part of the cargo name but may be used in addition to the cargo name. When one entry references another entry by use of the word “see”, and both names are in roman type, either name may be used as the cargo name (e.g., Diethyl ether, see Ethyl ether). However, the referenced entry is preferred.
The provisions contained in 46 CFR part 197, subpart C, apply to liquid cargoes containing 0.5% or more benzene by volume.
b. This column lists the IMO Annex II Pollution Category.
A, B, C, D—NLS Category of Annex II of MARPOL 73/78.
III—Appendix III of Annex II (non-NLS cargoes) of MARPOL 73/78.
#—No determination of NLS status. For shipping on an oceangoing vessel, see 46 CFR 153.900(c).
[ ]—A NLS category in brackets indicates that the product is provisionally categorized and that further data are necessary to complete the evaluation of its pollution hazards. Until the hazard evaluation is completed, the pollution category assigned is used.
@—The NLS category has been assigned by the U.S. Coast Guard, in absence of one assigned by the IMO. The category is based upon a GESAMP Hazard Profile or by analogy to a closely related product having an NLS assigned.
c. This column lists the hazard(s) of the commodity:
S—The commodity is included because of its safety hazards.
P—The commodity is included because of its pollution hazards.
S/P—The commodity is included because of both its safety and pollution hazards.
d. This column lists the type of containment system the cargo must have (see 153.230 through 153.232).
e. This column lists the height of any vent riser required (see 153.350 and 153.351).
f. This column lists any vent control valve required (see 153.355).
g. This column lists the type of gauging system required (see 153.400 through 153.406).
h. This column lists the type of fire protection system required. Where more than one system is listed, any listed system may be used. A dry chemical system may not be substituted for either type of foam system unless the dry chemical system is listed as an alternative or the substitution is approved by Commandant (G-MSO) (see 153.460). The types are as follows:
A is a foam system for water soluble cargoes (polar solvent foam).
B is a foam system for water insoluble cargoes (non-polar solvent foam).
C is a water spray system.
D is a dry chemical system.
NSR means there is no special requirement applying to fire protection systems.
i. This column lists sections that apply to the cargo in addition to the general requirements of this part. The 153 Part number is omitted.
j. This column lists the electrical hazard class and group used for the cargo when determining requirements for electrical equipment under Subchapter J (Electrical Engineering) of this chapter.
A number of electrical hazard class and group assignments are based upon that which appears in “Classification of Gases, Liquids and Volatile Solids Relative to Explosion-Proof Electrical Equipment”, Publication NMAB 353-5, National Academy Press, 1982, when not appearing in NFPA 497M, “Manual for Classification of Gases, Vapors and Dusts for Electrical Equipment in Hazardous (Classified) Locations.”
The I-B electrical hazard does not apply to weather deck locations (see 46 CFR Part 111) for inorganic acids: Chlorosulfonic acid; Hydrochloric acid; Nitrating acid; Nitric acid (70% or less); Oleum; Phosphoric acid; Sulfuric acid.
Abbreviations used in the Table:
NR—No requirement.
NA—Not applicable.
Abbreviations for Noxious Liquid cargoes:
N.F.—non-flammable (flash point greater than 60 deg C (140 deg F) closed cup (cc)).
F.—flammable (flash point less than or equal to 60 deg C (140 deg F) closed cup (cc)).
n.o.s.—not otherwise specified.
ST—Ship type.
Cat—Pollution category.
Footnotes for Specific Cargoes:
1. Special applicability:
153.440 and .908(a) apply to the chemical, and mixtures containing the chemical, with a viscosity of 25 mPa.s at 20 deg C (68 deg F).
153.440 and .908(b) apply to the chemical, and mixtures containing the chemical, with a melting point of 0 deg C (32 deg F) and above.
153.488 applies to the chemical, and mixtures containing the chemical, with a melting point of 15 deg C (59 deg F) and above.
2. Benzene containing cargoes.
Applies to mixtures containing no other components with safety hazards and where the pollution category is C or less.
3. Diammonium salt of Zinc ethylenediaminetetraacetic acid solution; Tetraethylenepentamine.
Aluminum is a questionable material of construction with this cargo since pitting and corrosion has been reported. The IMO Chemical Code prohibits aluminum as a material of construction for this cargo.
4. 2,4-Dichlorophenol.
Some tank pitting has been reported when this cargo is contaminated with water, including moisture in the air. The IMO Chemical Code requires that the vapor space over this cargo be kept dry.
5. Reserved.
6. Diphenylmethane diisocyanate; Hexamethylene diisocyanate; Isophorone diisocyanate; Polymethylene polyphenyl isocyanate; Toluene diisocyanate; Trimethylhexamethylene diisocyanate (2,2,4- and 2,4,4- isomers).
Water is effective in extinguishing open air fires but will generate hazardous quantities of gas if put on the cargo in enclosed spaces.
7. Maleic anhydride; Nitroethane; Nitroethane, 1-Nitropropane mixtures; 1- or 2-Nitropropane; Nitropropane, Nitroethane mixtures.
Dry chemical extinguishers should not be used on fires involving these cargoes since some dry chemicals may react with the cargo and cause an explosion.
8. Xylenes.
Special requirement .908(b) only applies to the para- (p-) isomer, and mixtures containing the para-isomer having a melting point of 0 deg C (32 deg F) or more.

PART 153 TABLE II—[AMENDED]

20. Amend Table 2 as follows:

a. Change bold-faced type wherever it appears to Roman type; in the column entitled “Cargoes”, remove each bullet “•” that precedes the name of a cargo; and remove the undesignated footnote that reads: “Items with a bullet (•) or in boldface are changes since October 1, 1993”.

b. From the column entitled “Cargoes”, remove the words “Dextrose solution” and add, in their place, the words “Dextrose solution, see Glucose solution”, and beside it in the column entitled “Pollution Category”, remove the number “III”.

c. From the column entitled “Cargoes”, remove the words “Lignin sulfonic acid, sodium salt solution” and add, in their place, the words “Lignin sulfonic acid, sodium salt solution, see also Lignin liquor or Sodium lignosulfonate solution”.

d. In the column entitled “Pollution Category”, beside the entry “Drilling brine (containing Calcium, Potassium, or Sodium Salts)”, add the number “III”.

e. From the column entitled “Cargoes”, remove the words “Pentasodium salt of Diethylenetriamine pentaacetic acid solution, see Diethylenetriamine pentaacetic acid, pentasodium salt solution” and add, in their place, the words “Pentasodium salt of Diethylenetriamine pentaacetic acid solution, see Diethylenetriamine pentaacetic acid, pentasodium salt solution”; and, from beside them in the column entitled “Pollution Category”, remove the number “III”.

f. From the column entitled “Cargoes”, remove the words “Sodium naphthenate solution (free alkali content, 3% or less), see Naphthenic acid, sodium salt solution” and add, in their place, the words “Sodium naphthenate solution (free alkali content, 3% or less), see Naphthenic acid, sodium salt solution”; and, from beside it in the column entitled “Pollution Category”, remove the letter “[A]”.

g. From the column entitled “Cargoes”, remove the words “Tetrasodium salt of Ethylenediaminetetraaacetic acid solution, see Ethylenediaminetetraacetic acid, tetrasodium salt solution” and add, in their place, the words “Tetrasodium salt of Ethylenediaminetetraaacetic acid solution, see Ethylenediaminetetraacetic acid, tetrasodium salt solution”; and, from beside it in the column entitled “Pollution Category”, remove the letter “D”.

h. From the column entitled “Cargoes”, remove the words “Trisodium salt of N-(Hydroxyethyl)ethylenediaminetriacetic acid solution, see N-(Hydroxyethyl)ethylenediamine triacetic acid, trisodium salt solution” and add, in their place, the words “Trisodium salt of N-(Hydroxyethyl)ethylenediamine triacetic acid solution, see N-(Hydroxyethyl)ethylenediamine triacetic acid, trisodium salt solution”; and, from beside it in the column entitled “Pollution Category”, remove the letter “D”.

21. Amend Table 2 by adding the following new entries in chemically proper alphabetized order:

Table 2—Cargoes Not Regulated Under Subchapters D or O of This Chapter When Carried in Bulk on Non-Oceangoing Barges
Cargoes | Pollution category
* * * * *
Ammonium thiosulfate solution (60% or less) | C
* * * * *
Sulfonated polyacrylate solution | III
* * * * *
Titanium dioxide slurry | III
* * * * *

Dated: August 30, 2000.
Joseph J. Angelo,
Director of Standards, Marine Safety and Environmental Protection.

[FR Doc. 00-28387 Filed 11-7-00; 8:45 am]

BILLING CODE 4910-15-U